DEPARTMENT OF JUSTICE

Drug Enforcement Administration

[Docket No. DEA-372]

Exempt Chemical Preparations Under the Controlled Substances Act

AGENCY: Drug Enforcement Administration, Department of Justice.

ACTION: Order with opportunity for comment.

SUMMARY: The applications for exempt chemical preparations received by the Drug Enforcement Administration (DEA) between January 1, 2017, and June 30, 2018, as listed below, were accepted for filing and have been approved or denied as indicated.

DATES: Interested persons may file written comments on this order in accordance with 21 CFR 1308.23(e). Electronic comments must be submitted, and written comments must be postmarked, on or before February 1, 2019. Commenters should be aware that the electronic Federal Docket Management System will not accept comments after 11:59 p.m. Eastern Time on the last day of the comment period.

ADDRESSES: To ensure proper handling of comments, please reference “Docket No. DEA-372” on all correspondence, including any attachments.

• Electronic comments: The DEA encourages that all comments be submitted through the Federal eRulemaking Portal, which provides the ability to type short comments directly into the comment field on the web page or to attach a file for lengthier comments. Please go to http://www.regulations.gov and follow the online instructions at that site for submitting comments. Upon completion of your submission you will receive a Comment Tracking Number for your comment. Please be aware that submitted comments are not instantaneously available for public view on Regulations.gov. If you have received a comment tracking number, your comment has been successfully submitted and there is no need to resubmit the same comment.

• Paper comments: Paper comments that duplicate the electronic submission are not necessary and are discouraged. Should you wish to mail a comment in lieu of an electronic comment, it should be sent via regular or express mail to: Drug Enforcement Administration, Attention: DEA Federal Register Representative/DRW, 8701 Morrissette Drive, Springfield, Virginia 22152.

FOR FURTHER INFORMATION CONTACT: Kathy L. Federico, Regulatory Drafting and Support Section, Diversion Control Division, Drug Enforcement Administration; Mailing Address: 8701 Morrissette Drive, Springfield, Virginia 22152; Telephone: (202) 598-6812.

SUPPLEMENTARY INFORMATION:

Posting of Public Comments

Please note that all comments received are considered part of the public record and made available for public inspection online at http://www.regulations.gov and in the DEA's public docket. Such information includes personal identifying information (such as your name, address, etc.) voluntarily submitted by the commenter. The Freedom of Information Act (FOIA) applies to all comments received.

If you want to submit personal identifying information (such as your name, address, etc.) as part of your comment, but do not want it to be posted online or made available in the public docket, you must include the phrase “PERSONAL IDENTIFYING INFORMATION” in the first paragraph of your comment. You must also place all the personal identifying information you do not want posted online or made available in the public docket in the first paragraph of your comment and identify what information you want redacted.

If you want to submit confidential business information as part of your comment, but do not want it to be posted online or made available in the public docket, you must include the phrase “CONFIDENTIAL BUSINESS INFORMATION” in the first paragraph of your comment. You must also prominently identify confidential business information to be redacted within the comment.

Comments containing personal identifying information and confidential business information identified as directed above will generally be made publicly available in redacted form. If a comment has so much confidential business information that it cannot be effectively redacted, all or part of that comment may not be made publicly available. Comments posted to http://www.regulations.gov may include any personal identifying information (such as name, address, and phone number) included in the text of your electronic submission that is not identified as directed above as confidential.

An electronic copy of this document is available at http://www.regulations.gov for easy reference.

Legal Authority

Section 201 of the Controlled Substances Act (21 U.S.C. 811) authorizes the Attorney General, by regulation, to exempt from certain provisions of the CSA certain compounds, mixtures, or preparations containing a controlled substance, if he finds that such compounds, mixtures, or preparations meet the requirements detailed in 21 U.S.C. 811(g)(3)(B).¹ The DEA regulations at 21 CFR 1308.23 and 1308.24 further detail the criteria by which the DEA Assistant Administrator may exempt a chemical preparation or mixture from certain provisions of the CSA. The Assistant Administrator may, pursuant to 21 CFR 1308.23(f), modify or revoke the criteria by which exemptions are granted and modify the scope of exemptions at any time.

¹ This authority has been delegated from the Attorney General to the Administrator of the DEA by 28 CFR 0.100, and subsequently redelegated to the Deputy Assistant Administrator pursuant to 28 CFR 0.104 and Section 7 of the appendix to subpart R of part 0.

Exempt Chemical Preparation Applications Submitted Between January 1, 2017, and June 30, 2018

The Assistant Administrator received applications between January 1, 2017, and June 30, 2018, requesting exempt chemical preparation status detailed in 21 CFR 1308.23. Pursuant to the criteria stated in 21 U.S.C. 811(g)(3)(B) and in 21 CFR 1308.23, the Assistant Administrator has found that each of the compounds, mixtures, and preparations described in Chart I below is intended for laboratory, industrial, educational, or special research purposes and not for general administration to a human being or animal and either: (1) Contains no narcotic controlled substance and is packaged in such a form or concentration that the packaged quantity does not present any significant potential for abuse; or (2) contains either a narcotic or non-narcotic controlled substance and one or more adulterating or denaturing agents in such a manner, combination, quantity, proportion, or concentration that the preparation or mixture does not present any potential for abuse; if the preparation or mixture contains a narcotic controlled substance, it must be formulated in such a manner that it incorporates methods of denaturing or other means so that the preparation or mixture is not liable to be abused or have ill effects, if abused, and so that, the narcotic substance cannot in practice be removed.

Accordingly, pursuant to 21 U.S.C. 811(g)(3)(B), 21 CFR 1308.23, and 21 CFR 1308.24, the Assistant Administrator has determined that each of the chemical preparations or mixtures generally described in Chart I below and specifically described in the application materials received by the DEA, is exempt, to the extent described in 21 CFR 1308.24, from application of sections 302, 303, 305, 306, 307, 308, 309, 1002, 1003, and 1004 (21 U.S.C. 822-823, 825-829, and 952-954) of the CSA, and 21 CFR 1301.74, as of the date that was provided in the approval letters to the individual requesters.

Chart I
Supplier | Product name | Form | Application date
AAB | Basic & Comprehensive Chemistry | Amber vial: 5 mL | 3/27/2017
AAB | Chemistry, Waived | Amber vial: 5 mL | 3/27/2017
AAB | Fertility-Endocrinology | Amber vial: 5 mL | 3/27/2017
AAB | Special Chemistry | Amber vial: 5 mL | 3/27/2017
AAB | Therapeutic Drug Monitoring | Amber vial: 5 mL | 3/27/2017
AAFP | Cholestech LD/CardioChek | Amber vial: 5 mL | 3/27/2017
AAFP | MultiChem | Amber vial: 5 mL | 3/27/2017
AAFP | Special Chemistry | Amber vial: 5 mL | 3/27/2017
Aalto Scientific, Ltd | Cal Ver LQ Drugs of Abuse Level 2 | Plastic bottle: 4 mL | 9/1/2017
Aalto Scientific, Ltd | Cal Ver LQ Drugs of Abuse Level 3 | Plastic bottle: 4 mL | 9/1/2017
Aalto Scientific, Ltd | Cal Ver LQ Drugs of Abuse Level 4 | Plastic bottle: 4 mL | 9/1/2017
Aalto Scientific, Ltd | Linearity FD Testosterone Siemens Centaur | Kit: 5 vials; 3 mL each | 9/20/2017
Aalto Scientific, Ltd | Linearity LQ Drugs of Abuse, Level A | Amber vial: 5 mL | 1/3/2017
Aalto Scientific, Ltd | Linearity LQ Drugs of Abuse, Level B | Amber vial: 5 mL | 1/3/2017
Aalto Scientific, Ltd | Linearity LQ Drugs of Abuse, Level C | Amber vial: 5 mL | 1/3/2017
Aalto Scientific, Ltd | Linearity LQ Drugs of Abuse, Level D | Amber vial: 5 mL | 1/3/2017
Aalto Scientific, Ltd | Linearity LQ Drugs of Abuse, Level E | Amber vial: 5 mL | 1/3/2017
Accriva Diagnostics, Inc | directCHECK Whole Blood Control (DCJACT-A) | Box: 15 vials; 0.5 mL each | 2/24/2017
Accriva Diagnostics, Inc | directCHECK Whole Blood Control (DCJACT-N) | Box: 15 vials; 0.5 mL each | 2/24/2017
Accriva Diagnostics, Inc | directCHECK Whole Blood Control (DCJAPTT-A) | Box: 15 vials; 0.5 mL each | 2/24/2017
Accriva Diagnostics, Inc | directCHECK Whole Blood Control (DCJAPTT-N) | Box: 15 vials; 0.5 mL each | 2/24/2017
Accriva Diagnostics, Inc | directCHECK Whole Blood Control (DCJCAPTT-A) | Box: 15 vials; 0.5 mL each | 2/24/2017
Accriva Diagnostics, Inc | directCHECK Whole Blood Control (DCJCPT-A) | Box: 15 vials; 0.5 mL each | 2/24/2017
Accriva Diagnostics, Inc | directCHECK Whole Blood Control (DCJCPT-N) | Box: 15 vials; 0.5 mL each | 2/24/2017
Accriva Diagnostics, Inc | directCHECK Whole Blood Control (DCJLR-A) | Box: 15 vials; 0.5 mL each | 2/24/2017
Accriva Diagnostics, Inc | directCHECK Whole Blood Control (DCJLR-N) | Box: 15 vials; 0.5 mL each | 2/24/2017
Accriva Diagnostics, Inc | directCHECK Whole Blood Control (DCJPT-A) | Box: 15 vials; 0.5 mL each | 2/24/2017
Accriva Diagnostics, Inc | directCHECK Whole Blood Control (DCJPT-N) | Box: 15 vials; 0.5 mL each | 2/24/2017
Accriva Diagnostics, Inc | HEMOCHRON ACT Whole Blood Quality Control (QCACT) | Box: 20 vials; 2.0 mL (dried) | 2/24/2017
Accriva Diagnostics, Inc | HEMOCHRON RxDx Whole Blood Quality Control (RQCHRT) | Box: 20 vials; 2.0 mL (dried) | 2/24/2017
Accriva Diagnostics, Inc | HEMOCHRON RxDx Whole Blood Quality Control (RQCPRT) | Box: 20 vials; 2.0 mL (dried) | 2/24/2017
Accriva Diagnostics, Inc | HepCheck Whole Blood Control (DCP214-A) | Box: 15 vials; 0.5 mL each | 2/24/2017
Accriva Diagnostics, Inc | HepCheck Whole Blood Control (DCP214-N) | Box: 15 vials; 0.5 mL each | 2/24/2017
AccuStandard, Inc | CP-8-THC-01S, Delta-8-Tetrahydrocannabinol Standard | Amber ampule: 1 mL | 8/14/2017
AccuStandard, Inc | CP-9-THC-01S, Delta-9-Tetrahydrocannabinol (THC) Standard | Amber ampule: 1 mL | 8/14/2017
AccuStandard, Inc | CP-9-THCA-A-01S, Delta-9-Tetrahydrocannabinolic acid A (THC-A) Standard | Amber ampule: 1 mL | 8/14/2017
AccuStandard, Inc | CP-CANNA-MIX-01, Custom Cannabinoid Mix Standard | Amber ampule: 1 mL | 9/26/2017
AccuStandard, Inc | CP-CBC-01S, Cannabichromene (CBC) Standard | Amber ampule: 1 mL | 8/14/2017
AccuStandard, Inc | CP-CBD-01S, Cannabidiol (CBD) Standard | Amber ampule: 1 mL | 8/14/2017
AccuStandard, Inc | CP-CBDA-01S, Cannabidiolic Acid (CBDA) Standard | Amber ampule: 1 mL | 8/14/2017
AccuStandard, Inc | CP-CBDA-01S-CN, Cannabidiolic Acid Standard | Amber ampule: 1 mL | 8/14/2017
AccuStandard, Inc | CP-CBG-01S, Cannabigerol (CBG) Standard | Amber ampule: 1 mL | 8/14/2017
AccuStandard, Inc | CP-CBN-01S, Cannabinol (CBN) Standard | Amber ampule: 1 mL | 8/14/2017
AccuStandard, Inc | CP-THCV-01S, Tetrahydrocannabivarin (THCV) Standard | Amber ampule: 1 mL | 8/14/2017
Agilent Technologies | Cannabichromene (CBC) (1 mg/mL in Methanol) | Amber ampule: 1 mL | 6/14/2018
Agilent Technologies | Cannabidiol (CBD) (1 mg/mL in Methanol) | Amber ampule: 1 mL | 6/14/2018
Agilent Technologies | Cannabidivarin (CBDV) (1 mg/mL in Methanol) | Amber ampule: 1 mL | 6/14/2018
Agilent Technologies | Cannabigerol (CBG) (1 mg/mL in Methanol) | Amber ampule: 1 mL | 6/14/2018
Agilent Technologies | Cannabigerol Acid (CBGA) (1 mg/mL in Methanol) | Amber ampule: 1 mL | 6/14/2018
Agilent Technologies | Cannabinoid Mix A | Amber ampule: 1 mL | 6/1/2018
Agilent Technologies | Cannabinoid Mix B | Amber ampule: 1 mL | 6/1/2018
Agilent Technologies | Cannabinoid Sub-Mix 1 Standards Kit | Glass ampule: 1 mL | 4/16/2018
Agilent Technologies | Cannabinol (CBN) (1 mg/mL in Methanol) | Amber ampule: 1 mL | 6/14/2018
Agilent Technologies | delta8-Tetrahydrocannabinol | Amber ampule: 1 mL | 6/1/2018
Agilent Technologies | delta8-Tetrahydrocannabinol (delta8-THC) (1 mg/mL in Methanol) | Amber ampule: 1 mL | 6/15/2018
Agilent Technologies | delta9-Tetrahydrocannabinol (delta9-THC) (1 mg/mL in Methanol) | Amber ampule: 1 mL | 6/15/2018
Agilent Technologies | delta9-Tetrahydrocannabinolic acid (THCA) (1 mg/mL in Methanol) | Amber ampule: 1 mL | 6/15/2018
Agilent Technologies | Tetrahydrocannabivarin (THCV) (1 mg/mL in Methanol) | Amber ampule: 1 mL | 6/14/2018
American Proficiency Institute | Chemistry | Amber vial: 5 mL | 3/27/2017
American Proficiency Institute | Immunoassay | Amber vial: 5 mL | 3/27/2017
American Proficiency Institute | Remedial Chemistry | Amber vial: 5 mL | 3/27/2017
American Proficiency Institute | SHBG/Testosterone | Amber vial: 2 mL | 3/27/2017
Biochemical Diagnostics, Inc | Detectabuse Custom Liquid Control Urine, MC259 | Glass vials: 1 ml-800 mL | 1/16/2017
Biochemical Diagnostics, Inc | Detectabuse Custom Liquid Control Urine, MC262 | Glass vials: 5 ml, 10 mL | 3/10/2017
Biochemical Diagnostics, Inc | Detectabuse Custom Liquid Control Urine, MC263 | Glass vials: 5 ml, 10 mL | 3/10/2017
Biochemical Diagnostics, Inc | Detectabuse Custom Liquid Control Urine, MC264 | Glass vials: 5 ml, 10 mL | 3/10/2017
Biochemical Diagnostics, Inc | Detectabuse Custom Liquid Control Urine, MC265 | Glass vials: 20 ml, 50 mL | 11/6/2017
Biocrates Life Sciences AG | AbsoluteIDQ Stero17 Kit | Kit: 3 well plates, glass and plastic vials: 40 ng-50.4 μg | 6/15/2018
Bio-Rad Laboratories | Liquichek Immunoassay Plus Control, Level 1 | Plastic tube: 4 mL; Box: 12 tubes | 4/11/2018
Bio-Rad Laboratories | Liquichek Immunoassay Plus Control, Level 1 | Plastic tube: 4 mL; Box: 12 tubes | 4/11/2018
Bio-Rad Laboratories | Liquichek Immunoassay Plus Control, Level 2 | Plastic tube: 4 mL; Box: 12 tubes | 4/11/2018
Bio-Rad Laboratories | Liquichek Immunoassay Plus Control, Level 2 | Plastic tube: 4 mL; Box: 12 tubes | 4/11/2018
Bio-Rad Laboratories | Liquichek Immunoassay Plus Control, Level 3 | Plastic tube: 4 mL; Box: 12 tubes | 4/11/2018
Bio-Rad Laboratories | Liquichek Immunoassay Plus Control, Level 3 | Plastic tube: 4 mL; Box: 12 tubes | 4/11/2018
Bio-Rad Laboratories | Liquichek Immunoassay Plus Control, Trilevel MiniPak | Box: 3 tubes | 4/11/2018
Bio-Rad Laboratories | Liquichek Immunoassay Plus Control, Trilevel MiniPak | Box: 3 tubes | 4/11/2018
Cambridge Isotope Laboratories, Inc | 11-Ketotestosterone Chemical Purity 95% (16,16,17-D3,98%) 100 µg/mL in Methanol | Glass vial: 1 mL | 2/6/2018
Cambridge Isotope Laboratories, Inc | 19-Nortestosterone (16,16,17-D3,98%) 100 µg/mL in Methanol | Glass vial: 1.2 mL | 2/6/2018
Cambridge Isotope Laboratories, Inc | 19-Nortestosterone Unlabeled 100 µg/mL in Methanol | Glass vial: 1.2 mL | 2/6/2018
Cambridge Isotope Laboratories, Inc | 4-Androstene-3,17-dione (2,3,4-13C3,98%) 100 µg/mL in Methanol | Glass vial: 1 mL | 2/6/2018
Cambridge Isotope Laboratories, Inc | 4-Androstene-3,17-dione (2,3,4-13C3,98%) 1,000 µg/mL in Methanol | Glass vial: 1 mL | 2/6/2018
Cambridge Isotope Laboratories, Inc | 4-Androstene-3,17-dione Unlabeled 100 µg/mL in Methanol | Glass vial: 1 mL | 2/6/2018
Cambridge Isotope Laboratories, Inc | 4-Androstene-3,17-dione Unlabeled 1,000 µg/mL in Methanol | Glass vial: 1 mL | 2/6/2018
Cambridge Isotope Laboratories, Inc | 4-Androstene-6B,17B-diol-3-one (CP95%) (16,16,17-D3, 98%) 100 µg/mL in Methanol | Glass vial: 1 mL | 2/6/2018
Cambridge Isotope Laboratories, Inc | 5A-Androstan-3,17-dione (Androstanedione) Unlabeled 100 µg/mL in Methanol (95% CP) | Glass vial: 1 mL | 2/6/2018
Cambridge Isotope Laboratories, Inc | 5A-Androstan-3A-ol-17B-diol (16,16,17-D3,98%) 100 µg/mL in Methanol | Glass vial: 1 mL | 2/6/2018
Cambridge Isotope Laboratories, Inc | 5A-Androstan-3A-ol-17B-diol Unlabeled 100 µg/mL in Methanol | Glass vial: 1 mL | 2/6/2018
Cambridge Isotope Laboratories, Inc | 5A-Dihydrotestosterone (16,16,17-D3,98%) 100 µg/mL in Methanol | Glass vial: 1 mL | 4/27/2018
Cambridge Isotope Laboratories, Inc | 5A-Dihydrotestosterone (DHT) Unlabeled 1 mg/mL in Methanol | Glass vial: 1 mL | 4/27/2018
Cambridge Isotope Laboratories, Inc | 5-alpha-Dihydrotestosterone 97% CP (2,3,4-13C3,99%) 100 µg/mL in Methanol | Glass vial: 1 mL | 2/6/2018
Cambridge Isotope Laboratories, Inc | 5-alpha-Dihydrotestosterone 97% CP (2,3,4-13C3,99%) 1,000 µg/mL in Methanol | Glass vial: 1 mL | 2/6/2018
Cambridge Isotope Laboratories, Inc | 5-alpha-Dihydrotestosterone Unlabeled 1 mg/mL in Methanol | Glass vial: 1 mL | 2/6/2018
Cambridge Isotope Laboratories, Inc | 5-alpha-Dihydrotestosterone Unlabeled 100 µg/mL in Methanol | Glass vial: 1 mL | 2/6/2018
Cambridge Isotope Laboratories, Inc | Androstene-3,17-dione (2,3,4-13C3, 98%) 100 µg/mL in Acetonitrile | Glass vial: 1 mL | 4/27/2018
Cambridge Isotope Laboratories, Inc | Androstenedione Unlabeled 1 mg/mL in Acetonitrile | Glass vial: 1 mL | 4/27/2018
Cambridge Isotope Laboratories, Inc | Stanozolol Unlabeled 1 mg/mL in 1,2-Dimethoxyethane | Glass vial: 1 mL | 4/27/2018
Cambridge Isotope Laboratories, Inc | Testosterone (16,16,17-D3,98%) 100 µg/mL in Acetonitrile | Glass vial: 1 mL | 4/27/2018
Cambridge Isotope Laboratories, Inc | Testosterone (16,16,17-D3,98%) 100 µg/mL in Methanol | Glass vial: 1 mL | 2/6/2018
Cambridge Isotope Laboratories, Inc | Testosterone (2,2,4,6,6-D5,98%) 100 µg/mL in Methylene Chloride | Glass vial: 1.2 mL | 2/6/2018
Cambridge Isotope Laboratories, Inc | Testosterone (2,3,4-13C3,99%) 100 µg/mL in Methanol | Glass vial: 1 mL | 2/6/2018
Cambridge Isotope Laboratories, Inc | Testosterone (D5,98%) 100 µg/mL in Dioxane | Glass vial: 1.2 mL | 2/6/2018
Cambridge Isotope Laboratories, Inc | Testosterone Undecanoate (16,16,17-D3,98%) 100 µg/mL in Methanol | Glass vial: 1 mL | 2/6/2018
Cambridge Isotope Laboratories, Inc | Testosterone Undecanoate (16,16,17-D3,98%) 1,000 µg/mL in Methanol | Glass vial: 1 mL | 4/27/2018
Cambridge Isotope Laboratories, Inc | Testosterone Undecanoate Unlabeled 100 µg/mL in Methanol | Glass vial: 1 mL | 2/6/2018
Cambridge Isotope Laboratories, Inc | Testosterone Undecanoate Unlabeled 1,000 µg/mL in Methanol | Glass vial: 1 mL | 4/27/2018
Cambridge Isotope Laboratories, Inc | Testosterone Unlabeled 1 mg/mL in Acetonitrile | Glass vial: 1 mL | 4/27/2018
Cambridge Isotope Laboratories, Inc | Testosterone Unlabeled 100 µg/mL in Dioxane | Glass vial: 1.2 mL | 4/27/2018
Cambridge Isotope Laboratories, Inc | Testosterone Unlabeled 100 µg/mL in Methylene Chloride | Glass vial: 1.2 mL | 2/6/2018
Cambridge Isotope Laboratories, Inc | Trenbolone Unlabeled 1 mg/mL in Acetonitrile | Glass vial: 1 mL | 4/27/2018
CAP | Chemistry | Amber vial: 5 mL | 3/27/2017
CAP | Quality Cross-Check | Amber vial: 5 mL | 3/27/2017
CAP | Reproductive Endocrinology CVL | Amber vial: 5 mL | 3/27/2017
Cayman Chemical Company | (−)-Pentazocine; 1 mg/mL in Acetonitrile | Glass ampule: 1 mL | 10/12/2017
Cayman Chemical Company | (−)-Pentazocine; 1 mg/mL in Methanol | Glass ampule: 1 mL | 10/12/2017
Cayman Chemical Company | (−)-Pentazocine; 100 µg/mL in Acetonitrile | Glass ampule: 1 mL | 10/12/2017
Cayman Chemical Company | (−)-Pentazocine; 100 µg/mL in Methanol | Glass ampule: 1 mL | 10/12/2017
Cayman Chemical Company | (+/−)-Cannabichromercin (CRM); 1 mg/mL in Acetonitrile | Glass ampule: 1 mL | 1/19/2018
Cayman Chemical Company | (+/−)-Cannabichromercin (CRM); 1 mg/mL in Methanol | Glass ampule: 1 mL | 1/19/2018
Cayman Chemical Company | (+/−)-Cannabichromercin (CRM); 100 µg/mL in Acetonitrile | Glass ampule: 1 mL | 1/19/2018
Cayman Chemical Company | (+/−)-Cannabichromercin (CRM); 100 µg/mL in Methanol | Glass ampule: 1 mL | 1/19/2018
Cayman Chemical Company | (+/−)-Cannabichromevarin (CRM); 1 mg/mL in Methanol | Glass ampule: 1 mL | 1/19/2018
Cayman Chemical Company | (+/−)-Cannabichromevarin (CRM); 100 µg/mL in Acetonitrile | Glass ampule: 1 mL | 1/19/2018
Cayman Chemical Company | (+/−)-Cannabichromevarin (CRM); 100 µg/mL in Methanol | Glass ampule: 1 mL | 1/19/2018
Cayman Chemical Company | (+/−)Cannabicyclol (CRM); 1 mg/mL in Acetonitrile | Glass ampule: 1 mL | 12/5/2017
Cayman Chemical Company | (+/−)Cannabicyclol (CRM); 1 mg/mL in Methanol | Glass ampule: 1 mL | 12/5/2017
Cayman Chemical Company | (+/−)Cannabicyclol (CRM); 100 µg/mL in Acetonitrile | Glass ampule: 1 mL | 12/5/2017
Cayman Chemical Company | (+/−)Cannabicyclol (CRM); 100 µg/mL in Methanol | Glass ampule: 1 mL | 12/5/2017
Cayman Chemical Company | (+/−)cis-3-methyl Fentanyl (hydrochloride) (CRM); 100 µg/mL in Methanol | Glass ampule: 0.5 mL | 10/12/2017
Cayman Chemical Company | (+/−)cis-3-methyl Fentanyl (hydrochloride) (CRM); 100 µg/mL in Methanol | Glass ampule: 1 mL | 10/12/2017
Cayman Chemical Company | (+/−)cis-3-methyl Thiofentanyl (hydrochloride); 100 µg/mL in Methanol | Glass ampule: 0.5 mL | 10/25/2017
Cayman Chemical Company | (+/−)cis-3-methyl Thiofentanyl (hydrochloride); 100 µg/mL in Methanol | Glass ampule: 1 mL | 10/25/2017
Cayman Chemical Company | (+/−)-threo-Methylphenidate (hydrochloride); 1 mg/mL in Methanol | Glass ampule: 1 mL | 8/18/2017
Cayman Chemical Company | (+/−)-threo-Methylphenidate (hydrochloride); 100 µg/mL in Methanol | Glass ampule: 1 mL | 8/18/2017
Cayman Chemical Company | 6-Acetylcodeine; 1 mg/mL in Acetonitrile | Glass ampule: 1 mL | 8/18/2017
Cayman Chemical Company | 6-Acetylcodeine; 1 mg/mL in Methanol | Glass ampule: 1 mL | 8/18/2017
Cayman Chemical Company | 6-Acetylcodeine; 100 µg/mL in Acetonitrile | Glass ampule: 1 mL | 8/18/2017
Cayman Chemical Company | 6-Acetylcodeine; 100 µg/mL in Methanol | Glass ampule: 1 mL | 8/18/2017
Cayman Chemical Company | AH 7921 (CRM); 1 mg/mL in Methanol | Glass ampule: 1 mL | 4/21/2017
Cayman Chemical Company | AH 7921 (CRM); 100 µg/mL in Methanol | Glass ampule: 1 mL | 4/21/2017
Cayman Chemical Company | Alfentanil (hydrochloride); 100 µg/mL in Methanol | Glass ampule: 0.5 mL | 10/25/2017
Cayman Chemical Company | Alfentanil (hydrochloride); 100 µg/mL in Methanol | Glass ampule: 1 mL | 10/25/2017
Cayman Chemical Company | Amobarbital (CRM); 1 mg/mL in Methanol | Glass ampule: 1 mL | 7/28/2017
Cayman Chemical Company | Amobarbital (CRM); 100 µg/mL in Methanol | Glass ampule: 1 mL | 7/28/2017
Cayman Chemical Company | Barbital (CRM); 1 mg/mL in Methanol | Glass ampule: 1 mL | 7/28/2017
Cayman Chemical Company | Barbital (CRM); 100 µg/mL in Methanol | Glass ampule: 1 mL | 7/28/2017
Cayman Chemical Company | Butabarbital (CRM); 1 mg/mL in Methanol | Glass ampule: 1 mL | 7/28/2017
Cayman Chemical Company | Butabarbital (CRM); 100 µg/mL in Methanol | Glass ampule: 1 mL | 7/28/2017
Cayman Chemical Company | Butalbital (CRM); 1 mg/mL in Methanol | Glass ampule: 1 mL | 7/28/2017
Cayman Chemical Company | Butalbital (CRM); 100 µg/mL in Methanol | Glass ampule: 1 mL | 7/28/2017
Cayman Chemical Company | Butyryl fentanyl (hydrochloride) (CRM); 100 µg/mL in Methanol | Glass ampule: 0.5 mL | 10/12/2017
Cayman Chemical Company | Butyryl fentanyl (hydrochloride) (CRM); 100 µg/mL in Methanol | Glass ampule: 1 mL | 10/12/2017
Cayman Chemical Company | Cannabidivarin (CRM); 1 mg/mL in Methanol | Glass ampule: 1 mL | 11/30/2017
Cayman Chemical Company | Cannabidivarin (CRM); 100 µg/mL in Methanol | Glass ampule: 1 mL | 11/30/2017
Cayman Chemical Company | Carfentanil (CRM); 100 µg/mL in Methanol | Glass ampule: 0.5 mL | 10/12/2017
Cayman Chemical Company | Carfentanil (CRM); 100 µg/mL in Methanol | Glass ampule: 1 mL | 10/12/2017
Cayman Chemical Company | Fenethylline (hydrochloride); 1 mg/mL in Acetonitrile | Glass ampule: 1 mL | 8/18/2017
Cayman Chemical Company | Fenethylline (hydrochloride); 1 mg/mL in Methanol | Glass ampule: 1 mL | 8/18/2017
Cayman Chemical Company | Fenethylline (hydrochloride); 100 µg/mL in Acetonitrile | Glass ampule: 1 mL | 8/18/2017
Cayman Chemical Company | Fenethylline (hydrochloride); 100 µg/mL in Methanol | Glass ampule: 1 mL | 8/18/2017
Cayman Chemical Company | GC-MS Drug Mixture 3 (100 µg/mL in Acetonitrile) | Glass ampule: 1 mL | 2/13/2018
Cayman Chemical Company | Ibogaine; 1 mg/mL in Acetonitrile | Glass ampule: 1 mL | 8/18/2017
Cayman Chemical Company | Ibogaine; 1 mg/mL in Methanol | Glass ampule: 1 mL | 8/18/2017
Cayman Chemical Company | Ibogaine; 100 µg/mL in Acetonitrile | Glass ampule: 1 mL | 8/18/2017
Cayman Chemical Company | Ibogaine; 100 µg/mL in Methanol | Glass ampule: 1 mL | 8/18/2017
Cayman Chemical Company | Isomethadone (hydrochloride); 1 mg/mL in Acetonitrile | Glass ampule: 1 mL | 8/18/2017
Cayman Chemical Company | Isomethadone (hydrochloride); 1 mg/mL in Methanol | Glass ampule: 1 mL | 8/18/2017
Cayman Chemical Company | Isomethadone (hydrochloride); 100 µg/mL in Acetonitrile | Glass ampule: 1 mL | 8/18/2017
Cayman Chemical Company | Isomethadone (hydrochloride); 100 µg/mL in Methanol | Glass ampule: 1 mL | 8/18/2017
Cayman Chemical Company | Ketamine (hydrochloride) (CRM); 1 mg/mL in Methanol | Glass ampule: 1 mL | 3/8/2017
Cayman Chemical Company | Ketamine (hydrochloride) (CRM); 100 µg/mL in Methanol | Glass ampule: 1 mL | 3/8/2017
Cayman Chemical Company | Levorphanol; 1 mg/mL in Acetonitrile | Glass ampule: 1 mL | 8/18/2017
Cayman Chemical Company | Levorphanol; 1 mg/mL in Methanol | Glass ampule: 1 mL | 8/18/2017
Cayman Chemical Company | Levorphanol; 100 µg/mL in Acetonitrile | Glass ampule: 1 mL | 8/18/2017
Cayman Chemical Company | Levorphanol; 100 µg/mL in Methanol | Glass ampule: 1 mL | 8/18/2017
Cayman Chemical Company | MAB-CHMINACA (CRM); 1 mg/mL in Methanol | Glass ampule: 1 mL | 4/21/2017
Cayman Chemical Company | MAB-CHMINACA (CRM); 100 µg/mL in Methanol | Glass ampule: 1 mL | 4/21/2017
Cayman Chemical Company | Methaqualone (CRM); 1 mg/mL in Methanol | Glass ampule: 1 mL | 3/8/2017
Cayman Chemical Company | Methaqualone (CRM); 100 µg/mL in Methanol | Glass ampule: 1 mL | 3/8/2017
Cayman Chemical Company | Methyldienolone (CRM); 1 mg/mL in Acetonitrile | Amber ampule: 1 mL | 4/5/2018
Cayman Chemical Company | Methyldienolone (CRM); 100 µg/mL in Acetonitrile | Amber ampule: 1 mL | 4/5/2018
Cayman Chemical Company | Para-Fluorofentanyl (hydrochloride) (CRM); 100 µg/mL in Methanol | Glass ampule: 0.5 mL | 10/12/2017
Cayman Chemical Company | Para-Fluorofentanyl (hydrochloride) (CRM); 100 µg/mL in Methanol | Glass ampule: 1 mL | 10/12/2017
Cayman Chemical Company | Pentobarbital (CRM); 1 mg/mL in Methanol | Glass ampule: 1 mL | 7/28/2017
Cayman Chemical Company | Pentobarbital (CRM); 100 µg/mL in Methanol | Glass ampule: 1 mL | 7/28/2017
Cayman Chemical Company | Phenobarbital (CRM); 1 mg/mL in Methanol | Glass ampule: 1 mL | 7/28/2017
Cayman Chemical Company | Phenobarbital (CRM); 100 µg/mL in Methanol | Glass ampule: 1 mL | 7/28/2017
Cayman Chemical Company | Phytocannabinoid Mixture 1 (Japan Version); 100 µg/mL each in Acetonitrile | Glass ampule: 1 mL | 3/8/2017
Cayman Chemical Company | Phytocannabinoid Mixture 10; 100 µg/mL ea in Acetonitrile | Glass ampule: 1 mL | 3/8/2017
Cayman Chemical Company | Phytocannabinoid Mixture 10; 250 µg/mL ea in Acetonitrile | Glass ampule: 1 mL | 3/8/2017
Cayman Chemical Company | Phytocannabinoid Mixture 11; 100 µg/mL ea in Acetonitrile | Glass ampule: 1 mL | 3/8/2017
Cayman Chemical Company | Phytocannabinoid Mixture 11; 250 µg/mL ea in Acetonitrile | Glass ampule: 1 mL | 3/8/2017
Cayman Chemical Company | Phytocannabinoid Mixture 4 (CRM); 250 µg/mL ea in Acetonitrile | Amber ampule: 1 mL | 4/5/2018
Cayman Chemical Company | Phytocannabinoid Mixture 4 (CRM); 500 µg/mL ea in Acetonitrile | Amber ampule: 1 mL | 4/5/2018
Cayman Chemical Company | Phytocannabinoid Mixture 4 (CRM); 750 µg/mL ea in Acetonitrile | Amber ampule: 1 mL | 4/5/2018
Cayman Chemical Company | Phytocannabinoid Mixture 5 (CRM); 250 µg/mL ea in Acetonitrile | Amber ampule: 1 mL | 4/5/2018
Cayman Chemical Company | Phytocannabinoid Mixture 5 (CRM); 500 µg/mL ea in Acetonitrile | Amber ampule: 1 mL | 4/5/2018
Cayman Chemical Company | Phytocannabinoid Mixture 6 (CRM); 250 µg/mL ea in Acetonitrile | Amber ampule: 1 mL | 4/5/2018
Cayman Chemical Company | Phytocannabinoid Mixture 6 (CRM); 500 µg/mL ea in Acetonitrile | Amber ampule: 1 mL | 4/5/2018
Cayman Chemical Company | Prazepam (CRM); 1 mg/mL in Methanol | Glass ampule: 1 mL | 7/28/2017
Cayman Chemical Company | Prazepam (CRM); 100 µg/mL in Methanol | Glass ampule: 1 mL | 7/28/2017
Cayman Chemical Company | Remfentanil (hydrochloride); 100 µg/mL in Methanol | Glass ampule: 0.5 mL | 10/25/2017
Cayman Chemical Company | Remfentanil (hydrochloride); 100 µg/mL in Methanol | Glass ampule: 1 mL | 10/25/2017
Cayman Chemical Company | Secobarbital (CRM); 1 mg/mL in Methanol | Glass ampule: 1 mL | 7/28/2017
Cayman Chemical Company | Secobarbital (CRM); 100 µg/mL in Methanol | Glass ampule: 1 mL | 7/28/2017
Cayman Chemical Company | Tetrahydrocannabivarin Acid (CRM); 1 mg/mL in Acetonitrile | Glass ampule: 1 mL | 4/21/2017
Cayman Chemical Company | Tetrahydrocannabivarin Acid (CRM); 100 µg/mL in Acetonitrile | Glass ampule: 1 mL | 4/21/2017
Cayman Chemical Company | Thiofentanyl (hydrochloride); 100 µg/mL in Methanol | Glass ampule: 0.5 mL | 10/25/2017
Cayman Chemical Company | Thiofentanyl (hydrochloride); 100 µg/mL in Methanol | Glass ampule: 1 mL | 10/25/2017
Cayman Chemical Company | α-methyl Acetyl fentanyl (hydrochloride); 100 µg/mL in Methanol | Glass ampule: 0.5 mL | 10/25/2017
Cayman Chemical Company | α-methyl Acetyl fentanyl (hydrochloride); 100 µg/mL in Methanol | Glass ampule: 1 mL | 10/25/2017
Cayman Chemical Company | α-methyl Fentanyl (hydrochloride) (CRM); 100 µg/mL in Methanol | Glass ampule: 0.5 mL | 10/25/2017
Cayman Chemical Company | α-methyl Fentanyl (hydrochloride) (CRM); 100 µg/mL in Methanol | Glass ampule: 1 mL | 10/25/2017
Cayman Chemical Company | α-methyl Thiofentanyl (hydrochloride); 100 µg/mL in Methanol | Glass ampule: 0.5 mL | 10/25/2017
Cayman Chemical Company | α-methyl Thiofentanyl (hydrochloride); 100 µg/mL in Methanol | Glass ampule: 1 mL | 10/25/2017
Cayman Chemical Company | β-hydroxy Fentanyl (hydrochloride); 100 µg/mL in Methanol | Glass ampule: 0.5 mL | 10/25/2017
Cayman Chemical Company | β-hydroxy Fentanyl (hydrochloride); 100 µg/mL in Methanol | Glass ampule: 1 mL | 10/25/2017
Cayman Chemical Company | Β-Hydroxythiofentanyl (hydrochloride) (CRM); 100 µg/mL in Methanol | Glass ampule: 0.5 mL | 10/12/2017
Cayman Chemical Company | Β-Hydroxythiofentanyl (hydrochloride) (CRM); 100 µg/mL in Methanol | Glass ampule: 1 mL | 10/12/2017
Cerilliant Corporation | (±)beta-Hydroxythiofentanyl HCl | Glass ampule: 0.5 mL | 5/26/2017
Cerilliant Corporation | (±)-beta-Hydroxythiofentanyl HCl (sum of diastereomers) (0.1 mg/mL) | Glass ampule: 0.5 mL | 3/7/2017
Cerilliant Corporation | 4-ANPP (0.1 mg/mL) | Glass ampule: 0.5 mL | 5/26/2017
Cerilliant Corporation | 4-ANPP-D5 (0.1 mg/mL) | Glass ampule: 0.5 mL | 11/3/2017
Cerilliant Corporation | 4-Fluoroisobutyryl fentanyl (0.1 mg/mL) | Glass ampule: 0.5 mL | 8/28/2017
Cerilliant Corporation | 5F-MDMB-PINACA (0.1 mg/mL) | Glass ampule: 1 mL | 5/26/2017
Cerilliant Corporation | AB-CHMINACA (0.1 mg/mL) | Glass ampule: 1 mL | 5/26/2017
Cerilliant Corporation | Acryl fentanyl HCl (0.1 mg/mL) | Glass ampule: 0.5 mL | 8/8/2017
Cerilliant Corporation | Acryl fentanyl-D5 HCl (0.1 mg/mL) | Glass ampule: 0.5 mL | 11/3/2017
Cerilliant Corporation | ADB-FUBINACA (0.1 mg/mL) | Glass ampule: 1 mL | 5/26/2017
Cerilliant Corporation | alpha-Methylfentanyl HCl (0.1 mg/mL) | Glass ampule: 0.5 mL | 3/8/2018
Cerilliant Corporation | alpha-Methylfentanyl-D5 HCl (0.1 mg/mL) | Glass ampule: 0.5 mL | 3/8/2018
Cerilliant Corporation | Aprobarbital (1 mg/mL) | Glass ampule: 1 mL | 8/8/2017
Cerilliant Corporation | Aprobarbital-D7 (0.1 mg/mL) | Glass ampule: 1 mL | 4/11/2018
Cerilliant Corporation | Barbital (1 mg/mL) | Glass ampule: 1 mL | 8/8/2017
Cerilliant Corporation | Butyryl fentanyl-D5 (0.1 mg/mL) | Glass ampule: 0.5 mL | 4/11/2018
Cerilliant Corporation | Camazepam (1 mg/mL) | Glass ampule: 1 mL | 11/3/2017
Cerilliant Corporation | Cannabicyclolic acid (CBLA) (0.5 mg/mL) | Glass ampule: 1 mL | 8/8/2017
Cerilliant Corporation | Cannabinolic acid (CBNA) (1 mg/mL) | Glass ampule: 1 mL | 4/3/2017
Cerilliant Corporation | cis-Tramadol-13C,D3 HCl (0.1 mg/mL) | Glass ampule: 1 mL | 5/4/2017
Cerilliant Corporation | cis-Tramadol-13C,D3 HCl (1.0 mg/mL) | Glass ampule: 1 mL | 5/4/2017
Cerilliant Corporation | Cyclopropyl fentanyl HCl (0.1 mg/mL) | Glass ampule: 0.5 mL | 2/8/2018
Cerilliant Corporation | Delorazepam-D4 (0.1 mg/mL) | Glass ampule: 1 mL | 10/18/2017
Cerilliant Corporation | Delta9-Tetrahydrocannabinol (1 mg/mL) | Glass ampule: 1 mL | 5/23/2018
Cerilliant Corporation | Dexmethylphenidate HCl (1 mg/mL) | Glass ampule: 1 mL | 5/23/2018
Cerilliant Corporation | Dibutylone-D3 HCl (0.1 mg/mL) | Glass ampule: 1 mL | 8/28/2017
Cerilliant Corporation | Dihydrotestosterone CRM (100 pg/mL) | Glass ampule: 1 mL | 9/12/2017
Cerilliant Corporation | Dihydrotestosterone CRM (1,000 pg/mL) | Glass ampule: 1 mL | 9/12/2017
Cerilliant Corporation | Dihydrotestosterone CRM (10,000 pg/mL) | Glass ampule: 1 mL | 9/12/2017
Cerilliant Corporation | Dihydrotestosterone CRM (20 pg/mL) | Glass ampule: 1 mL | 9/12/2017
Cerilliant Corporation | Dihydrotestosterone CRM (2,500 pg/mL) | Glass ampule: 1 mL | 9/12/2017
Cerilliant Corporation | Dihydrotestosterone CRM (50 pg/mL) | Glass ampule: 1 mL | 9/12/2017
Cerilliant Corporation | Dihydrotestosterone CRM (500 pg/mL) | Glass ampule: 1 mL | 9/12/2017
Cerilliant Corporation | Fenproporex HCl (1 mg/mL) | Glass ampule: 1 mL | 4/11/2018
Cerilliant Corporation | Fenproporex-D5 HCl (0.1 mg/mL) | Glass ampule: 1 mL | 4/11/2018
Cerilliant Corporation | Furanyl fentanyl HCl (0.1 mg/mL) | Glass ampule: 0.5 mL | 1/23/2017
Cerilliant Corporation | Furanyl fentanyl-D5 HCl (0.1 mg/mL) | Glass ampule: 0.5 mL | 11/3/2017
Cerilliant Corporation | Isobutyryl fentanyl HCl (0.1 mg/mL) | Glass ampule: 0.5 mL | 2/8/2018
Cerilliant Corporation | Loprazolam (1 mg/mL) | Glass ampule: 1 mL | 11/3/2017
Cerilliant Corporation | Lormetazepam-13C,D3 (0.1 mg/mL) | Glass ampule: 1 mL | 4/11/2018
Cerilliant Corporation | MAB-CHMINACA (0.1 mg/mL) | Glass ampule: 1 mL | 5/26/2017
Cerilliant Corporation | Mazindol (1 mg/mL) | Glass ampule: 1 mL | 4/11/2018
Cerilliant Corporation | Mazindol-D4 (1 mg/mL) | Glass ampule: 1 mL | 4/11/2018
Cerilliant Corporation | MDMB-FUBINACA (0.1 mg/mL) | Glass ampule: 1 mL | 3/8/2018
Cerilliant Corporation | Medazepam (1 mg/mL) | Glass ampule: 1 mL | 11/3/2017
Cerilliant Corporation | MT-45 diHCl (1 mg/mL) | Glass ampule: 1 mL | 4/11/2018
Cerilliant Corporation | Ocfentanil (0.1 mg/mL) | Glass ampule: 0.5 mL | 3/8/2018
Cerilliant Corporation | para-Fluorobutyryl fentanyl (PFBF) (0.1 mg/mL) | Glass ampule: 0.5 mL | 2/8/2018
Cerilliant Corporation | para-Fluorofentanyl (0.1 mg/mL) | Glass ampule: 0.5 mL | 5/4/2017
Cerilliant Corporation | para-Fluorofentanyl-D3 (0.1 mg/mL) | Glass ampule: 0.5 mL | 6/19/2018
Cerilliant Corporation | para-Fluorofentanyl-D5 (0.1 mg/mL) | Glass ampule: 0.5 mL | 4/11/2018
Cerilliant Corporation | Perampanel-D4 (0.1 mg/mL) | Glass ampule: 1 mL | 5/26/2017
Cerilliant Corporation | Phendimetrazine tartrate (1.0 mg/mL) | Glass ampule: 1 mL | 5/4/2017
Cerilliant Corporation | Phenmetrazine HCl (1.0 mg/mL) | Glass ampule: 1 mL | 5/4/2017
Cerilliant Corporation | Phenmetrazine-D5 HCl (0.1 mg/mL) | Glass ampule: 1 mL | 5/4/2017
Cerilliant Corporation | p-Hydroxycocaine HCl (1 mg/mL) | Glass ampule: 1 mL | 2/8/2018
Cerilliant Corporation | Suvorexant-D6 (0.1 mg/mL) | Glass ampule: 1 mL | 8/28/2017
Cerilliant Corporation | Testosterone CRM in Serum (150 ng/dL) | Vial: 1 mL | 3/22/2017
Cerilliant Corporation | Testosterone CRM in Serum (17.5 ng/dL) | Vial: 1 mL | 3/22/2017
Cerilliant Corporation | Testosterone CRM in Serum (2 ng/dL) | Vial: 1 mL | 3/22/2017
Cerilliant Corporation | Testosterone CRM in Serum (2,000 ng/dL) | Vial: 1 mL | 3/22/2017
Cerilliant Corporation | Testosterone CRM in Serum (35 ng/dL) | Vial: 1 mL | 3/22/2017
Cerilliant Corporation | Testosterone CRM in Serum (4 ng/dL) | Vial: 1 mL | 3/22/2017
Cerilliant Corporation | Testosterone CRM in Serum (500 ng/dL) | Vial: 1 mL | 3/22/2017
Cerilliant Corporation | Testosterone CRM in Serum (52.5 ng/dL) | Vial: 1 mL | 3/22/2017
Cerilliant Corporation | Testosterone CRM in Serum (750 ng/dL) | Vial: 1 mL | 3/22/2017
Cerilliant Corporation | Testosterone CRM in Serum (9 ng/dL) | Vial: 1 mL | 3/22/2017
Cerilliant Corporation | Tetrahydrocannabivarinic Acid (1.0 mg/mL) | Glass vial: 1 mL | 1/23/2017
Cerilliant Corporation | Tetrazepam (1 mg/mL) | Glass ampule: 1 mL | 1/9/2018
Cerilliant Corporation | U-47700-D3 (0.1 mg/mL) | Glass ampule: 1 mL | 1/9/2018
Cerilliant Corporation | Valeryl fentanyl HCl (0.1 mg/mL) | Glass ampule: 0.5 mL | 3/8/2018
Cerilliant Corporation | Valeryl fentanyl-D5 HCl (0.1 mg/mL) | Glass ampule: 0.5 mL | 3/8/2018
Chemtos, LLC | 6-Acetylcodeine (CRM) (1 mg/mL in acetonitrile) | Amber vial: 1 mL | 4/27/2018
Chemtos, LLC | 6-Acetylmorphine (CRM) (1 mg/mL in acetonitrile) | Amber vial: 1 mL | 4/27/2018
Chemtos, LLC | 6-Acetylmorphine-d3 (CRM) (0.1 mg/mL in acetonitrile) | Amber vial: 1 mL | 4/27/2018
Chemtos, LLC | 6-Acetylmorphine-d3 (CRM) (1 mg/mL in acetonitrile) | Amber vial: 1 mL | 4/27/2018
Chemtos, LLC | Alprazolam (CRM) (0.1 mg/mL in methanol) | Amber vial: 1 mL | 4/27/2018
Chemtos, LLC | Alprazolam-d5 (CRM) (0.1 mg/mL in methanol) | Amber vial: 1 mL | 7/19/2017
Chemtos, LLC | Amobarbital (CRM) (1 mg/mL in methanol) | Amber vial: 1 mL | 4/27/2018
Chemtos, LLC | Amobarbital-d5 (CRM) (0.1 mg/mL in methanol) | Amber vial: 1 mL | 4/27/2018
Chemtos, LLC | Amobarbital-d5 (CRM) (1 mg/mL in methanol) | Amber vial: 1 mL | 4/27/2018
Chemtos, LLC | Amphetamine (CRM) (1 mg/mL in methanol) | Amber vial: 1 mL | 7/19/2017
Chemtos, LLC | Amphetamine-d5 (CRM) (0.1 mg/mL in methanol) | Amber vial: 1 mL | 7/19/2017
Chemtos, LLC | Amphetamine-d5 (CRM) (1 mg/mL in methanol) | Amber vial: 1 mL | 7/19/2017
Chemtos, LLC | Butalbital (CRM) (1 mg/mL in methanol) | Amber vial: 2 mL | 5/22/2017
Chemtos, LLC | Butalbital-d5 (CRM) (0.1 mg/mL in methanol) | Amber vial: 2 mL | 5/22/2017
Chemtos, LLC | Butalbital-d5 (CRM) (1 mg/mL in methanol) | Amber vial: 2 mL | 5/22/2017
Chemtos, LLC | Chlorphentermine (CRM) (1 mg/mL in methanol) | Amber vial: 1 mL | 7/19/2017
Chemtos, LLC | Chlorphentermine-d6 (CRM) (0.1 mg/mL in methanol) | Amber vial: 1 mL | 7/19/2017
Chemtos, LLC | Chlorphentermine-d6 (CRM) (1 mg/mL in methanol) | Amber vial: 1 mL | 7/19/2017
Chemtos, LLC | Cocaine (CRM) (1 mg/mL in acetonitrile) | Amber vial: 1 mL | 7/19/2017
Chemtos, LLC | Cocaine-d3 (CRM) (0.1 mg/mL in acetonitrile) | Amber vial: 1 mL | 7/19/2017
Chemtos, LLC | Cocaine-d3 (CRM) (1 mg/mL in acetonitrile) | Amber vial: 1 mL | 7/19/2017
Chemtos, LLC | Codeine (CRM) (1 mg/mL in methanol) | Amber vial: 1 mL | 7/19/2017
Chemtos, LLC | Codeine-d6 (CRM) (0.1 mg/mL in methanol) | Amber vial: 1 mL | 7/19/2017
Chemtos, LLC | Codeine-d6 (CRM) (1 mg/mL in methanol) | Amber vial: 1 mL | 7/19/2017
Chemtos, LLC | Diazepam (CRM) (1 mg/mL in methanol) | Amber vial: 2 mL | 5/22/2017
Chemtos, LLC | Diazepam-d5 (CRM) (0.1 mg/mL in methanol) | Amber vial: 2 mL | 5/22/2017
Chemtos, LLC | Diazepam-d5 (CRM) (1 mg/mL in methanol) | Amber vial: 2 mL | 5/22/2017
Chemtos, LLC | Diethylpropion (CRM) (1 mg/mL in methanol) | Amber vial: 1 mL | 7/19/2017
Chemtos, LLC | Diethylpropion-d5 (CRM) (0.1 mg/mL in methanol) | Amber vial: 1 mL | 7/19/2017
Chemtos, LLC | Diethylpropion-d5 (CRM) (1 mg/mL in methanol) | Amber vial: 1 mL | 7/19/2017
Chemtos, LLC | D-Threo-Methylphenidate (CRM) (1 mg/mL in methanol) | Amber vial: 2 mL | 5/22/2017
Chemtos, LLC | Ethylone (bk-MDEA) (CRM) (1 mg/mL in methanol) | Amber vial: 1 mL | 7/19/2017
Chemtos, LLC | Ethylone-d5 (bk-MDEA-d5) (CRM) (0.1 mg/mL in methanol) | Amber vial: 1 mL | 7/19/2017
Chemtos, LLC | Ethylone-d5 (bk-MDEA-d5) (CRM) (1 mg/mL in methanol) | Amber vial: 1 mL | 7/19/2017
Chemtos, LLC | Heroin (CRM) (1 mg/mL in acetonitrile) | Amber vial: 1 mL | 4/27/2018
Chemtos, LLC | Heroin-d9 (CRM) (0.1 mg/mL in acetonitrile) | Amber vial: 1 mL | 4/27/2018
Chemtos, LLC | Heroin-d9 (CRM) (1 mg/mL in acetonitrile) | Amber vial: 1 mL | 4/27/2018
Chemtos, LLC | Hydrocodone (CRM) (1 mg/mL in methanol) | Amber vial: 1 mL | 7/19/2017
Chemtos, LLC | Hydrocodone-d3 (CRM) (0.1 mg/mL in methanol) | Amber vial: 1 mL | 7/19/2017
Chemtos, LLC | Hydrocodone-d3 (CRM) (1 mg/mL in methanol) | Amber vial: 1 mL | 7/19/2017
Chemtos, LLC | Hydromorphone (CRM) (1 mg/mL in methanol) | Amber vial: 1 mL | 7/19/2017
Chemtos, LLC | Hydromorphone-d3 (CRM) (0.1 mg/mL in methanol) | Amber vial: 1 mL | 7/19/2017
Chemtos, LLC | Hydromorphone-d3 (CRM) (1 mg/mL in methanol) | Amber vial: 1 mL | 7/19/2017
Chemtos, LLC | JWH-073 (CRM) (0.1 mg/mL in methanol) | Amber vial: 1 mL | 4/27/2018
Chemtos, LLC | Lisdexamfetamine dimesylate (CRM) (1 mg/mL in methanol) | Amber vial: 1 mL | 7/19/2017
Chemtos, LLC | Lisdexamfetamine-d3 dimesylate (CRM) (0.1 mg/mL in methanol) | Amber vial: 1 mL | 7/19/2017
Chemtos, LLC | Lisdexamfetamine-d3 dimesylate (CRM) (1 mg/mL in methanol) | Amber vial: 1 mL | 7/19/2017
Chemtos, LLC | L-Threo-Methylphenidate (CRM) (1 mg/mL in methanol) | Amber vial: 2 mL | 5/22/2017
Chemtos, LLC | MDA (CRM) (1 mg/mL in methanol) | Amber vial: 2 mL | 5/22/2017
Chemtos, LLC | MDA-d5 (CRM) (0.1 mg/mL in methanol) | Amber vial: 2 mL | 5/22/2017
Chemtos, LLC | MDA-d5 (CRM) (1 mg/mL in methanol) | Amber vial: 2 mL | 5/22/2017
Chemtos, LLC | MDEA (CRM) (1 mg/mL in methanol) | Amber vial: 2 mL | 5/22/2017
Chemtos, LLC | MDEA-d5 (CRM) (0.1 mg/mL in methanol) | Amber vial: 2 mL | 5/22/2017
Chemtos, LLC | MDEA-d5 (CRM) (1 mg/mL in methanol) | Amber vial: 2 mL | 5/22/2017
Chemtos, LLC | MDMA (CRM) (1 mg/mL in methanol) | Amber vial: 1 mL | 4/27/2018
Chemtos, LLC | MDMA-d3 (CRM) (0.1 mg/mL in methanol) | Amber vial: 1 mL | 4/27/2018
Chemtos, LLC | MDMA-d3 (CRM) (1 mg/mL in methanol) | Amber vial: 1 mL | 4/27/2018
Chemtos, LLC | MDPV (CRM) (1 mg/mL in methanol) | Amber vial: 1 mL | 7/19/2017
Chemtos, LLC | MDPV-d8 (CRM) (0.1 mg/mL in methanol) | Amber vial: 1 mL | 7/19/2017
Chemtos, LLC | MDPV-d8 (CRM) (1 mg/mL in methanol) | Amber vial: 1 mL | 7/19/2017
Chemtos, LLC | Meperidine (CRM) (1 mg/mL in methanol) | Amber vial: 1 mL | 7/19/2017
Chemtos, LLC | Meperidine-d4 (CRM) (0.1 mg/mL in methanol) | Amber vial: 1 mL | 7/19/2017
Chemtos, LLC | Meperidine-d4 (CRM) (1 mg/mL in methanol) | Amber vial: 1 mL | 7/19/2017
Chemtos, LLC | Mephedrone (4-MMC) (CRM) (1 mg/mL in methanol) | Amber vial: 2 mL | 5/22/2017
Chemtos, LLC | Mephedrone-d3 (4-MMC-d3) (CRM) (0.1 mg/mL in methanol) | Amber vial: 2 mL | 5/22/2017
Chemtos, LLC | Mephedrone-d3 (4-MMC-d3) (CRM) (1 mg/mL in methanol) | Amber vial: 2 mL | 5/22/2017
Chemtos, LLC | Methadone (CRM) (1 mg/mL in methanol) | Amber vial: 2 mL | 5/22/2017
Chemtos, LLC | Methadone-d3 (CRM) (0.1 mg/mL in methanol) | Amber vial: 2 mL | 5/22/2017
Chemtos, LLC | Methadone-d3 (CRM) (1 mg/mL in methanol) | Amber vial: 2 mL | 5/22/2017
Chemtos, LLC | Methamphetamine (CRM) (1 mg/mL in methanol) | Amber vial: 1 mL | 7/19/2017
Chemtos, LLC | Methamphetamine-d5 (CRM) (0.1 mg/mL in methanol) | Amber vial: 1 mL | 7/19/2017
Chemtos, LLC | Methamphetamine-d5 (CRM) (1 mg/mL in methanol) | Amber vial: 1 mL | 7/19/2017
Chemtos, LLC | Methylone (MDMC) (CRM) (1 mg/mL in acetonitrile) | Amber vial: 1 mL | 7/19/2017
Chemtos, LLC | Methylone-d3 (MDMC-d3) (CRM) (0.1 mg/mL in acetonitrile) | Amber vial: 1 mL | 7/19/2017
Chemtos, LLC | Methylone-d3 (MDMC-d3) (CRM) (1 mg/mL in acetonitrile) | Amber vial: 1 mL | 7/19/2017
Chemtos, LLC | Morphine (CRM) (1 mg/mL in methanol) | Amber vial: 1 mL | 7/19/2017
Chemtos, LLC | Morphine (CRM) (1 mg/mL in methanol) | Amber vial: 1 mL | 4/27/2018
Chemtos, LLC | Morphine-d3 (CRM) (1 mg/mL in methanol) | Amber vial: 1 mL | 7/19/2017
Chemtos, LLC | Morphine-d3 (CRM) (1 mg/mL in methanol) | Amber vial: 1 mL | 7/19/2017
Chemtos, LLC | Morphine-d3 (CRM) (0.1 mg/mL in methanol) | Amber vial: 1 mL | 4/27/2018
Chemtos, LLC | Morphine-d3 (CRM) (1 mg/mL in methanol) | Amber vial: 1 mL | 4/27/2018
Chemtos, LLC | N-Ethylcathinone (CRM) (1 mg/mL in methanol) | Amber vial: 1 mL | 7/19/2017
Chemtos, LLC | N-Ethylcathinone-d5 (CRM) (0.1 mg/mL in methanol) | Amber vial: 1 mL | 7/19/2017
Chemtos, LLC | N-Ethylcathinone-d5 (CRM) (1 mg/mL in methanol) | Amber vial: 1 mL | 7/19/2017
Chemtos, LLC | Nimetazepam (CRM) (1 mg/mL in methanol) | Amber vial: 2 mL | 5/22/2017
Chemtos, LLC | Nimetazepam-d5 (CRM) (0.1 mg/mL in methanol) | Amber vial: 2 mL | 5/22/2017
Chemtos, LLC | Nimetazepam-d5 (CRM) (1 mg/mL in methanol) | Amber vial: 2 mL | 5/22/2017
Chemtos, LLC | Nitrazepam (CRM) (1 mg/mL in acetonitrile) | Amber vial: 2 mL | 5/22/2017
Chemtos, LLC | Nitrazepam-d5 (CRM) (0.1 mg/mL in acetonitrile) | Amber vial: 2 mL | 5/22/2017
Chemtos, LLC | Nitrazepam-d5 (CRM) (1 mg/mL in acetonitrile) | Amber vial: 2 mL | 5/22/2017
Chemtos, LLC | Norcodeine (CRM) (1 mg/mL in methanol) | Amber vial: 1 mL | 7/19/2017
Chemtos, LLC | Norcodeine-d3 (CRM) (0.1 mg/mL in methanol) | Amber vial: 1 mL | 7/19/2017
Chemtos, LLC | Norcodeine-d3 (CRM) (1 mg/mL in methanol) | Amber vial: 1 mL | 7/19/2017
Chemtos, LLC | Nordazepam (CRM) (1 mg/mL in methanol) | Amber vial: 2 mL | 5/22/2017
Chemtos, LLC | Nordazepam-d5 (CRM) (0.1 mg/mL in methanol) | Amber vial: 2 mL | 5/22/2017
Chemtos, LLC | Nordazepam-d5 (CRM) (1 mg/mL in methanol) | Amber vial: 2 mL | 5/22/2017
Chemtos, LLC | Norhydrocodone (CRM) (1 mg/mL in methanol) | Amber vial: 1 mL | 7/19/2017
Chemtos, LLC | Norhydrocodone-d3 (CRM) (0.1 mg/mL in methanol) | Amber vial: 1 mL | 7/19/2017
Chemtos, LLC | Norhydrocodone-d3 (CRM) (1 mg/mL in methanol) | Amber vial: 1 mL | 7/19/2017
Chemtos, LLC | Normeperidine (CRM) (0.1 mg/mL in methanol) | Amber vial: 1 mL | 7/19/2017
Chemtos, LLC | Normeperidine (CRM) (1 mg/mL in methanol) | Amber vial: 1 mL | 7/19/2017
Chemtos, LLC | Normeperidine-4 (CRM) (1 mg/mL in methanol) | Amber vial: 1 mL | 7/19/2017
Chemtos, LLC | Normeperidine-d4 (CRM) (0.1 mg/mL in methanol) | Amber vial: 1 mL | 7/19/2017
Chemtos, LLC | Noroxycodone (CRM) (1 mg/mL in acetonitrile) | Amber vial: 1 mL | 7/19/2017
Chemtos, LLC | Noroxycodone-d3 (CRM) (0.1 mg/mL in acetonitrile) | Amber vial: 1 mL | 7/19/2017
Chemtos, LLC | Noroxycodone-d3 (CRM) (1 mg/mL in acetonitrile) | Amber vial: 1 mL | 7/19/2017
Chemtos, LLC | Noroxymorphone (CRM) (0.1 mg/mL in methanol) | Amber vial: 1 mL | 7/19/2017
Chemtos, LLC | Noroxymorphone (CRM) (1 mg/mL in methanol) | Amber vial: 1 mL | 7/19/2017
Chemtos, LLC | Oxazepam (CRM) (1 mg/mL in acetonitrile) | Amber vial: 1 mL | 7/19/2017
Chemtos, LLC | Oxazepam-d5 (CRM) (0.1 mg/mL in acetonitrile) | Amber vial: 1 mL | 7/19/2017
Chemtos, LLC | Oxazepam-d5 (CRM) (1 mg/mL in acetonitrile) | Amber vial: 1 mL | 7/19/2017
Chemtos, LLC | Oxycodone (CRM) (1 mg/mL in methanol) | Amber vial: 1 mL | 7/19/2017
Chemtos, LLC | Oxycodone-d3 (CRM) (0.1 mg/mL in methanol) | Amber vial: 1 mL | 7/19/2017
Chemtos, LLC | Oxycodone-d3 (CRM) (1 mg/mL in methanol) | Amber vial: 1 mL | 7/19/2017
Chemtos, LLC | Oxymorphone-d3 (CRM) (0.1 mg/mL in methanol) | Amber vial: 1 mL | 7/19/2017
Chemtos, LLC | Phencyclidine (PCP) (CRM) (1 mg/mL in methanol) | Amber vial: 1 mL | 7/19/2017
Chemtos, LLC | Phencyclidine-d5 (PCP-d5) (CRM) (0.1 mg/mL in methanol) | Amber vial: 1 mL | 7/19/2017
Chemtos, LLC | Phencyclidine-d5 (PCP-d5) (CRM) (1 mg/mL in methanol) | Amber vial: 1 mL | 7/19/2017
Chemtos, LLC | Phenobarbital (CRM) (1 mg/mL in methanol) | Amber vial: 2 mL | 5/22/2017
Chemtos, LLC | Phenobarbital-d5 (CRM) (0.1 mg/mL in methanol) | Amber vial: 2 mL | 5/22/2017
Chemtos, LLC | Phenobarbital-d5 (CRM) (1 mg/mL in methanol) | Amber vial: 2 mL | 5/22/2017
Chemtos, LLC | Phentermine (CRM) (1 mg/mL in methanol) | Amber vial: 1 mL | 7/19/2017
Chemtos, LLC | Phentermine-d5 (CRM) (0.1 mg/mL in methanol) | Amber vial: 1 mL | 7/19/2017
Chemtos, LLC | Phentermine-d5 (CRM) (1 mg/mL in methanol) | Amber vial: 1 mL | 7/19/2017
Chemtos, LLC | Prazepam (CRM) (1 mg/mL in methanol) | Amber vial: 2 mL | 5/22/2017
Chemtos, LLC | Prazepam-d5 (CRM) (0.1 mg/mL in methanol) | Amber vial: 2 mL | 5/22/2017
Chemtos, LLC | Prazepam-d5 (CRM) (1 mg/mL in methanol) | Amber vial: 2 mL | 5/22/2017
Chemtos, LLC | Propoxyphene (CRM) (1 mg/mL in acetonitrile) | Amber vial: 1 mL | 7/19/2017
Chemtos, LLC | Propoxyphene-d5 (CRM) (0.1 mg/mL in acetonitrile) | Amber vial: 1 mL | 7/19/2017
Chemtos, LLC | Propoxyphene-d5 (CRM) (1 mg/mL in acetonitrile) | Amber vial: 1 mL | 7/19/2017
Chemtos, LLC | Sibutramine (CRM) (1 mg/mL in methanol) | Amber vial: 1 mL | 7/19/2017
Chemtos, LLC | Sibutramine-d7 (CRM) (0.1 mg/mL in methanol) | Amber vial: 1 mL | 7/19/2017
Chemtos, LLC | Sibutramine-d7 (CRM) (1 mg/mL in methanol) | Amber vial: 1 mL | 7/19/2017
Chemtos, LLC | Sodium Oxybate (CRM) (1 mg/mL in methanol) | Amber vial: 1 mL | 4/27/2018
Chemtos, LLC | Sodium Oxybate-d6 (CRM) (0.1 mg/mL in methanol) | Amber vial: 1 mL | 4/27/2018
Chemtos, LLC | Sodium Oxybate-d6 (CRM) (1 mg/mL in methanol) | Amber vial: 1 mL | 4/27/2018
Chemtos, LLC | Temazepam (CRM) (1 mg/mL in methanol) | Amber vial: 1 mL | 7/19/2017
Chemtos, LLC | Temazepam-d5 (CRM) (0.1 mg/mL in methanol) | Amber vial: 1 mL | 7/19/2017
Chemtos, LLC | Temazepam-d5 (CRM) (1 mg/mL in methanol) | Amber vial: 1 mL | 7/19/2017
Chemtos, LLC | Testosterone Undecanoate (CRM) (0.1 mg/mL in acetonitrile) | Amber vial: 1 mL | 4/27/2018
Chemtos, LLC | Testosterone-d8 Undecanoate (CRM) (1 mg/mL in acetonitrile) | Amber vial: 1 mL | 4/27/2018
Chemtos, LLC | Thebaine (CRM) (0.1 mg/mL in methanol) | Amber vial: 1 mL | 7/19/2017
Chemtos, LLC | Thebaine (CRM) (1 mg/mL in methanol) | Amber vial: 1 mL | 7/19/2017
Chemtos, LLC | Thebaine-d3 (CRM) (.01 mg/mL in methanol) | Amber vial: 1 mL | 7/19/2017
Chemtos, LLC | Threo-Methylphenidate-d6 (CRM) (0.1 mg/mL in methanol) | Amber vial: 2 mL | 5/22/2017
Chemtos, LLC | Threo-Methylphenidate-d6 (CRM) (1 mg/mL in methanol) | Amber vial: 2 mL | 5/22/2017
Chemtos, LLC | Tramadol (CRM) (1 mg/mL in methanol) | Amber vial: 1 mL | 7/19/2017
Chemtos, LLC | Tramadol-d6 (CRM) (0.1 mg/mL in methanol) | Amber vial: 1 mL | 7/19/2017
Chemtos, LLC | Tramadol-d6 (CRM) (1 mg/mL in methanol) | Amber vial: 1 mL | 7/19/2017
Chemtos, LLC | UR-144 (CRM) (0.1 mg/mL in methanol) | Amber vial: 1 mL | 4/27/2018
Chemtos, LLC | Zolpidem (CRM) (1 mg/mL in methanol) | Amber vial: 2 mL | 5/22/2017
Chemtos, LLC | Zolpidem-d6 (CRM) (0.1 mg/mL in methanol) | Amber vial: 2 mL | 5/22/2017
Chemtos, LLC | Zolpidem-d6 (CRM) (1 mg/mL in methanol) | Amber vial: 2 mL | 5/22/2017
Chemtos, LLC | α-PVP (CRM) (1 mg/mL in acetonitrile) | Amber vial: 1 mL | 4/27/2018
Chemtos, LLC | α-PVP-d8 (CRM) (0.1 mg/mL in acetonitrile) | Amber vial: 1 mL | 4/27/2018
Chemtos, LLC | α-PVP-d8 (CRM) (1 mg/mL in acetonitrile) | Amber vial: 1 mL | 4/27/2018
CPI International | Custom App. IX 168 Mix Cal. Std, 1,000 mg/L, 1 ml | Amber ampule: 1 mL | 6/15/2017
CPI International | Custom Semi-Volatile Mix, 18-7, 2,000 mg/L, 1 ml | Amber ampule: 1 mL | 6/15/2017
CPI International | Diazepam Solution, 100 mg/L, 1 mL in Methanol | Amber ampule: 1 mL | 10/2/2017
Helena Laboratories | SPIFE Split Beta SPE Kit, Cat. No. 3398, 3399, 3398U, 3399U | Kit: 10 gels | 4/6/2018
Helena Laboratories | SPIFE Split Beta SPE Kit, Cat. No. 3420, 3420U, 3421, 3421U, 3422, 3422U | Kit: 10 gels | 2/12/2018
Helena Laboratories | SPIFE Split-Beta SPE 80, 100 Bulk Kit, Cat. No. 552581, 552626 | Kit: 100 gels | 9/12/2017
Immunalysis Corporation | 6-Acetylmorphine Urine Calibrator (10 ng/mL) | Amber vial: 5 mL | 1/4/2018
Immunalysis Corporation | Amphetamine Calibrator Level 1 (500 ng/mL) in synthetic urine | Amber vial: 5 mL | 1/4/2018
Immunalysis Corporation | Amphetamine Calibrator Level 2 (1,000 ng/mL) in synthetic urine | Amber vial: 5 mL | 1/4/2018
Immunalysis Corporation | Amphetamine Calibrator Level 3 (1,500 ng/mL) in synthetic urine | Amber vial: 5 mL | 1/4/2018
Immunalysis Corporation | Amphetamine Calibrator Level 4 (2,000 ng/mL) in synthetic urine | Amber vial: 5 mL | 1/4/2018
Immunalysis Corporation | Amphetamine High Control (1,250 ng/mL) in synthetic urine | Amber vial: 5 mL | 1/4/2018
Immunalysis Corporation | Amphetamine High Control (625 ng/mL) in synthetic urine | Amber vial: 5 mL | 1/4/2018
Immunalysis Corporation | Amphetamine Low Control (375 ng/mL) in synthetic urine | Amber vial: 5 mL | 1/4/2018
Immunalysis Corporation | Amphetamine Low Control (750 ng/mL) in synthetic urine | Amber vial: 5 mL | 1/4/2018
Immunalysis Corporation | Buprenorphine Calibrator Level 1 (5 ng/mL) in synthetic urine | Amber vial: 10 mL | 1/4/2018
Immunalysis Corporation | Buprenorphine Calibrator Level 2 (10 ng/mL) in synthetic urine | Amber vial: 10 mL | 1/4/2018
Immunalysis Corporation | Buprenorphine Calibrator Level 3 (20 ng/mL) in synthetic urine | Amber vial: 10 mL | 1/4/2018
Immunalysis Corporation | Buprenorphine Calibrator Level 4 (40 ng/mL) in synthetic urine | Amber vial: 10 mL | 1/4/2018
Immunalysis Corporation | Buprenorphine Low Control (3.75 ng/mL) in synthetic urine | Amber vial: 10 mL | 1/4/2018
Immunalysis Corporation | Buprenorphine Low Control (6.25 ng/mL) in synthetic urine | Amber vial: 10 mL | 1/4/2018
Immunalysis Corporation | Carisoprodol Calibrator Level 1 (50 ng/mL) in synthetic urine | Amber vial: 10 mL | 1/4/2018
Immunalysis Corporation | Carisoprodol Calibrator Level 2 (100 ng/mL) in synthetic urine | Amber vial: 10 mL | 1/4/2018
Immunalysis Corporation | Carisoprodol Calibrator Level 3 (200 ng/mL) in synthetic urine | Amber vial: 10 mL | 1/4/2018
Immunalysis Corporation | Carisoprodol Calibrator Level 4 (500 ng/mL) in synthetic urine | Amber vial: 10 mL | 1/4/2018
Immunalysis Corporation | Carisoprodol High Control (125 ng/mL) in synthetic urine | Amber vial: 10 mL | 1/4/2018
Immunalysis Corporation | Carisoprodol High Control (250 ng/mL) in synthetic urine | Amber vial: 10 mL | 1/4/2018
Immunalysis Corporation | Carisoprodol Low Control (150 ng/mL) in synthetic urine | Amber vial: 10 mL | 1/4/2018
Immunalysis Corporation | Carisoprodol Low Control (75 ng/mL) in synthetic urine | Amber vial: 10 mL | 1/4/2018
Immunalysis Corporation | Carisoprodol Positive Reference Controls (5,000 ng/mL) in synthetic urine | Amber vial: 2 mL, 5 mL | 1/4/2018
Immunalysis Corporation | cTHC Urine Calibrator Level 1 (20 ng/mL) in synthetic urine | Dropper bottle: 10 mL | 1/4/2018
Immunalysis Corporation | cTHC Urine Calibrator Level 2 (50 ng/mL) in synthetic urine | Dropper bottle: 10 mL | 1/4/2018
Immunalysis Corporation | cTHC Urine Calibrator Level 3 (100 ng/mL) in synthetic urine | Dropper bottle: 10 mL | 1/4/2018
Immunalysis Corporation | cTHC Urine Calibrator Level 4 (200 ng/mL) in synthetic urine | Dropper bottle: 10 mL | 1/4/2018
Immunalysis Corporation | cTHC Urine High Control (62.5 ng/mL) in synthetic urine | Dropper bottle: 10 mL | 1/4/2018
Immunalysis Corporation | cTHC Urine Low Control (37.5 ng/mL) in synthetic urine | Dropper bottle: 10 mL | 1/4/2018
Immunalysis Corporation | Meperidine Calibrator Level 1 (100 ng/mL) in synthetic urine | Amber vial: 10 mL | 1/4/2018
Immunalysis Corporation | Meperidine Calibrator Level 2 (200 ng/mL) in synthetic urine | Amber vial: 10 mL | 1/4/2018
Immunalysis Corporation | Meperidine Calibrator Level 3 (500 ng/mL) in synthetic urine | Amber vial: 10 mL | 1/4/2018
Immunalysis Corporation | Meperidine Calibrator Level 4 (1,000 ng/mL) in synthetic urine | Amber vial: 10 mL | 1/4/2018
Immunalysis Corporation | Meperidine Low Control (150 ng/mL) in synthetic urine | Amber vial: 10 mL | 1/4/2018
Immunalysis Corporation | Meperidine Low Control (6.25 ng/mL) in synthetic urine | Amber vial: 10 mL | 1/4/2018
Immunalysis Corporation | Opiates Calibrator 2000 Level 1 (1,000 ng/mL) in synthetic urine | Dropper Bottle: 5 mL, 15 mL | 1/4/2018
Immunalysis Corporation | Opiates Calibrator 2000 Level 2 (2,000 ng/mL) in synthetic urine | Dropper Bottle: 5 mL, 15 mL | 1/4/2018
Immunalysis Corporation | Opiates Calibrator 2000 Level 3 (4,000 ng/mL) in synthetic urine | Dropper Bottle: 5 mL, 15 mL | 1/4/2018
Immunalysis Corporation | Opiates Calibrator 2000 Level 4 (6,000 ng/mL) in synthetic urine | Dropper Bottle: 5 mL, 15 mL | 1/4/2018
Immunalysis Corporation | Oxycodone Calibrator Level 1 (100 ng/mL) in synthetic urine | Amber vial: 10 mL | 1/4/2018
Immunalysis Corporation | Oxycodone Calibrator Level 2 (300 ng/mL) in synthetic urine | Amber vial: 10 mL | 1/4/2018
Immunalysis Corporation | Oxycodone Calibrator Level 3 (500 ng/mL) in synthetic urine | Amber vial: 10 mL | 1/4/2018
Immunalysis Corporation | Oxycodone Calibrator Level 4 (1,000 ng/mL) in synthetic urine | Amber vial: 10 mL | 1/4/2018
Immunalysis Corporation | Oxycodone High Control (125 ng/mL) in synthetic urine | Amber vial: 10 mL | 1/4/2018
Immunalysis Corporation | Oxycodone High Control (375 ng/mL) in synthetic urine | Amber vial: 10 mL | 1/4/2018
Immunalysis Corporation | Oxycodone Low Control (225 ng/mL) in synthetic urine | Amber vial: 10 mL | 1/4/2018
Immunalysis Corporation | Oxycodone Low Control (75 ng/mL) in synthetic urine | Amber vial: 10 mL | 1/4/2018
Immunalysis Corporation | Tapentadol Calibrator Level 1 (100 ng/mL) in synthetic urine | Amber vial: 10 mL | 5/21/2018
Immunalysis Corporation | Tapentadol Calibrator Level 2 (200 ng/mL) in synthetic urine | Amber vial: 10 mL | 5/21/2018
Immunalysis Corporation | Tapentadol Calibrator Level 3 (300 ng/mL) in synthetic urine | Amber vial: 10 mL | 5/21/2018
Immunalysis Corporation | Tapentadol Calibrator Level 4 (1,000 ng/mL) in synthetic urine | Amber vial: 10 mL | 5/21/2018
Immunalysis Corporation | Tapentadol High Control (250 ng/mL) in synthetic urine | Amber vial: 10 mL | 5/21/2018
Immunalysis Corporation | Tapentadol Low Control (150 ng/mL) in synthetic urine | Amber vial: 10 mL | 5/21/2018
Immunalysis Corporation | Tramadol Positive Reference Control (500 ng/mL) in synthetic urine | Amber vial: 2 mL, 5 mL | 1/4/2018
Immunalysis Corporation | Tramadol Urine Calibrator Level 1 (100 ng/mL) in synthetic urine | Amber vial: 10 mL | 1/4/2018
Immunalysis Corporation | Tramadol Urine Calibrator Level 2 (200 ng/mL) in synthetic urine | Amber vial: 10 mL | 1/4/2018
Immunalysis Corporation | Tramadol Urine Calibrator Level 3 (500 ng/mL) in synthetic urine | Amber vial: 10 mL | 1/4/2018
Immunalysis Corporation | Tramadol Urine Calibrator Level 4 (1,000 ng/mL) in synthetic urine | Amber vial: 10 mL | 1/4/2018
Immunalysis Corporation | Tramadol Urine High Control (250 ng/mL) in synthetic urine | Amber vial: 10 mL | 1/4/2018
Immunalysis Corporation | Tramadol Urine Low Control (150 ng/mL) in synthetic urine | Amber vial: 10 mL | 1/4/2018
IPPR | Routine Chemistry | Amber vial: 5 mL | 3/27/2017
IPPR | Special Chemistry | Amber vial: 5 mL | 3/27/2017
IsoSciences, LLC | 11-Ketodihydrotestosterone, 100 μg/mL in methanol | Amber ampule: 1 mL | 6/12/2018
IsoSciences, LLC | 11-Ketodihydrotestosterone, 1,000 μg/mL in methanol | Amber ampule: 1 mL | 6/12/2018
IsoSciences, LLC | 11-Ketodihydrotestosterone-[2H3], 100 μg/mL in methanol | Amber ampule: 1 mL | 6/12/2018
IsoSciences, LLC | 11-Ketodihydrotestosterone-[2H3], 1,000 μg/mL in methanol | Amber ampule: 1 mL | 6/12/2018
IsoSciences, LLC | 11β-Hydroxydihydrotestosterone, 100 μg/mL in methanol | Amber ampule: 1 mL | 6/12/2018
IsoSciences, LLC | 11β-Hydroxydihydrotestosterone, 1,000 μg/mL in methanol | Amber ampule: 1 mL | 6/12/2018
IsoSciences, LLC | 11β-Hydroxydihydrotestosterone-[2H5], 100 μg/mL in methanol | Amber ampule: 1 mL | 6/12/2018
IsoSciences, LLC | 11β-Hydroxydihydrotestosterone-[2H5], 1,000 μg/mL in methanol | Amber ampule: 1 mL | 6/12/2018
IsoSciences, LLC | Alprazolam-[13C6], 100 μg/mL in methanol | Amber ampule: 1 mL | 12/27/2017
IsoSciences, LLC | Alprazolam-[13C6], 50 μg/mL in methanol | Amber ampule: 1 mL | 6/12/2018
IsoSciences, LLC | Boldenone-[13C3], 100 μg/mL in methanol | Amber ampule: 1 mL | 3/5/2018
IsoSciences, LLC | Buprenorphine-[13C3, 15N], 100 μg/mL in methanol | Amber ampule: 1 mL | 12/27/2017
IsoSciences, LLC | Buprenorphine-[13C3, 15N], 50 μg/mL in methanol | Amber ampule: 1 mL | 6/12/2018
IsoSciences, LLC | Buprenorphine-[13C4, 15N], 100 μg/mL in methanol | Amber ampule: 1 mL | 12/27/2017
IsoSciences, LLC | Buprenorphine-[13C4, 15N], 50 μg/mL in methanol | Amber ampule: 1 mL | 6/12/2018
IsoSciences, LLC | Chlordiazepoxide-[13C6] · HCl, 50 μg/mL in methanol | Amber ampule: 1 mL | 6/12/2018
IsoSciences, LLC | Chlordiazepoxide-[13C6] · HCl, 100 μg/mL in methanol | Amber ampule: 1 mL | 12/27/2017
IsoSciences, LLC | Clobazam-[13C6], 100 μg/mL in methanol | Amber ampule: 1 mL | 12/27/2017
IsoSciences, LLC | Clobazam-[13C6], 50 μg/mL in methanol | Amber ampule: 1 mL | 6/12/2018
IsoSciences, LLC | Clonazepam-[13C6], 100 μg/mL in methanol | Amber ampule: 1 mL | 12/27/2017
IsoSciences, LLC | Clonazepam-[13C6], 50 μg/mL in methanol | Amber ampule: 1 mL | 6/12/2018
IsoSciences, LLC | Codeine-[13C3, 15N], 100 μg/mL in methanol | Amber ampule: 1 mL | 4/6/2017
IsoSciences, LLC | Codeine-[13C3, 15N], 1,000 μg/mL in methanol | Amber ampule: 1 mL | 4/6/2017
IsoSciences, LLC | Codeine-[13C3, 15N], 50 μg/mL in methanol | Amber ampule: 1 mL | 4/6/2017
IsoSciences, LLC | Codeine-6β-Glucuronide-[13C3, 15N], 100 μg/mL in methanol:water (2:8) | Amber ampule: 1 mL | 4/6/2017
IsoSciences, LLC | Codeine-6β-Glucuronide-[13C3, 15N], 1,000 μg/mL in methanol:water (2:8) | Amber ampule: 1 mL | 4/6/2017
IsoSciences, LLC | Codeine-6β-Glucuronide-[13C3, 15N], 50 μg/mL in methanol:water (2:8) | Amber ampule: 1 mL | 4/6/2017
IsoSciences, LLC | Codeine-6β-Glucuronide-[13C4, 15N], 1,000 μg/mL in methanol:water (2:8) | Amber ampule: 1 mL | 5/16/2017
IsoSciences, LLC | Codeine-6β-Glucuronide-[13C9, 15N], 100 μg/mL in methanol:water (2:8) | Amber ampule: 1 mL | 4/6/2017
IsoSciences, LLC | Codeine-6β-Glucuronide-[13C9, 15N], 1,000 μg/mL in methanol:water (2:8) | Amber ampule: 1 mL | 4/6/2017
IsoSciences, LLC | Codeine-6β-Glucuronide-[13C9, 15N], 50 μg/mL in methanol:water (2:8) | Amber ampule: 1 mL | 4/6/2017
IsoSciences, LLC | Delorazepam-[13C6, 15N], 50 μg/mL in acetonitrile | Amber ampule: 1 mL | 6/12/2018
IsoSciences, LLC | Delorazepam-[13C6,15N], 100 μg/mL in acetonitrile | Amber ampule: 1 mL | 12/27/2017
IsoSciences, LLC | Diazepam-[13C6], 100 μg/mL in methanol | Amber ampule: 1 mL | 12/27/2017
IsoSciences, LLC | Diazepam-[13C6], 50 μg/mL in methanol | Amber ampule: 1 mL | 6/12/2018
IsoSciences, LLC | Dihydrotestosterone-[2H4], 100 μg/mL in methanol | Amber ampule: 1 mL | 3/5/2018
IsoSciences, LLC | Flunitrazepam-[13C6], 100 μg/mL in methanol | Amber ampule: 1 mL | 12/27/2017
IsoSciences, LLC | Flunitrazepam-[13C6], 50 μg/mL in methanol | Amber ampule: 1 mL | 6/12/2018
IsoSciences, LLC | Flurazepam-[13C6], 100 μg/mL in methanol | Amber ampule: 1 mL | 12/27/2017
IsoSciences, LLC | Flurazepam-[13C6], 50 μg/mL in methanol | Amber ampule: 1 mL | 6/12/2018
IsoSciences, LLC | Lorazepam-[13C6, 15N], 100 μg/mL in acetonitrile | Amber ampule: 1 mL | 12/27/2017
IsoSciences, LLC | Lorazepam-[13C6, 15N], 50 μg/mL in acetonitrile | Amber ampule: 1 mL | 6/12/2018
IsoSciences, LLC | Medazepam-[13C6], 100 μg/mL in methanol | Amber ampule: 1 mL | 12/27/2017
IsoSciences, LLC | Medazepam-[13C6], 50 μg/mL in methanol | Amber ampule: 1 mL | 6/12/2018
IsoSciences, LLC | Midazolam-[13C6], 100 μg/mL in methanol | Amber ampule: 1 mL | 12/27/2017
IsoSciences, LLC | Midazolam-[13C6], 50 μg/mL in methanol | Amber ampule: 1 mL | 6/12/2018
IsoSciences, LLC | Morphine-[13C3, 15N], 100 μg/mL in methanol | Amber ampule: 1 mL | 4/6/2017
IsoSciences, LLC | Morphine-[13C3, 15N], 1,000 μg/mL in methanol | Amber ampule: 1 mL | 4/6/2017
IsoSciences, LLC | Morphine-[13C3, 15N], 50 μg/mL in methanol | Amber ampule: 1 mL | 4/6/2017
IsoSciences, LLC | Morphine-6β-Glucuronide-[13C3, 15N], 100 μg/mL in methanol:water (2:8) | Amber ampule: 1 mL | 4/6/2017
IsoSciences, LLC | Morphine-6β-Glucuronide-[13C3, 15N], 1,000 μg/mL in methanol:water (2:8) | Amber ampule: 1 mL | 4/6/2017
IsoSciences, LLC | Morphine-6β-Glucuronide-[13C3, 15N], 50 μg/mL in methanol:water (2:8) | Amber ampule: 1 mL | 4/6/2017
IsoSciences, LLC | Morphine-6β-Glucuronide-[13C4, 15N], 1,000 μg/mL in methanol:water (2:8) | Amber ampule: 1 mL | 5/16/2017
IsoSciences, LLC | Morphine-6β-Glucuronide-[13C9, 15N], 100 μg/mL in methanol:water (2:8) | Amber ampule: 1 mL | 4/6/2017
IsoSciences, LLC | Morphine-6β-Glucuronide-[13C9, 15N], 1,000 μg/mL in methanol:water (2:8) | Amber ampule: 1 mL | 4/6/2017
IsoSciences, LLC | Morphine-6β-Glucuronide-[13C9, 15N], 50 μg/mL in methanol:water (2:8) | Amber ampule: 1 mL | 4/6/2017
IsoSciences, LLC | Nitrazepam-[13C6], 100 μg/mL in acetonitrile | Amber ampule: 1 mL | 12/27/2017
IsoSciences, LLC | Nitrazepam-[13C6], 50 μg/mL in acetonitrile | Amber ampule: 1 mL | 6/12/2018
IsoSciences, LLC | Nordiazepam-[13C6], 100 μg/mL in methanol | Amber ampule: 1 mL | 12/27/2017
IsoSciences, LLC | Nordiazepam-[13C6], 50 μg/mL in methanol | Amber ampule: 1 mL | 6/12/2018
IsoSciences, LLC | Oxazepam-[13C6], 100 μg/mL in methanol | Amber ampule: 1 mL | 12/27/2017
IsoSciences, LLC | Oxazepam-[13C6], 50 μg/mL in methanol | Amber ampule: 1 mL | 6/12/2018
IsoSciences, LLC | Prazepam-[13C6], 100 μg/mL in methanol | Amber ampule: 1 mL | 12/27/2017
IsoSciences, LLC | Prazepam-[13C6], 50 μg/mL in methanol | Amber ampule: 1 mL | 6/12/2018
IsoSciences, LLC | Temazepam-[13C6], 100 μg/mL in methanol | Amber ampule: 1 mL | 12/27/2017
IsoSciences, LLC | Temazepam-[13C6], 50 μg/mL in methanol | Amber ampule: 1 mL | 6/12/2018
IsoSciences, LLC | Tetrazepam-[13C6, 15N], 100 μg/mL in methanol | Amber ampule: 1 mL | 12/27/2017
IsoSciences, LLC | Tetrazepam-[13C6, 15N], 50 μg/mL in acetonitrile | Amber ampule: 1 mL | 6/12/2018
IsoSciences, LLC | Triazolam-[13C6, 15N], 100 μg/mL in methanol | Amber ampule: 1 mL | 12/27/2017
IsoSciences, LLC | Triazolam-[13C6, 15N], 50 μg/mL in methanol | Amber ampule: 1 mL | 6/12/2018
IsoSciences, LLC | Zolpidem-[13C2, 15N], 100 μg/mL in methanol | Amber ampule: 1 mL | 12/27/2017
IsoSciences, LLC | Zolpidem-[13C2, 15N], 50 μg/mL in methanol | Amber ampule: 1 mL | 6/12/2018
IsoSciences, LLC | Zolpidem-[2H6], 100 μg/mL in methanol | Amber ampule: 1 mL | 12/27/2017
IsoSciences, LLC | Zolpidem-[2H6], 50 μg/mL in methanol | Amber ampule: 1 mL | 6/12/2018
LabKings | Diazepam Solution, 100 mg/L, 1 mL in Methanol | Amber ampule: 1 mL | 10/2/2017
LGC | EPA Method 8270 Appendix IX Mix 1 with Phentermine, 17 components, 2,000 µg/mL in Dichloromethane 1 mL (RM, ISO GUIDE 34) | Amber ampule: 1 mL | 6/15/2017
LGC | ISO Guide 34-a,a-Dimethylphenethylamine Solution (Second Source), 1,000 mg/L, 1 ml | Amber ampule: 1 mL | 6/15/2017
LGC | ISO Guide 34-a,a-Dimethylphenethylamine Solution, 1,000 mg/L, 1 ml | Amber ampule: 1 mL | 6/15/2017
LGC GmbH | Fentanyl 0.1 mg/ml in Methanol | Glass vial: 1 mL | 6/14/2018
LGC GmbH | Normorphine 1 mg/ml in Methanol | Glass vial: 1 mL | 6/14/2018
Lipomed Inc | 4-Methylmethcathinone.HCl (1 mg free base/1 mL methanol) | Glass ampule: 1 mL | 4/13/2018
Lipomed Inc | 5α-Dihydrotestosterone (1 mg/1 mL acetonitrile) | Glass ampule: 1 mL | 4/13/2018
Lipomed Inc | 6-β-Hydroxytestosterone (1 mg/1 mL methanol) | Glass ampule: 1 mL | 4/13/2018
Lipomed Inc | AH-7921.HCl (1 mg free base/1 mL methanol) | Glass ampule: 1 mL | 4/13/2018
Lipomed Inc | Androstenedione (1 mg/1 mL methanol) | Glass ampule: 1 mL | 4/13/2018
Lipomed Inc | Butalbital-D5 (0.1 mg free acid/1 mL methanol) | Glass ampule: 1 mL | 4/13/2018
Lipomed Inc | d,l-4-Methylmethcathinone-D3.HCl (0.1 mg free base/1 mL methanol) | Glass ampule: 1 mL | 4/13/2018
Lipomed Inc | d,l-4-Methylmethcathinone-D3.HCl (1 mg free base/1 mL methanol) | Glass ampule: 1 mL | 4/13/2018
Lipomed Inc | d,l-Fenfluramine.HCl (1 mg free base/1 mL methanol) | Glass ampule: 1 mL | 4/13/2018
Lipomed Inc | Flephedrone.HCl (1 mg free base/1 mL methanol) | Glass ampule: 1 mL | 4/13/2018
Lipomed Inc | Loprazolam (1 mg free base/1 mL methanol) | Glass ampule: 1 mL | 4/13/2018
Lipomed Inc | Lormetazepam-D3 (0.1 mg/1 mL acetonitrile) | Glass ampule: 1 mL | 4/13/2018
Lipomed Inc | Nandrolone (1 mg/1 mL methanol) | Glass ampule: 1 mL | 4/13/2018
Lipomed Inc | Norhydrocodone-D3.HCl (0.1 mg free base/1 mL (ACN/H2O 1:1)) | Glass ampule: 1 mL | 4/13/2018
Lipomed Inc | Norhydrocodone-D3.HCl (1 mg free base/1 mL (ACN/H2O 1:1)) | Glass ampule: 1 mL | 4/13/2018
Lipomed Inc | Noroxymorphone.HCl (1 mg free base/1 mL (MeOH/H2O: 1/1)) | Glass ampule: 1 mL | 4/13/2018
Lipomed Inc | Phentermine-D6.HCl (0.1 mg free base/1 mL methanol) | Glass ampule: 1 mL | 4/13/2018
Lipomed Inc | Phentermine-D6.HCl (1 mg free base/1 mL methanol) | Glass ampule: 1 mL | 4/13/2018
Lipomed Inc | Zaleplon (1 mg/1 mL methanol) | Glass ampule: 1 mL | 4/13/2018
Lipomed Inc | 3-Desmethylprodine.HCl (1 mg free base/1 mL acetonitrile) | Glass ampule: 1 mL | 11/16/2017
Lipomed Inc | 4-Ethylmethcathinone.HCl (1 mg free base/1 mL methanol) | Glass ampule: 1 mL | 11/16/2017
Lipomed Inc | 4-Fluoromethcathinone (Flephedrone).HCl (1 mg free base/1 mL methanol) | Glass ampule: 1 mL | 11/16/2017
Lipomed Inc | 4-Methylethcathinone.HCl (1 mg free base/1 mL methanol) | Glass ampule: 1 mL | 11/16/2017
Lipomed Inc | 5F-PB-22 (0.1 mg/1 mL acetonitrile) | Glass ampule: 1 mL | 11/16/2017
Lipomed Inc | 5F-PB-22 (1 mg/1 mL acetonitrile) | Glass ampule: 1 mL | 11/16/2017
Lipomed Inc | Amfepramone.HCl (1 mg free base/1 mL acetonitrile/water: 1/1) | Glass ampule: 1 mL | 3/12/2018
Lipomed Inc | Bezoylecgonine-D8 (0.1 mg free base/1 mL methanol) | Glass ampule: 1 mL | 11/16/2017
Lipomed Inc | Bezoylecgonine-D8 (1 mg free base/1 mL methanol) | Glass ampule: 1 mL | 11/16/2017
Lipomed Inc | Butalbital-D5 (0.1 mg free acid/1 mL methanol) | Glass ampule: 1 mL | 11/16/2017
Lipomed Inc | Butalbital-D5 (1 mg free acid/1 mL methanol) | Glass ampule: 1 mL | 10/6/2017
Lipomed Inc | d,l-Methamphetamine-D14.HCl (0.1 mg free base/1 mL methanol) | Glass ampule: 1 mL | 3/12/2018
Lipomed Inc | d,l-Methamphetamine-D14.HCl (1 mg free base/1 mL methanol) | Glass ampule: 1 mL | 3/12/2018
Lipomed Inc | D-Propoxyphene.HCl (1 mg free base/1 mL methanol) | Glass ampule: 1 mL | 11/16/2017
Lipomed Inc | Fentanyl (0.1 mg free base/1 mL methanol) | Glass ampule: 1 mL | 3/12/2018
Lipomed Inc | Fentanyl-D5 (0.1 mg free base/1 mL methanol) | Glass ampule: 1 mL | 10/31/2017
Lipomed Inc | L-Amphetamine-D3.sulfate (H2SO4) (0.1 mg free base/1 mL methanol) | Glass ampule: 1 mL | 11/16/2017
Lipomed Inc | L-Amphetamine-D3.sulfate (H2SO4) (1 mg free base/1 mL methanol) | Glass ampule: 1 mL | 11/16/2017
Lipomed Inc | Naphyrone.HCl (1 mg free base/1 mL methanol) | Glass ampule: 1 mL | 11/16/2017
Lipomed Inc | PB-22 (0.1 mg/1 mL acetonitrile) | Glass ampule: 1 mL | 11/16/2017
Lipomed Inc | PB-22 (1 mg/1 mL acetonitrile) | Glass ampule: 1 mL | 11/16/2017
Lipomed Inc | Pentylone.HCl (1 mg free base/1 mL methanol) | Glass ampule: 1 mL | 11/16/2017
Lipomed Inc | Phenobarbital-D5 (side chain) (0.1 mg free acid/1 mL methanol) | Glass ampule: 1 mL | 11/16/2017
Lipomed Inc | Phenobarbital-D5 (side chain)(1 mg free acid/1 mL methanol) | Glass ampule: 1 mL | 10/6/2017
Lipomed Inc | Secobarbital-D5 (1 mg free acid/1 mL methanol) | Glass ampule: 1 mL | 10/6/2017
Lipomed Inc | Sufentanil-D5 (0.1 mg free base/1 mL methanol) | Glass ampule: 1 mL | 11/16/2017
Lipomed Inc | Tapentadol-D3.HCl (0.1 mg free base/1 mL methanol) | Glass ampule: 1 mL | 11/16/2017
Lipomed Inc | Tapentadol-D3.HCl (1 mg free base/1 mL methanol) | Glass ampule: 1 mL | 11/16/2017
Lipomed Inc | α-PVP.HCl (1 mg free base/1 mL methanol) | Glass ampule: 1 mL | 11/16/2017
Medichem Diagnostica GmbH and Co. KG | Medidrug OSD S L4 Opioid | Box: 5 vials, 2 mL each | 6/29/2018
Microgenics Corporation | DRI MDA Control | Carton: 1 vial, 25 mL | 8/4/2017
Microgenics Corporation | DRI MDA Control | Vial: 25 mL | 8/4/2017
MLE | Chemistry | Amber vial: 5 mL | 3/27/2017
MLE | Endo/Onc | Amber vial: 5 mL | 3/27/2017
MLE | PSA | Amber vial: 5 mL | 3/27/2017
MLE | SHBG/Testosterone | Amber vial: 2 mL | 3/27/2017
MP Biomedicals, LLC | Authentifilm, Cat. No. 801677 | 7 mL gel on plate | 2/15/2017
Noramco, Inc | Amphetamine Resolution Standard (3 µg/mL) | Glass ampule: 1 mL | 5/8/2017
Noramco, Inc | Amphetamine Resolution Standard (3 µg/mL) | Glass ampule: 1 mL | 5/8/2017
o2si smart solutions | (−)-delta 9-THC Solution, 100 mg/L, 1 mL | Amber ampule: 1 mL | 6/23/2017
o2si smart solutions | (−)-delta 9-THC Solution, 400 mg/L, 2 x 1 mL | Clamshell: 2 vials, 1 mL each | 6/23/2017
o2si smart solutions | (−)-delta 9-THC, 10 mg/L, 10 mL | Amber round: 10 mL | 6/23/2017
o2si smart solutions | (±)-11-nor-9-carboxy-Δ9-THC-D3 Solution, 100 mg/L | Amber ampule: 1 mL | 5/3/2017
o2si smart solutions | (±)-Amphetamine Solution, 100 mg/L, 1 ml | Glass ampule: 1 mL | 8/9/2017
o2si smart solutions | (±)-Amphetamine Solution, 400 mg/L, 2 x 1 ml | Glass ampules: 1 mL x 2 | 8/9/2017
o2si smart solutions | (±)-Amphetamine Solution, 400 mg/L, 3 x 1 ml | Glass ampules: 1 mL x 3 | 8/9/2017
o2si smart solutions | (±)-Amphetamine Solution, 400 mg/L, 4 x 1 ml | Glass ampules: 1 mL x 4 | 8/9/2017
o2si smart solutions | (±)-Amphetamine-D11 Solution, 1,000 mg/L, 1 mL in Methanol | Amber ampule: 1 mL | 9/15/2017
o2si smart solutions | (±)-Amphetamine-D11 Solution, 100 mg/l, 1 ml | Glass ampule: 1 mL | 8/9/2017
o2si smart solutions | (±)-Amphetamine-D11 Solution, 100 mg/L, 1 mL in Methanol | Amber ampule: 1 mL | 9/15/2017
o2si smart solutions | (±)-Amphetamine-D11 Solution, 100 mg/L, 5 x 1 mL in Methanol | Amber ampule: 1 mL x 5 | 9/15/2017
o2si smart solutions | (±)-Amphetamine-D11 Solution, 400 mg/L, 1 mL in Methanol | Amber ampule: 1 mL | 9/15/2017
o2si smart solutions | (±)-Amphetamine-D11 Solution, 400 mg/l, 3 x 1 ml | Glass ampules: 1 mL x 3 | 8/9/2017
o2si smart solutions | (±)-Amphetamine-D11 Solution, 400 mg/L, 3 x 1 mL in Methanol | Amber ampule: 1 mL x 3 | 9/15/2017
o2si smart solutions | (±)-Amphetamine-D11 Solution, 400 mg/L, 5 x 1 mL in Methanol | Amber ampule: 1 mL x 5 | 9/15/2017
o2si smart solutions | (±)-Amphetamine-D5 (deuterium label on ring) Solution, 1,000 mg/L, 1 mL in Methanol | Amber ampule: 1 mL | 9/15/2017
o2si smart solutions | (±)-Amphetamine-D5 (deuterium label on ring) Solution, 100 mg/L, 1 ml | Glass ampule: 1 mL | 8/9/2017
o2si smart solutions | (±)-Amphetamine-D5 (deuterium label on ring) Solution, 100 mg/L, 1 mL in Methanol | Amber ampule: 1 mL | 9/15/2017
o2si smart solutions | (±)-Amphetamine-D5 (deuterium label on ring) Solution, 100 mg/L, 5 x 1 mL in Methanol | Amber ampule: 1 mL x 5 | 9/15/2017
o2si smart solutions | (±)-Amphetamine-D5 (deuterium label on ring) Solution, 400 mg/L, 1 mL in Methanol | Amber ampule: 1 mL | 9/15/2017
o2si smart solutions | (±)-Amphetamine-D5 (deuterium label on ring) Solution, 5 x 400 mg/L, 1 mL in Methanol | Amber ampule: 1 mL x 5 | 9/15/2017
o2si smart solutions | (±)-Amphetamine-D6 Solution, 1,000 mg/L, 1 mL in Methanol | Amber ampule: 1 mL | 9/15/2017
o2si smart solutions | (±)-Amphetamine-D6 Solution, 100 mg/L, 1 ml | Glass ampule: 1 mL | 8/9/2017
o2si smart solutions | (±)-Amphetamine-D6 Solution, 100 mg/L, 1 mL in Methanol | Amber ampule: 1 mL | 9/15/2017
o2si smart solutions | (±)-Amphetamine-D6 Solution, 100 mg/L, 5 x 1 mL in Methanol | Amber ampule: 1 mL x 5 | 9/15/2017
o2si smart solutions | (±)-Amphetamine-D6 Solution, 400 mg/L, 1 mL in Methanol | Amber ampule: 1 mL | 9/15/2017
o2si smart solutions | (±)-Amphetamine-D6 Solution, 400 mg/L, 3 x 1 mL in Methanol | Amber ampule: 1 mL x 3 | 9/15/2017
o2si smart solutions | (±)-Amphetamine-D6 Solution, 400 mg/L, 5 x 1 mL in Methanol | Amber ampule: 1 mL x 5 | 9/15/2017
o2si smart solutions | (±)-Amphetamine-D8 Solution, 1,000 mg/L, 1 mL in Methanol | Amber ampule: 1 mL | 9/15/2017
o2si smart solutions | (±)-Amphetamine-D8 Solution, 100 mg/l, 1 ml | Glass ampule: 1 mL | 8/9/2017
o2si smart solutions | (±)-Amphetamine-D8 Solution, 100 mg/L, 1 mL in Methanol | Amber ampule: 1 mL | 9/15/2017
o2si smart solutions | (±)-Amphetamine-D8 Solution, 100 mg/L, 5 x 1 mL in Methanol | Amber ampule: 1 mL x 5 | 9/15/2017
o2si smart solutions | (±)-Amphetamine-D8 Solution, 400 mg/L, 1 mL in Methanol | Amber ampule: 1 mL | 9/15/2017
o2si smart solutions | (±)-Amphetamine-D8 Solution, 400 mg/l, 2 x 1 ml | Glass ampules: 1 mL x 2 | 8/9/2017
o2si smart solutions | (±)-Amphetamine-D8 Solution, 400 mg/L, 2 x 1 mL in Methanol | Amber ampule: 1 mL x 2 | 9/15/2017
o2si smart solutions | (±)-Amphetamine-D8 Solution, 400 mg/L, 3 x 1 mL in Methanol | Amber ampule: 1 mL x 3 | 9/15/2017
o2si smart solutions | (±)-Amphetamine-D8 Solution, 400 mg/L, 5 x 1 mL in Methanol | Amber ampule: 1 mL x 5 | 9/15/2017
o2si smart solutions | (±)-MDMA [(±)-3,4-Methylenedioxymethamphetamine] Solution, 400 mg/L, 3 x 1 mL | Clamshell: 3 vials, 1 mL each | 6/15/2017
o2si smart solutions | (±)-Methamphetamine Solution, 1,000 mg/L, 1 ml in Methanol | Amber ampule: 1 ml | 8/18/2017
o2si smart solutions | (±)-Methamphetamine Solution, 100 mg/L, 1 ml in Methanol | Amber ampule: 1 ml | 8/18/2017
o2si smart solutions | (±)-Methamphetamine Solution, 100 mg/L, 5 x 1 ml in Methanol | Amber ampule: 1 ml x 5 | 8/18/2017
o2si smart solutions | (±)-Methamphetamine Solution, 400 mg/L, 1 ml in Methanol | Amber ampule: 1 ml | 8/18/2017
o2si smart solutions | (±)-Methamphetamine Solution, 400 mg/L, 2 x 1 ml in Methanol | Amber ampule: 1 ml x 2 | 8/18/2017
o2si smart solutions | (±)-Methamphetamine Solution, 400 mg/L, 3 x 1 ml in Methanol | Amber ampule: 1 ml x 3 | 8/18/2017
o2si smart solutions | (±)-Methamphetamine Solution, 400 mg/L, 4 x 1 ml in Methanol | Amber ampule: 1 ml x 4 | 8/18/2017
o2si smart solutions | (±)-Methamphetamine-d11 Solution, 1,000 mg/L, 1 ml in Methanol | Amber ampule: 1 ml | 8/18/2017
o2si smart solutions | (±)-Methamphetamine-d11 Solution, 100 mg/L, 1 ml in Methanol | Amber ampule: 1 ml | 8/18/2017
o2si smart solutions | (±)-Methamphetamine-d11 Solution, 100 mg/L, 5 x 1 ml in Methanol | Amber ampule: 1 ml x 5 | 8/18/2017
o2si smart solutions | (±)-Methamphetamine-d11 Solution, 400 mg/L, 1 ml in Methanol | Amber ampule: 1 ml | 8/18/2017
o2si smart solutions | (±)-Methamphetamine-d11 Solution, 400 mg/L, 3 x 1 ml in Methanol | Amber ampule: 1 ml x 3 | 8/18/2017
o2si smart solutions | (±)-Methamphetamine-d11 Solution, 400 mg/L, 5 x 1 ml in Methanol | Amber ampule: 1 ml x 5 | 8/18/2017
o2si smart solutions | (±)-Methamphetamine-D5 Solution, 1,000 mg/L, 1 ml in Methanol | Amber ampule: 1 ml | 8/18/2017
o2si smart solutions | (±)-Methamphetamine-D5 Solution, 100 mg/L, 1 ml in Methanol | Amber ampule: 1 ml | 8/18/2017
o2si smart solutions | (±)-Methamphetamine-D5 Solution, 100 mg/L, 5 x 1 ml in Methanol | Amber ampule: 1 ml x 5 | 8/18/2017
o2si smart solutions | (±)-Methamphetamine-D5 Solution, 400 mg/L, 1 ml in Methanol | Amber ampule: 1 ml | 8/18/2017
o2si smart solutions | (±)-Methamphetamine-D5 Solution, 400 mg/L, 3 x 1 ml in Methanol | Amber ampule: 1 ml x 3 | 8/18/2017
o2si smart solutions | (±)-Methamphetamine-D5 Solution, 400 mg/L, 5 x 1 ml in Methanol | Amber ampule: 1 ml x 5 | 8/18/2017
o2si smart solutions | *Custom App. IX 168 Mix Cal. Std (Second Source), 1,000 mg/L, 1 ml | Amber ampule: 1 mL | 6/15/2017
o2si smart solutions | *Custom App. IX 168 Mix Cal. Std, 1,000 mg/L, 1 ml | Amber ampule: 1 mL | 6/15/2017
o2si smart solutions | 6-Acetylcodeine Solution, 400 mg/L, 2 x 1 ml | Glass ampules: 1 mL x 2 | 8/9/2017
o2si smart solutions | 6-Acetylcodeine Solution, 400 mg/L, 3 x 1 ml | Glass ampules: 1 mL x 3 | 8/9/2017
o2si smart solutions | 6-Acetylmorphine Solution, 100 mg/L, 1 ml | Amber ampule: 1 mL | 8/9/2017
o2si smart solutions | 6-Acetylmorphine Solution, 400 mg/L, 2 x 1 ml | Glass ampules: 1 mL x 2 | 8/9/2017
o2si smart solutions | 6-Acetylmorphine Solution, 400 mg/L, 3 x 1 ml | Glass ampules: 1 mL x 3 | 8/9/2017
o2si smart solutions | 6-Acetylmorphine Solution, 400 mg/L, 4 x 1 ml | Glass ampules: 1 mL x 4 | 8/9/2017
o2si smart solutions | 6-Acetylmorphine-D3 Solution, 100 mg/L, 1 ml | Glass ampule: 1 mL | 8/9/2017
o2si smart solutions | 6-Acetylmorphine-D3 Solution, 400 mg/L, 2 x 1 ml | Glass ampules: 1 mL x 2 | 8/9/2017
o2si smart solutions | 6-Acetylmorphine-D3 Solution, 400 mg/L, 3 x 1 ml | Glass ampules: 1 mL x 3 | 8/9/2017
o2si smart solutions | 6-Acetylmorphine-D6, 100 mg/L, 1 ml | Glass ampule: 1 mL | 8/9/2017
o2si smart solutions | 8270 App. IX Second Source Solution 67-1, 100/200/400/1,000 mg/L | Glass bottle: 10 mL | 5/3/2017
o2si smart solutions | 8270 App. IX Second Source Solution 70-1, 100/200/400/1,000 mg/L | Glass bottle: 10 mL | 5/3/2017
o2si smart solutions | 8270 App. IX Solution 17-1, Minus Benzidine, 2,000 mg/L, 1 ml | Amber ampule: 1 mL | 6/15/2017
o2si smart solutions | 8270 Appendix IX Mix 1, 1,000 mg/L | Amber ampule: 1 mL | 5/3/2017
o2si smart solutions | 8270 Appendix IX Mix 2 55-6, 100 mg/L | Amber ampule: 1 mL | 5/3/2017
o2si smart solutions | a,a-Dimethylphenethylamine Solution, 1,000 mg/L, 1 mL | Amber ampule: 1 mL | 6/23/2017
o2si smart solutions | Alprazolam Solution, 100 mg/L, 1 mL | Amber ampule: 1 mL | 6/23/2017
o2si smart solutions | Alprazolam-D5 Solution, 100 mg/L, 1 ml | Glass ampule: 1 mL | 8/9/2017
o2si smart solutions | Aminorex Solution, 1,000 mg/L, 1 ml in Acetonitrile | Amber ampule: 1 mL | 9/1/2017
o2si smart solutions | Aminorex Solution, 1,000 mg/L, 5 x 1 ml in Acetonitrile | Amber ampule: 1 mL x 5 | 9/1/2017
o2si smart solutions | Aminorex Solution, 100 mg/L, 1 ml in Acetonitrile | Amber ampule: 1 mL | 9/1/2017
o2si smart solutions | Aminorex Solution, 100 mg/L, 5 x 1 ml in Acetonitrile | Amber ampule: 1 mL x 5 | 9/1/2017
o2si smart solutions | Aminorex Solution, 400 mg/L, 1 ml in Acetonitrile | Amber ampule: 1 mL | 9/1/2017
o2si smart solutions | Aminorex Solution, 400 mg/L, 3 x 1 ml | Glass ampules: 1 mL x 3 | 8/9/2017
o2si smart solutions | Aminorex Solution, 400 mg/L, 3 x 1 ml in Acetonitrile | Amber ampule: 1 mL x 3 | 9/1/2017
o2si smart solutions | Aminorex Solution, 400 mg/L, 5 x 1 ml in Acetonitrile | Amber ampule: 1 mL x 5 | 9/1/2017
o2si smart solutions | Amphetamine Solution, 1,000 mg/L, 1 mL in Methanol | Amber ampule: 1 mL | 9/15/2017
o2si smart solutions | Amphetamine Solution, 100 mg/L, 1 ml | Glass ampule: 1 mL | 8/9/2017
o2si smart solutions | Amphetamine Solution, 100 mg/L, 5 x 1 mL in Methanol | Amber ampule: 1 mL x 5 | 9/15/2017
o2si smart solutions | Amphetamine Solution, 400 mg/L, 1 mL in Methanol | Amber ampule: 1 mL | 9/15/2017
o2si smart solutions | Amphetamine Solution, 400 mg/L, 2 x 1 mL in Methanol | Amber ampule: 1 mL x 2 | 9/15/2017
o2si smart solutions | Amphetamine Solution, 400 mg/L, 3 x 1 mL in Methanol | Amber ampule: 1 mL x 3 | 9/15/2017
o2si smart solutions | Amphetamine Solution, 400 mg/L, 5 x 1 mL in Methanol | Amber ampule: 1 mL x 5 | 9/15/2017
o2si smart solutions | Anhydroecgonine methyl ester Solution, 400 mg/L, 2 x 1 mL | Glass ampules: 1 mL x 2 | 8/9/2017
o2si smart solutions | Benzoylecgonine Solution, 100 mg/L, 1 mL in Methanol | Amber Ampule: 1 ml | 8/18/2017
o2si smart solutions | Benzoylecgonine Solution, 400 mg/L, 2 x 1 mL in Methanol | Amber Ampule: 1 ml x 2 | 8/18/2017
o2si smart solutions | Benzoylecgonine Solution, 400 mg/L, 3 x 1 mL in Methanol | Amber Ampule: 1 ml x 3 | 8/18/2017
o2si smart solutions | Benzoylecgonine Solution, 400 mg/L, 4 x 1 mL in Methanol | Amber Ampule: 1 ml x 4 | 8/18/2017
o2si smart solutions | Bromazepam Solution, 10 mg/L, 5 x 1 mL in Methanol | Amber Ampule: 1 ml x 5 | 8/18/2017
o2si smart solutions | Bromazepam Solution, 100 mg/L, 1 mL in Methanol | Amber Ampule: 1 ml | 8/18/2017
o2si smart solutions | Bromazepam Solution, 400 mg/L, 2 x 1 mL in Methanol | Amber Ampule: 1 ml x 2 | 8/18/2017
o2si smart solutions | Bromazepam Solution, 400 mg/L, 3 x 1 mL in Methanol | Amber Ampule: 1 ml x 3 | 8/18/2017
o2si smart solutions | Bufotenine Solution, 1,000 mg/L, 1 mL in Acetonitrile | Amber Ampule: 1 ml | 8/18/2017
o2si smart solutions | Buprenorphine Solution, 100 mg/L, 1 mL in Methanol | Amber Ampule: 1 ml | 8/18/2017
o2si smart solutions | Buprenorphine Solution, 400 mg/L, 2 x 1 mL | Clamshell: 2 vials, 1 mL each | 6/23/2017
o2si smart solutions | Buprenorphine Solution, 400 mg/L, 2 x 1 mL in Methanol | Amber Ampule: 1 ml x 2 | 8/18/2017
o2si smart solutions | Buprenorphine Solution, 400 mg/L, 2 x 1 mL in Methanol | Amber Ampule: 1 ml x 2 | 8/18/2017
o2si smart solutions | Buprenorphine Solution, 400 mg/L, 3 x 1 mL in Methanol | Amber Ampule: 1 ml x 3 | 8/18/2017
o2si smart solutions | Buprenorphine-D4 Solution, 100 mg/L, 1 mL in Methanol | Amber Ampule: 1 ml | 8/18/2017
o2si smart solutions | Buprenorphine-D4 Solution, 400 mg/L, 2 x 1 mL in Methanol | Amber Ampule: 1 ml x 2 | 8/18/2017
o2si smart solutions | Butorphanol Tartrate Solution, 400 mg/L, 2 x 1 mL in Methanol | Amber Ampule: 1 ml x 2 | 8/18/2017
o2si smart solutions | Butorphanol Tartrate Solution, 400 mg/L, 2 x 1 mL in Methanol | Amber Ampule: 1 ml x 2 | 8/18/2017
o2si smart solutions | Butorphanol Tartrate Solution, 400 mg/L, 3 x 1 mL in Methanol | Amber Ampule: 1 ml x 3 | 8/18/2017
o2si smart solutions | Cocaine Solution, 400 mg/L, 2 x 1 mL | Clamshell: 2 vials, 1 mL each | 6/23/2017
o2si smart solutions | Codeine Monohydrate as Codeine in Acetonitrile 1,000 mg/L, 1 mL | Amber ampule: 1 mL | 10/10/2017
o2si smart solutions | Codeine Monohydrate as Codeine in Acetonitrile Solution, 5,000 mg/L | Amber ampule: 1 mL | 10/10/2017
o2si smart solutions | Codeine Monohydrate as Codeine in Methanol 1,000 mg/L, 1 mL | Amber ampule: 1 mL | 10/10/2017
o2si smart solutions | Codeine Monohydrate as Codeine in Methanol 1,000 mg/L, 5 x 1 mL | Amber ampule: 1 mL x 5 | 10/10/2017
o2si smart solutions | Codeine Monohydrate as Codeine in Methanol 100 mg/L, 1 mL | Amber ampule: 1 mL | 10/10/2017
o2si smart solutions | Codeine Monohydrate as Codeine in Methanol 100 mg/L, 5 x 1 mL | Amber ampule: 1 mL x 5 | 10/10/2017
o2si smart solutions | Codeine Monohydrate as Codeine in Methanol 400 mg/L, 1 mL | Amber ampule: 1 mL | 10/10/2017
o2si smart solutions | Codeine Monohydrate as Codeine in Methanol 400 mg/L, 3 x 1 mL | Amber ampule: 1 mL x 3 | 10/10/2017
o2si smart solutions | Codeine Monohydrate as Codeine in Methanol 400 mg/L, 5 x 1 mL | Amber ampule: 1 mL x 5 | 10/10/2017
o2si smart solutions | Codeine Solution in Methanol, 1,000 mg/L, 1 mL | Amber ampule: 1 mL | 10/10/2017
o2si smart solutions | Codeine Solution in Methanol, 1,000 mg/L, 5 x 1 mL | Amber ampule: 1 mL x 5 | 10/10/2017
o2si smart solutions | Codeine Solution in Methanol, 100 mg/L, 1 mL | Amber ampule: 1 mL | 10/10/2017
o2si smart solutions | Codeine Solution in Methanol, 100 mg/L, 5 x 1 mL | Amber ampule: 1 mL x 5 | 10/10/2017
o2si smart solutions | Codeine Solution in Methanol, 400 mg/L, 1 mL | Amber ampule: 1 mL | 10/10/2017
o2si smart solutions | Codeine Solution in Methanol, 400 mg/L, 3 x 1 mL | Amber ampule: 1 mL x 3 | 10/10/2017
o2si smart solutions | Codeine Solution in Methanol, 400 mg/L, 5 x 1 mL | Amber ampule: 1 mL x 5 | 10/10/2017
o2si smart solutions | Codeine Solution, 100 mg/L, 1 mL in Methanol | Amber ampule: 1 mL | 10/10/2017
o2si smart solutions | Codeine Solution, 400 mg/L, 2 x 1 mL in Methanol | Amber ampule: 1 mL x 2 | 10/10/2017
o2si smart solutions | Codeine Solution, 400 mg/L, 3 x 1 mL in Methanol | Amber ampule: 1 mL x 3 | 10/10/2017
o2si smart solutions | Codeine Solution, 400 mg/L, 4 x 1 mL in Methanol | Amber ampule: 1 mL x 4 | 10/10/2017
o2si smart solutions | Codeine-D3 Solution, 1,000 mg/L, 1 mL in Methanol | Amber ampule: 1 mL | 10/10/2017
o2si smart solutions | Codeine-D3 Solution, 1,000 mg/L, 5 x 1 mL in Methanol | Amber ampule: 1 mL x 5 | 10/10/2017
o2si smart solutions | Codeine-D3 Solution, 100 mg/L, 1 mL in Methanol | Amber ampule: 1 mL | 10/10/2017
o2si smart solutions | Codeine-D3 Solution, 100 mg/L, 5 mL in Methanol | Amber ampule: 5 mL | 10/10/2017
o2si smart solutions | Codeine-D3 Solution, 100 mg/L, 5 x 1 mL in Methanol | Amber ampule: 1 mL x 5 | 10/10/2017
o2si smart solutions | Codeine-D3 Solution, 400 mg/L, 1 mL in Methanol | Amber ampule: 1 mL | 10/10/2017
o2si smart solutions | Codeine-D3 Solution, 400 mg/L, 3 x 1 mL in Methanol | Amber ampule: 1 mL x 3 | 10/10/2017
o2si smart solutions | Codeine-D3 Solution, 400 mg/L, 5 x 1 mL in Methanol | Amber ampule: 1 mL x 5 | 10/10/2017
o2si smart solutions | Codeine-D6 Solution in Methanol, 100 mg/L, 1 mL in Methanol | Amber ampule: 1 mL | 10/10/2017
o2si smart solutions | Codeine-D6 Solution, 1,000 mg/L, 1 mL in Methanol | Amber ampule: 1 mL | 10/10/2017
o2si smart solutions | Codeine-D6 Solution, 1,000 mg/L, 5 x 1 mL in Methanol | Amber ampule: 1 mL x 5 | 10/10/2017
o2si smart solutions | Codeine-D6 Solution, 100 mg/L, 1 mL in Methanol | Amber ampule: 1 mL | 10/10/2017
o2si smart solutions | Codeine-D6 Solution, 100 mg/L, 5 x 1 mL in Methanol | Amber ampule: 1 mL x 5 | 10/10/2017
o2si smart solutions | Codeine-D6 Solution, 400 mg/L, 1 mL in Methanol | Amber ampule: 1 mL | 10/10/2017
o2si smart solutions | Codeine-D6 Solution, 400 mg/L, 2 x 1 mL in Methanol | Amber ampule: 1 mL x 2 | 10/10/2017
o2si smart solutions | Codeine-D6 Solution, 400 mg/L, 3 x 1 mL in Methanol | Amber ampule: 1 mL x 3 | 10/10/2017
o2si smart solutions | Codeine-D6 Solution, 400 mg/L, 5 x 1 mL in Methanol | Amber ampule: 1 mL x 5 | 10/10/2017
o2si smart solutions | Custom Semi-Volatile Mix #3 (Second Source), 33-1811, 2,000 mg/L | Amber ampule: 1 mL | 5/3/2017
o2si smart solutions | Custom Semi-Volatile Mix #3 (Second Source), 33-1811, 2,000 mg/L, 1 mL in M-t-BE:MeCl2 1:1 | Amber Ampule: 1 ml | 8/18/2017
o2si smart solutions | Custom Semi-Volatile Mix #3, 33-1811, 2,000 mg/L, 1 ml in M-t-BE:MeCl2 1:1 | Amber ampule: 1 mL | 10/12/2017
o2si smart solutions | Custom Semi-Volatile Mix, 18-7, 2,000 mg/L, 1 mL | Amber ampule: 1 mL | 6/15/2017
o2si smart solutions | Custom Semi-Volatile Mix, 18-7, 2,000 mg/L, 5 x 1 ml | Clamshell: 5 vials, 1 mL each | 6/15/2017
o2si smart solutions | Custom Semi-Volatile Mix, 4-2376, 100 mg/L, 1 mL | Amber ampule: 1 mL | 6/15/2017
o2si smart solutions | Custom Semi-Volatile Mix, 4-2376, 100 mg/L, 5 x 1 mL | Clamshell: 5 vials, 1 mL each | 6/15/2017
o2si smart solutions | Custom Volatile Mix for GC-MS, 43-1768, 1,000 mg/L, 1 mL | Amber ampule: 1 mL | 6/15/2017
o2si smart solutions | Custom Volatile Mix for GC-MS, 43-1768, 1,000 mg/L, 4 x 1 mL | Clamshell: 4 vials, 1 mL each | 6/15/2017
o2si smart solutions | Diazepam Solution, 1,000 mg/L, 1 mL in Methanol | Amber ampule: 1 mL | 10/2/2017
o2si smart solutions | Diazepam Solution, 100 mg/L, 1 mL in Methanol | Amber ampule: 1 mL | 10/2/2017
o2si smart solutions | Diazepam Solution, 100 mg/L, 5 x 1 mL in Methanol | Amber ampule: 1 mL x 5 | 10/2/2017
o2si smart solutions | Diazepam Solution, 400 mg/L, 1 mL in Methanol | Amber ampule: 1 mL | 10/2/2017
o2si smart solutions | Diazepam Solution, 400 mg/L, 2 x 1 ml in Methanol | Amber ampule: 1 mL x 2 | 10/2/2017
o2si smart solutions | Diazepam Solution, 400 mg/L, 3 x 1 mL in Methanol | Amber ampule: 1 mL x 3 | 10/2/2017
o2si smart solutions | Diazepam Solution, 400 mg/L, 5 x 1 mL in Methanol | Amber ampule: 1 mL x 5 | 10/2/2017
o2si smart solutions | Diethylpropion HCl as Diethylpropion Solution, 1,000 mg/L, 1 ml in Acetonitrile | Amber ampule: 1 mL | 9/1/2017
o2si smart solutions | Diethylpropion HCl as Diethylpropion Solution, 1,000 mg/L, 5 x 1 ml in Acetonitrile | Amber ampule: 1 mL x 5 | 9/1/2017
o2si smart solutions | Diethylpropion HCl as Diethylpropion Solution, 100 mg/L, 1 ml in Acetonitrile | Amber ampule: 1 mL | 9/1/2017
o2si smart solutions | Diethylpropion HCl as Diethylpropion Solution, 100 mg/L, 5 x 1 ml in Acetonitrile | Amber ampule: 1 mL x 5 | 9/1/2017
o2si smart solutions | Diethylpropion HCl as Diethylpropion Solution, 400 mg/L, 1 ml in Acetonitrile | Amber ampule: 1 mL | 9/1/2017
o2si smart solutions | Diethylpropion HCl as Diethylpropion Solution, 400 mg/L, 3 x 1 ml in Acetonitrile | Amber ampule: 1 mL x 3 | 9/1/2017
o2si smart solutions | Diethylpropion HCl as Diethylpropion Solution, 400 mg/L, 5 x 1 ml in Acetonitrile | Amber ampule: 1 mL x 5 | 9/1/2017
o2si smart solutions | Diethylpropion HCl Solution, 1,000 mg/L, 1 ml in Acetonitrile | Amber ampule: 1 mL | 9/1/2017
o2si smart solutions | Diethylpropion HCl Solution, 1,000 mg/L, 5 x 1 ml in Acetonitrile | Amber ampule: 1 mL x 5 | 9/1/2017
o2si smart solutions | Diethylpropion HCl Solution, 100 mg/L, 1 ml in Acetonitrile | Amber ampule: 1 mL | 9/1/2017
o2si smart solutions | Diethylpropion HCl Solution, 100 mg/L, 5 x 1 ml in Acetonitrile | Amber ampule: 1 mL x 5 | 9/1/2017
o2si smart solutions | Diethylpropion HCl Solution, 400 mg/L, 1 ml in Acetonitrile | Amber ampule: 1 mL | 9/1/2017
o2si smart solutions | Diethylpropion HCl Solution, 400 mg/L, 3 x 1 ml in Acetonitrile | Amber ampule: 1 mL x 3 | 9/1/2017
o2si smart solutions | Diethylpropion HCl Solution, 400 mg/L, 5 x 1 ml in Acetonitrile | Amber ampule: 1 mL x 5 | 9/1/2017
o2si smart solutions | EPA 8270 LCS Mix, 50:100:500 mg/L, 25 mL (RM, ISO GUIDE 34) | Glass bottle: 25 mL | 5/3/2017
o2si smart solutions | Ethylmorphine Solution, 100 mg/L, 1 mL | Amber ampule: 1 mL | 6/23/2017
o2si smart solutions | Flurazepam Solution, 1,000 mg/L, 1 ml in Methanol | Amber ampule: 1 mL | 10/12/2017
o2si smart solutions | Flurazepam Solution, 1,000 mg/L, 5 x 1 ml in Methanol | Amber ampule: 1 mL x 5 | 10/12/2017
o2si smart solutions | Flurazepam Solution, 100 mg/L, 1 ml in Methanol | Amber ampule: 1 mL | 10/12/2017
o2si smart solutions | Flurazepam Solution, 100 mg/L, 5 x 1 ml in Methanol | Amber ampule: 1 mL x 5 | 10/12/2017
o2si smart solutions | Flurazepam Solution, 400 mg/L, 1 ml in Methanol | Amber ampule: 1 mL | 10/12/2017
o2si smart solutions | Flurazepam Solution, 400 mg/L, 2 x 1 ml in Methanol | Amber ampule: 1 mL x 2 | 10/12/2017
o2si smart solutions | Flurazepam Solution, 400 mg/L, 2 x 1 ml in Methanol | Amber ampule: 1 mL x 2 | 10/12/2017
o2si smart solutions | Flurazepam Solution, 400 mg/L, 3 x 1 ml in Methanol | Amber ampule: 1 mL x 3 | 10/12/2017
o2si smart solutions | Flurazepam Solution, 400 mg/L, 3 x 1 ml in Methanol | Amber ampule: 1 mL x 3 | 10/12/2017
o2si smart solutions | Flurazepam Solution, 400 mg/L, 5 x 1 ml in Methanol | Amber ampule: 1 mL x 5 | 10/12/2017
o2si smart solutions | ISO 17034—Custom Toxin/Poison Spiking Standard Mix, 45-46, 20 mg/L, 1 ml | Amber ampule: 1 mL | 4/27/2018
o2si smart solutions | ISO 17034—Custom Toxin/Poison Standard Kit, 45-46, 100, 20, 1 mg/L, 1 x 1 ml of Each Level | Kit: 3 ampules, 1 mL each | 4/27/2018
o2si smart solutions | ISO 17034—Custom Toxin/Poison Stock Standard Mix, 45-46, 100 mg/L, 1 ml | Amber ampule: 1 mL | 4/27/2018
o2si smart solutions | ISO 17034—Custom Toxin/Poison Working Standard Mix, 45-46, 1 mg/L, 1 ml | Amber ampule: 1 mL | 4/27/2018
o2si smart solutions | ISO 17034 (±)-Amphetamine-D11 Solution, 1,000 mg/L, 1 mL in Methanol | Amber ampule: 1 mL | 9/15/2017
o2si smart solutions | ISO 17034 (±)-Amphetamine-D11 Solution, 100 mg/L, 1 mL in Methanol | Amber ampule: 1 mL | 9/15/2017
o2si smart solutions | ISO 17034 (±)-Amphetamine-D11 Solution, 100 mg/L, 5 x 1 mL in Methanol | Amber ampule: 1 mL x 5 | 9/15/2017
o2si smart solutions | ISO 17034 (±)-Amphetamine-D11 Solution, 400 mg/L, 1 mL in Methanol | Amber ampule: 1 mL | 9/15/2017
o2si smart solutions | ISO 17034 (±)-Amphetamine-D11 Solution, 400 mg/L, 3 x 1 mL in Methanol | Amber ampule: 1 mL x 3 | 9/15/2017
o2si smart solutions | ISO 17034 (±)-Amphetamine-D11 Solution, 400 mg/L, 5 x 1 mL in Methanol | Amber ampule: 1 mL x 5 | 9/15/2017
o2si smart solutions | ISO 17034 (±)-Amphetamine-D5 (deuterium label on ring) Solution, 1,000 mg/L, 1 mL in Methanol | Amber ampule: 1 mL | 9/15/2017
o2si smart solutions | ISO 17034 (±)-Amphetamine-D5 (deuterium label on ring) Solution, 100 mg/L, 1 mL in Methanol | Amber ampule: 1 mL | 9/15/2017
o2si smart solutions | ISO 17034 (±)-Amphetamine-D5 (deuterium label on ring) Solution, 100 mg/L, 5 x 1 mL in Methanol | Amber ampule: 1 mL x 5 | 9/15/2017
o2si smart solutions | ISO 17034 (±)-Amphetamine-D5 (deuterium label on ring) Solution, 400 mg/L, 1 mL in Methanol | Amber ampule: 1 mL | 9/15/2017
o2si smart solutions | ISO 17034 (±)-Amphetamine-D6 Solution, 1,000 mg/L, 1 mL in Methanol | Amber ampule: 1 mL | 9/15/2017
o2si smart solutions | ISO 17034 (±)-Amphetamine-D6 Solution, 100 mg/L, 1 mL in Methanol | Amber ampule: 1 mL | 9/15/2017
o2si smart solutions | ISO 17034 (±)-Amphetamine-D6 Solution, 100 mg/L, 5 x 1 mL in Methanol | Amber ampule: 1 mL x 5 | 9/15/2017
o2si smart solutions | ISO 17034 (±)-Amphetamine-D6 Solution, 400 mg/L, 1 mL in Methanol | Amber ampule: 1 mL | 9/15/2017
o2si smart solutions | ISO 17034 (±)-Amphetamine-D6 Solution, 400 mg/L, 3 x 1 mL in Methanol | Amber ampule: 1 mL x 3 | 9/15/2017
o2si smart solutions | ISO 17034 (±)-Amphetamine-D6 Solution, 400 mg/L, 5 x 1 mL in Methanol | Amber ampule: 1 mL x 5 | 9/15/2017
o2si smart solutions | ISO 17034 (±)-Amphetamine-D8 Solution, 1,000 mg/L, 1 mL in Methanol | Amber ampule: 1 mL | 9/15/2017
o2si smart solutions | ISO 17034 (±)-Amphetamine-D8 Solution, 100 mg/L, 1 mL in Methanol | Amber ampule: 1 mL | 9/15/2017
o2si smart solutions | ISO 17034 (±)-Amphetamine-D8 Solution, 100 mg/L, 5 x 1 mL in Methanol | Amber ampule: 1 mL x 5 | 9/15/2017
o2si smart solutions | ISO 17034 (±)-Amphetamine-D8 Solution, 400 mg/L, 1 mL in Methanol | Amber ampule: 1 mL | 9/15/2017
o2si smart solutions | ISO 17034 (±)-Amphetamine-D8 Solution, 400 mg/L, 2 x 1 mL in Methanol | Amber ampule: 1 mL x 2 | 9/15/2017
o2si smart solutions | ISO 17034 (±)-Amphetamine-D8 Solution, 400 mg/L, 3 x 1 mL in Methanol | Amber ampule: 1 mL x 3 | 9/15/2017
o2si smart solutions | ISO 17034 (±)-Amphetamine-D8 Solution, 400 mg/L, 5 x 1 mL in Methanol | Amber ampule: 1 mL x 5 | 9/15/2017
o2si smart solutions | ISO 17034 Amphetamine Solution, 1,000 mg/L, 1 mL in Methanol | Amber ampule: 1 mL | 9/15/2017
o2si smart solutions | ISO 17034 Amphetamine Solution, 100 mg/L, 1 mL in Methanol | Amber ampule: 1 mL | 9/15/2017
o2si smart solutions | ISO 17034 Amphetamine Solution, 100 mg/L, 5 x 1 mL in Methanol | Amber ampule: 1 mL x 5 | 9/15/2017
o2si smart solutions | ISO 17034 Amphetamine Solution, 400 mg/L, 1 mL in Methanol | Amber ampule: 1 mL | 9/15/2017
o2si smart solutions | ISO 17034 Amphetamine Solution, 400 mg/L, 2 x 1 mL in Methanol | Amber ampule: 1 mL x 2 | 9/15/2017
o2si smart solutions | ISO 17034 Amphetamine Solution, 400 mg/L, 3 x 1 mL in Methanol | Amber ampule: 1 mL x 3 | 9/15/2017
o2si smart solutions | ISO 17034 Amphetamine Solution, 400 mg/L, 5 x 1 mL in Methanol | Amber ampule: 1 mL x 5 | 9/15/2017
o2si smart solutions | ISO 17034 Codeine Monohydrate as Codeine in Acetonitrile 1,000 mg/L, 1 mL | Amber ampule: 1 mL | 10/10/2017
o2si smart solutions | ISO 17034 Codeine Monohydrate as Codeine in Methanol 1,000 mg/L, 1 mL | Amber ampule: 1 mL | 10/10/2017
o2si smart solutions | ISO 17034 Codeine Monohydrate as Codeine in Methanol 1,000 mg/L, 5 x 1 mL | Amber ampule: 1 mL x 5 | 10/10/2017
o2si smart solutions | ISO 17034 Codeine Monohydrate as Codeine in Methanol 100 mg/L, 1 mL | Amber ampule: 1 mL | 10/10/2017
o2si smart solutions | ISO 17034 Codeine Monohydrate as Codeine in Methanol 100 mg/L, 5 x 1 mL | Amber ampule: 1 mL x 5 | 10/10/2017
o2si smart solutions | ISO 17034 Codeine Monohydrate as Codeine in Methanol 400 mg/L, 1 mL | Amber ampule: 1 mL | 10/10/2017
o2si smart solutions | ISO 17034 Codeine Monohydrate as Codeine in Methanol 400 mg/L, 3 x 1 mL | Amber ampule: 1 mL x 3 | 10/10/2017
o2si smart solutions | ISO 17034 Codeine Monohydrate as Codeine in Methanol 400 mg/L, 5 x 1 mL | Amber ampule: 1 mL x 5 | 10/10/2017
o2si smart solutions | ISO 17034 Codeine Solution in Methanol, 1,000 mg/L, 1 mL | Amber ampule: 1 mL | 10/10/2017
o2si smart solutions | ISO 17034 Codeine Solution in Methanol, 1,000 mg/L, 5 x 1 mL | Amber ampule: 1 mL x 5 | 10/10/2017
o2si smart solutions | ISO 17034 Codeine Solution in Methanol, 100 mg/L, 1 mL | Amber ampule: 1 mL | 10/10/2017
o2si smart solutions | ISO 17034 Codeine Solution in Methanol, 100 mg/L, 5 x 1 mL | Amber ampule: 1 mL x 5 | 10/10/2017
o2si smart solutions | ISO 17034 Codeine Solution in Methanol, 400 mg/L, 1 mL | Amber ampule: 1 mL | 10/10/2017
o2si smart solutions | ISO 17034 Codeine Solution in Methanol, 400 mg/L, 3 x 1 mL | Amber ampule: 1 mL x 3 | 10/10/2017
o2si smart solutions | ISO 17034 Codeine Solution in Methanol, 400 mg/L, 5 x 1 mL | Amber ampule: 1 mL x 5 | 10/10/2017
o2si smart solutions | ISO 17034 Codeine-D3 Solution, 1,000 mg/L, 1 mL in Methanol | Amber ampule: 1 mL | 10/10/2017
o2si smart solutions | ISO 17034 Codeine-D3 Solution, 1,000 mg/L, 5 x 1 mL in Methanol | Amber ampule: 1 mL x 5 | 10/10/2017
o2si smart solutions | ISO 17034 Codeine-D3 Solution, 100 mg/L, 1 mL in Methanol | Amber ampule: 1 mL | 10/10/2017
o2si smart solutions | ISO 17034 Codeine-D3 Solution, 100 mg/L, 5 x 1 mL in Methanol | Amber ampule: 1 mL x 5 | 10/10/2017
o2si smart solutions | ISO 17034 Codeine-D3 Solution, 400 mg/L, 1 mL in Methanol | Amber ampule: 1 mL | 10/10/2017
o2si smart solutions | ISO 17034 Codeine-D3 Solution, 400 mg/L, 3 x 1 mL in Methanol | Amber ampule: 1 mL x 3 | 10/10/2017
o2si smart solutions | ISO 17034 Codeine-D3 Solution, 400 mg/L, 5 x 1 mL in Methanol | Amber ampule: 1 mL x 5 | 10/10/2017
o2si smart solutions | ISO 17034 Codeine-D6 Solution, 1,000 mg/L, 1 mL in Methanol | Amber ampule: 1 mL | 10/10/2017
o2si smart solutions | ISO 17034 Codeine-D6 Solution, 1,000 mg/L, 5 x 1 mL in Methanol | Amber ampule: 1 mL x 5 | 10/10/2017
o2si smart solutions | ISO 17034 Codeine-D6 Solution, 100 mg/L, 1 mL in Methanol | Amber ampule: 1 mL | 10/10/2017
o2si smart solutions | ISO 17034 Codeine-D6 Solution, 100 mg/L, 5 x 1 mL in Methanol | Amber ampule: 1 mL x 5 | 10/10/2017
o2si smart solutions | ISO 17034 Codeine-D6 Solution, 400 mg/L, 1 mL in Methanol | Amber ampule: 1 mL | 10/10/2017
o2si smart solutions | ISO 17034 Codeine-D6 Solution, 400 mg/L, 3 x 1 mL in Methanol | Amber ampule: 1 mL x 3 | 10/10/2017
o2si smart solutions | ISO 17034 Codeine-D6 Solution, 400 mg/L, 5 x 1 mL in Methanol | Amber ampule: 1 mL x 5 | 10/10/2017
o2si smart solutions | ISO 17034 Diazepam Solution, 1,000 mg/L, 1 mL in Methanol | Amber ampule: 1 mL | 10/2/2017
o2si smart solutions | ISO 17034 Diazepam Solution, 100 mg/L, 1 mL in Methanol | Amber ampule: 1 mL | 10/2/2017
o2si smart solutions | ISO 17034 Diazepam Solution, 100 mg/L, 5 x 1 mL in Methanol | Amber ampule: 1 mL x 5 | 10/2/2017
o2si smart solutions | ISO 17034 Diazepam Solution, 400 mg/L, 1 mL in Methanol | Amber ampule: 1 mL | 10/2/2017
o2si smart solutions | ISO 17034 Diazepam Solution, 400 mg/L, 3 x 1 mL in Methanol | Amber ampule: 1 mL x 3 | 10/2/2017
o2si smart solutions | ISO 17034 Diazepam Solution, 400 mg/L, 5 x 1 mL in Methanol | Amber ampule: 1 mL x 5 | 10/2/2017
o2si smart solutions | ISO 17034 Flurazepam Solution, 1,000 mg/L, 1 ml in Methanol | Amber ampule: 1 mL | 10/12/2017
o2si smart solutions | ISO 17034 Flurazepam Solution, 1,000 mg/L, 5 x 1 ml in Methanol | Amber ampule: 1 mL x 5 | 10/12/2017
o2si smart solutions | ISO 17034 Flurazepam Solution, 100 mg/L, 1 ml in Methanol | Amber ampule: 1 mL | 10/12/2017
o2si smart solutions | ISO 17034 Flurazepam Solution, 100 mg/L, 5 x 1 ml in Methanol | Amber ampule: 1 mL x 5 | 10/12/2017
o2si smart solutions | ISO 17034 Flurazepam Solution, 400 mg/L, 1 ml in Methanol | Amber ampule: 1 mL | 10/12/2017
o2si smart solutions | ISO 17034 Flurazepam Solution, 400 mg/L, 2 x 1 ml in Methanol | Amber ampule: 1 mL x 2 | 10/12/2017
o2si smart solutions | ISO 17034 Flurazepam Solution, 400 mg/L, 3 x 1 ml in Methanol | Amber ampule: 1 mL x 3 | 10/12/2017
o2si smart solutions | ISO 17034 Flurazepam Solution, 400 mg/L, 5 x 1 ml in Methanol | Amber ampule: 1 mL x 5 | 10/12/2017
o2si smart solutions | ISO 17034 S(+)-Amphetamine (dextro-Amphetamine) Solution, 1,000 mg/L, 1 mL in Acetonitrile | Amber ampule: 1 mL | 9/15/2017
o2si smart solutions | ISO 17034 S(+)-Amphetamine (dextro-Amphetamine) Solution, 100 mg/L, 1 mL in Acetonitrile | Amber ampule: 1 mL | 9/15/2017
o2si smart solutions | ISO 17034 S(+)-Amphetamine (dextro-Amphetamine) Solution, 100 mg/L, 5 x 1 mL in Acetonitrile | Amber ampule: 1 mL x 5 | 9/15/2017
o2si smart solutions | ISO 17034 S(+)-Amphetamine (dextro-Amphetamine) Solution, 400 mg/L, 1 mL in Acetonitrile | Amber ampule: 1 mL | 9/15/2017
o2si smart solutions | ISO 17034 S(+)-Amphetamine (dextro-Amphetamine) Solution, 400 mg/L, 3 x 1 mL in Acetonitrile | Amber ampule: 1 mL x 3 | 9/15/2017
o2si smart solutions | ISO 17034 S(+)-Amphetamine (dextro-Amphetamine) Solution, 400 mg/L, 5 x 1 mL in Acetonitrile | Amber ampule: 1 mL x 5 | 9/15/2017
o2si smart solutions | ISO Guide 34—8270 App. IX Solution, 20-880, 2,000 mg/L | Clamshell: 2 vials, 1 mL each | 5/3/2017
o2si smart solutions | ISO Guide 34—Custom 8270 Standard #2B (Second Source), 27-1582, 1,000/2,000 mg/L | Amber ampule: 1 mL | 5/3/2017
o2si smart solutions | ISO Guide 34—Custom 8270 Standard #2B, 26-1582, 1,000 mg/L | Amber ampule: 1 mL | 5/3/2017
o2si smart solutions | Lorazepam Solution, 100 mg/L, 1 mL | Amber ampule: 1 mL | 6/23/2017
o2si smart solutions | Methamphetamine HCl Solution, 1,000 mg/L, 1 ml in Methanol | Amber ampule: 1 ml | 8/18/2017
o2si smart solutions | Methamphetamine HCl Solution, 100 mg/L, 1 mL | Amber ampule: 1 mL | 6/23/2017
o2si smart solutions | Methamphetamine HCl Solution, 100 mg/L, 1 ml in Methanol | Amber ampule: 1 ml | 8/18/2017
o2si smart solutions | Methamphetamine HCl Solution, 100 mg/L, 5 x 1 ml in Methanol | Amber ampule: 1 ml x 5 | 8/18/2017
o2si smart solutions | Methamphetamine HCl Solution, 400 mg/L, 1 ml in Methanol | Amber ampule: 1 ml | 8/18/2017
o2si smart solutions | Methamphetamine HCl Solution, 400 mg/L, 3 x 1 ml in Methanol | Amber ampule: 1 ml x 3 | 8/18/2017
o2si smart solutions | Methamphetamine HCl Solution, 400 mg/L, 5 x 1 ml in Methanol | Amber ampule: 1 ml x 5 | 8/18/2017
o2si smart solutions | Methamphetamine Solution, 1,000 mg/L, 1 ml in Methanol | Amber ampule: 1 ml | 8/18/2017
o2si smart solutions | Methamphetamine Solution, 100 mg/L, 1 ml in Methanol | Amber ampule: 1 ml | 8/18/2017
o2si smart solutions | Methamphetamine Solution, 100 mg/L, 5 x 1 ml in Methanol | Amber ampule: 1 ml x 5 | 8/18/2017
o2si smart solutions | Methamphetamine Solution, 400 mg/L, 1 ml in Methanol | Amber ampule: 1 ml | 8/18/2017
o2si smart solutions | Methamphetamine Solution, 400 mg/L, 3 x 1 ml in Methanol | Amber ampule: 1 ml x 3 | 8/18/2017
o2si smart solutions | Methamphetamine Solution, 400 mg/L, 5 x 1 ml in Methanol | Amber ampule: 1 ml x 5 | 8/18/2017
o2si smart solutions | Nitrazepam Solution, 100 mg/L | Amber ampule: 1 mL | 5/3/2017
o2si smart solutions | Oxazepam Solution 100 mg/L, 1 mL | Amber ampule: 1 mL | 6/23/2017
o2si smart solutions | Oxazepam Solution 1,000 mg/L, 1 mL | Amber ampule: 1 mL | 6/23/2017
o2si smart solutions | Oxycodone Solution, 400 mg/L, 3 x 1 mL | Clamshell: 3 vials, 1 mL each | 6/15/2017
o2si smart solutions | R(−)-Methamphetamine Solution 1,000 mg/L, 1 ml in Methanol | Amber ampule: 1 ml | 8/18/2017
o2si smart solutions | R(−)-Methamphetamine Solution 100 mg/L, 1 ml in Methanol | Amber ampule: 1 ml | 8/18/2017
o2si smart solutions | R(−)-Methamphetamine Solution 100 mg/L, 5 x 1 ml in Methanol | Amber ampule: 1 ml x 5 | 8/18/2017
o2si smart solutions | R(−)-Methamphetamine Solution 400 mg/L, 1 ml in Methanol | Amber ampule: 1 ml | 8/18/2017
o2si smart solutions | R(−)-Methamphetamine Solution 400 mg/L, 3 x 1 ml in Methanol | Amber ampule: 1 ml x 3 | 8/18/2017
o2si smart solutions | R(−)-Methamphetamine Solution 400 mg/L, 5 x 1 ml in Methanol | Amber ampule: 1 ml x 5 | 8/18/2017
o2si smart solutions | S(+)-Amphetamine (dextro-Amphetamine) Solution, 1,000 mg/L, 1 mL in Acetonitrile | Amber ampule: 1 mL | 9/15/2017
o2si smart solutions | S(+)-Amphetamine (dextro-Amphetamine) Solution, 100 mg/L, 1 mL in Acetonitrile | Amber ampule: 1 mL | 9/15/2017
o2si smart solutions | S(+)-Amphetamine (dextro-Amphetamine) Solution, 100 mg/L, 5 x 1 mL in Acetonitrile | Amber ampule: 1 mL x 5 | 9/15/2017
o2si smart solutions | S(+)-Amphetamine (dextro-Amphetamine) Solution, 400 mg/L, 1 mL in Acetonitrile | Amber ampule: 1 mL | 9/15/2017
o2si smart solutions | S(+)-Amphetamine (dextro-Amphetamine) Solution, 400 mg/L, 3 x 1 ml | Glass ampules: 1 mL x 3 | 8/9/2017
o2si smart solutions | S(+)-Amphetamine (dextro-Amphetamine) Solution, 400 mg/L, 3 x 1 mL in Acetonitrile | Amber ampule: 1 mL x 3 | 9/15/2017
o2si smart solutions | S(+)-Amphetamine (dextro-Amphetamine) Solution, 400 mg/L, 5 x 1 mL in Acetonitrile | Amber ampule: 1 mL x 5 | 9/15/2017
o2si smart solutions | Temazepam Solution, 100 mg/L, 1 mL | Amber ampule: 1 mL | 6/23/2017
o2si smart solutions | trans-Testosterone Solution, 100 mg/L, 1 mL | Amber ampule: 1 mL | 6/23/2017
o2si smart solutions | UCMR 539 Solution, Various Concentrations | Amber ampule: 1 mL | 5/3/2017
OWA | BCHE-X | Amber vial: 5 mL | 3/27/2017
OWA | CCHM-X | Amber vial: 5 mL | 3/27/2017
OWA | ENDO-X | Amber vial: 5 mL | 3/27/2017
OWA | SPCH-X | Amber vial: 5 mL | 3/27/2017
OWA | TOXI-X | Amber vial: 5 mL | 3/27/2017
Restek Corporation | Cannabidolic Acid (CBDA) Standard (1,000 µg/mL in Acetonitrile) | Glass ampule: 1.3 mL | 5/18/2018
Restek Corporation | Custom Halogenated Nitriles Standard | Ampule: 1.3 mL | 4/20/2018
Restek Corporation | Hormones Mix (Rev. 2) | Glass ampule: 1.3 mL | 6/29/2018
Restek Corporation | Tetrahydrocannabivarin (THCV) Standard (1,000 µg/mL in Methanol) | Glass ampule: 1.3 mL | 5/18/2018
Restek Corporation | THCA-A Standard (1,000 µg/mL in Acetonitrile) | Glass ampule: 1.3 mL | 5/18/2018
Siemens Healthcare Diagnostics Inc | Emit Antileptic Drug Calibrators | Vial: 3 mL | 6/11/2018
Siemens Healthcare Diagnostics Inc | Emit Antileptic Drug Calibrators 1 | Vial: 3 mL | 6/11/2018
Siemens Healthcare Diagnostics Inc | Emit Antileptic Drug Calibrators 2 | Vial: 3 mL | 6/11/2018
Siemens Healthcare Diagnostics Inc | Emit Antileptic Drug Calibrators 3 | Vial: 3 mL | 6/11/2018
Siemens Healthcare Diagnostics Inc | Emit Antileptic Drug Calibrators 4 | Vial: 3 mL | 6/11/2018
Siemens Healthcare Diagnostics Inc | Emit Antileptic Drug Calibrators 5 | Vial: 3 mL | 6/11/2018
Siemens Healthcare Diagnostics Inc | Emit® tox Serum Calibrators | Carton: 3 vials | 5/25/2018
Siemens Healthcare Diagnostics Inc | Emit® tox Serum Low Calibrator | Vial: 3 mL | 5/25/2018
Siemens Healthcare Diagnostics Inc | Emit® tox Serum Medium Calibrator | Vial: 3 mL | 5/25/2018
Siemens Healthcare Diagnostics Inc | Pilot AED Cal 1 | Vial: 3 mL | 6/11/2018
Siemens Healthcare Diagnostics Inc | Pilot AED Cal 2 | Vial: 3 mL | 6/11/2018
Siemens Healthcare Diagnostics Inc | Pilot AED Cal 3 | Vial: 3 mL | 6/11/2018
Siemens Healthcare Diagnostics Inc | Pilot AED Cal 4 | Vial: 3 mL | 6/11/2018
Siemens Healthcare Diagnostics Inc | Pilot AED Cal 5 | Vial: 3 mL | 6/11/2018
Siemens Healthcare Diagnostics Inc | Pilot Tox Serum Low Cal | Bottle/Tube: 4 mL-250 mL | 5/25/2018
Siemens Healthcare Diagnostics Inc | Pilot Tox Serum Med Cal | Bottle/Tube: 4 mL-250 mL | 5/25/2018
Siemens Healthcare Diagnostics Products Limited | IMMULITE 2000 Systems AND Androstenedione | Kit (200 test kit size) | 5/30/2017
Siemens Healthcare Diagnostics Products Limited | IMMULITE 2000 Systems E2 Adjustor L | Amber vial: 2 mL | 5/31/2017
Siemens Healthcare Diagnostics Products Limited | IMMULITE 2000 Systems E2 Estradiol | Kit (200 test kit size) | 5/31/2017
Siemens Healthcare Diagnostics Products Limited | IMMULITE 2000 Systems E2 Estradiol | Kit (600 test kit size) | 5/31/2017
Siemens Healthcare Diagnostics Products Limited | IMMULITE 2000 Systems PHE Phenobarbital | Kit (200 test kit size) | 5/30/2017
Siemens Healthcare Diagnostics Products Limited | IMMULITE 2000 Systems TES Adjustor L | Amber vial: 4 mL | 5/30/2017
Siemens Healthcare Diagnostics Products Limited | IMMULITE 2000 Systems TES Total Testosterone | Kit (200 test kit size) | 5/30/2017
Siemens Healthcare Diagnostics Products Limited | IMMULITE 2000 Systems TES Total Testosterone | Kit (600 test kit size) | 5/30/2017
Siemens Healthcare Diagnostics Products Limited | IMMULITE Systems AND Adjustor H | Amber vial: 2 mL | 5/30/2017
Siemens Healthcare Diagnostics Products Limited | IMMULITE Systems AND Adjustor L | Amber vial: 2 mL | 5/30/2017
Siemens Healthcare Diagnostics Products Limited | IMMULITE Systems AND Calibration Verification Material (CVM) Androstenedione | Kit: 4 vials, 2 mL each | 5/30/2017
Siemens Healthcare Diagnostics Products Limited | IMMULITE Systems AND CVM 2 | Amber vial: 2 mL | 5/30/2017
Siemens Healthcare Diagnostics Products Limited | IMMULITE Systems AND CVM 3 | Amber vial: 2 mL | 5/30/2017
Siemens Healthcare Diagnostics Products Limited | IMMULITE Systems AND CVM 4 | Amber vial: 2 mL | 5/30/2017
Siemens Healthcare Diagnostics Products Limited | IMMULITE Systems E2 Adjustor H | Amber vial: 2 mL | 5/31/2017
Siemens Healthcare Diagnostics Products Limited | IMMULITE Systems E2 Calibration Verification Material (CVM) Estradiol | Kit: 4 vials, 2 mL each | 5/30/2017
Siemens Healthcare Diagnostics Products Limited | IMMULITE Systems E2 Control 1 | Glass vial: 2 mL | 5/31/2017
Siemens Healthcare Diagnostics Products Limited | IMMULITE Systems E2 Control Estradiol | Kit: 1 vial, 2 mL | 5/31/2017
Siemens Healthcare Diagnostics Products Limited | IMMULITE Systems E2 CVM 2 | Amber vial: 2 mL | 5/30/2017
Siemens Healthcare Diagnostics Products Limited | IMMULITE Systems E2 CVM 3 | Amber vial: 2 mL | 5/30/2017
Siemens Healthcare Diagnostics Products Limited | IMMULITE Systems E2 CVM 4 | Amber vial: 2 mL | 5/30/2017
Siemens Healthcare Diagnostics Products Limited | IMMULITE Systems K9CON Control | Kit: 2 vials, 2 mL each | 11/27/2017
Siemens Healthcare Diagnostics Products Limited | IMMULITE Systems PHE Adjustor H | Amber vial: 2 mL | 5/30/2017
Siemens Healthcare Diagnostics Products Limited | IMMULITE Systems PHE Adjustor L | Amber vial: 2 mL | 5/30/2017
Siemens Healthcare Diagnostics Products Limited | IMMULITE Systems SDC Control 1 | Amber vial: 337 mg | 5/31/2017
Siemens Healthcare Diagnostics Products Limited | IMMULITE Systems SDC Control 2 | Amber vial: 337 mg | 5/31/2017
Siemens Healthcare Diagnostics Products Limited | IMMULITE Systems SDC Control Serum Drug Control Module | Kit: 2 vials, 337 mg each | 5/31/2017
Siemens Healthcare Diagnostics Products Limited | IMMULITE Systems TES Adjustor H | Amber vial: 4 mL | 5/30/2017
Siemens Healthcare Diagnostics Products Limited | IMMULITE Systems TES Calibration Verification Material (CVM) Total Testosterone | Kit: 4 vials, 2 mL each | 5/30/2017
Siemens Healthcare Diagnostics Products Limited | IMMULITE Systems TES CVM 2 | Amber vial: 2 mL | 5/30/2017
Siemens Healthcare Diagnostics Products Limited | IMMULITE Systems TES CVM 3 | Amber vial: 2 mL | 5/30/2017
Siemens Healthcare Diagnostics Products Limited | IMMULITE Systems TES CVM 4 | Amber vial: 2 mL | 5/30/2017
Siemens Healthcare Diagnostics Products Limited | IMMULITE/IMMULITE 1,000 Systems AND Androstenedione | Kit (100 test kit size) | 5/30/2017
Siemens Healthcare Diagnostics Products Limited | IMMULITE/IMMULITE 1,000 Systems E2 Estradiol | Kit (100 test kit size) | 5/31/2017
Siemens Healthcare Diagnostics Products Limited | IMMULITE/IMMULITE 1,000 Systems PHE Phenobarbital | Kit (100 test kit size) | 5/30/2017
Siemens Healthcare Diagnostics Products Limited | IMMULITE/IMMULITE 1,000 Systems TES Total Testosterone | Kit (100 test kit size) | 5/30/2017
Siemens Healthcare Diagnostics, Inc | ACS Cal E LO Bulk | Plastic bottle/tank: 0.5 L-500 L | 4/26/2017
Siemens Healthcare Diagnostics, Inc | ACS EPHNB L/R BULK | Plastic tank: 0.5-1400 L | 5/31/2017
Siemens Healthcare Diagnostics, Inc | ADVIA Centaur Calibrator 30 (2PK) | Kit: 2 vials per level, 4 vials per kit | 4/26/2017
Siemens Healthcare Diagnostics, Inc | ADVIA Centaur Calibrator 30 (6PK) | Kit: 6 vials per level, 12 vials per kit | 4/26/2017
Siemens Healthcare Diagnostics, Inc | ADVIA Centaur Calibrator E (2PK) | Kit: 2 vials per level, 4 vials per kit | 4/26/2017
Siemens Healthcare Diagnostics, Inc | ADVIA Centaur Calibrator E (6PK) | Kit: 6 vials per level, 12 vials per kit | 4/26/2017
Siemens Healthcare Diagnostics, Inc | ADVIA Centaur FER (250 Test Kit) | Kit: 5 packs, 22.5 mL each | 5/30/2017
Siemens Healthcare Diagnostics, Inc | ADVIA Centaur FER (50 Test Kit) | Kit: 1 pack, 22.5 mL | 5/30/2017
Siemens Healthcare Diagnostics, Inc | ADVIA Centaur FER ReadyPack | Plastic pack: 22.5 mL | 5/30/2017
Siemens Healthcare Diagnostics, Inc | ADVIA Centaur MCM Testosterone (Kit) | Kit: 7 vials, 1 mL each | 5/30/2017
Siemens Healthcare Diagnostics, Inc | ADVIA Centaur MCM TSTII (Kit) | Kit: 7 vials, 1 mL each | 5/30/2017
Siemens Healthcare Diagnostics, Inc | ADVIA Centaur PHNB (50 Test Kit) | Kit: 1 pack, 2.5 mL | 9/18/2017
Siemens Healthcare Diagnostics, Inc | ADVIA Centaur PHNB Calibrator | Kit: 4 vials, 2 mL each | 5/31/2017
Siemens Healthcare Diagnostics, Inc | ADVIA Centaur PHNB ReadyPack | Plastic pack: 2.5 mL | 5/31/2017
Siemens Healthcare Diagnostics, Inc | ADVIA Centaur TSTII (100 Test Kit) | Kit: 2 vials, 2 mL each | 5/30/2017
Siemens Healthcare Diagnostics, Inc | ADVIA Centaur TSTII (500 Test Kit) | Kit: 4 vials, 2 mL each | 5/30/2017
Siemens Healthcare Diagnostics, Inc | ADVIA Centaur TSTO (250 Test Kit) | Kit: 5 packs, 5 mL each | 5/31/2017
Siemens Healthcare Diagnostics, Inc | ADVIA Centaur TSTO (50 Test Kit) | Kit: 1 pack, 5 mL | 5/31/2017
Siemens Healthcare Diagnostics, Inc | ADVIA Centaur TSTO REL | Plastic pack: 5 mL | 5/31/2017
Siemens Healthcare Diagnostics, Inc | ADVIA Chemistry MULTI-DRUG CONTROLS | Box: 6 Bottles, 5 mL | 5/26/2017
Siemens Healthcare Diagnostics, Inc | ADVIA Chemistry TOX CAL 1 | Box: 1 Bottle, 5 mL | 5/22/2017
Siemens Healthcare Diagnostics, Inc | ADVIA Chemistry TOX CAL 2 | Box: 1 Bottle, 5 mL | 5/22/2017
Siemens Healthcare Diagnostics, Inc | ADVIA Chemistry TOX CAL 3 | Box: 1 Bottle, 5 mL | 5/22/2017
Siemens Healthcare Diagnostics, Inc | ADVIA Chemistry TOX CAL 4 | Box: 1 Bottle, 5 mL | 5/22/2017
Siemens Healthcare Diagnostics, Inc | Atellica CH Drug Cal | Vial: 3 mL | 3/21/2017
Siemens Healthcare Diagnostics, Inc | Atellica CH MULTIDRUG QC | Carton: 6 vials, 5 mL each | 8/18/2017
Siemens Healthcare Diagnostics, Inc | Atellica IM Cal 30 (2PK) | Kit: 2 vials per level, 4 vials per kit | 4/26/2017
Siemens Healthcare Diagnostics, Inc | Atellica IM Cal 30 (6PK) | Kit: 6 vials per level, 12 vials per kit | 4/26/2017
Siemens Healthcare Diagnostics, Inc | Atellica IM Cal 30 H | Glass vial: 10 mL | 4/26/2017
Siemens Healthcare Diagnostics, Inc | Atellica IM Cal 30 L | Glass vial: 10 mL | 4/26/2017
Siemens Healthcare Diagnostics, Inc | Atellica IM Cal E (2PK) | Kit: 2 vials per level, 4 vials per kit | 4/26/2017
Siemens Healthcare Diagnostics, Inc | Atellica IM Cal E (6PK) | Kit: 6 vials per level, 12 vials per kit | 4/26/2017
Siemens Healthcare Diagnostics, Inc | Atellica IM Cal E H | Glass vial: 10 mL | 4/26/2017
Siemens Healthcare Diagnostics, Inc | Atellica IM Cal E L | Glass vial: 10 mL | 4/26/2017
Siemens Healthcare Diagnostics, Inc | Atellica IM Fer (450 Test Kit) | Kit: 5 packs, 22.5 mL each | 5/30/2017
Siemens Healthcare Diagnostics, Inc | Atellica IM Fer (90 Test Kit) | Kit: 1 pack, 22.5 mL | 5/30/2017
Siemens Healthcare Diagnostics, Inc | Atellica IM Fer ReadyPack | Plastic pack: 22.5 mL | 5/30/2017
Siemens Healthcare Diagnostics, Inc | Atellica IM System Monitoring Test Multi-Probe Check | Kit: 5 Packs | 10/31/2017
Siemens Healthcare Diagnostics, Inc | Atellica IM System Monitoring Test Multi-Probe Check ReadyPack | Plastic pack: 44 mL | 10/31/2017
Siemens Healthcare Diagnostics, Inc | Atellica IM TSTII (100 Test Kit) | Kit: 2 vials, 2 mL each | 5/30/2017
Siemens Healthcare Diagnostics, Inc | Atellica IM TSTII (500 Test Kit) | Kit: 4 vials, 2 mL each | 5/30/2017
Siemens Healthcare Diagnostics, Inc | Atellica IM TSTII CAL H | Glass vial: 2 mL | 5/30/2017
Siemens Healthcare Diagnostics, Inc | Atellica IM TSTII CAL L | Glass vial: 2 mL | 5/30/2017
Siemens Healthcare Diagnostics, Inc | Atellica IM TSTII MCM (Kit) | Kit: 7 vials, 1 mL each | 5/30/2017
Siemens Healthcare Diagnostics, Inc | Atellica IM TSTII MCM, Levels 2-7 | Glass vial: 1 mL | 5/30/2017
Siemens Healthcare Diagnostics, Inc | BK Emit II Plus Oxycodone Negative Control 300 | Bulk Container: 1 L-15 L | 6/5/2017
Siemens Healthcare Diagnostics, Inc | BK Emit II Plus Oxycodone Positive Control 100 | Bulk Container: 1 L-30 L | 6/5/2017
Siemens Healthcare Diagnostics, Inc | BK Emit II Plus Oxycodone Positive Control 300 | Bulk Container: 1 L-10 L | 6/5/2017
Siemens Healthcare Diagnostics, Inc | BK Emit II Plus Specialty Multi Drug Calibrator/Control LVL 1 | Bulk Container: 1 L-20 L | 6/5/2017
Siemens Healthcare Diagnostics, Inc | CAL PHNB H | Glass vial: 2 mL | 5/31/2017
Siemens Healthcare Diagnostics, Inc | CAL PHNB L | Glass vial: 2 mL | 5/31/2017
Siemens Healthcare Diagnostics, Inc | Calibrator 30 H | Glass vial: 10 mL | 4/26/2017
Siemens Healthcare Diagnostics, Inc | Calibrator 30 L | Glass vial: 10 mL | 4/26/2017
Siemens Healthcare Diagnostics, Inc | Calibrator E H | Glass vial: 10 mL | 4/26/2017
Siemens Healthcare Diagnostics, Inc | Calibrator E L | Glass vial: 10 mL | 4/26/2017
Siemens Healthcare Diagnostics, Inc | Cen Cal 30 LO Bulk | Bulk Container: 0.5 L-500 L | 4/26/2017
Siemens Healthcare Diagnostics, Inc | CEN TSTII CAL LO BULK | Plastic bottle/tank: 0.5-500 L | 5/30/2017
Siemens Healthcare Diagnostics, Inc | Drug Cal 2 | Vial: 3 mL | 3/21/2017
Siemens Healthcare Diagnostics, Inc | Drug Cal 3 | Vial: 3 mL | 3/21/2017
Siemens Healthcare Diagnostics, Inc | Drug Cal 4 | Vial: 3 mL | 3/21/2017
Siemens Healthcare Diagnostics, Inc | Drug Cal 5 | Vial: 3 mL | 3/21/2017
Siemens Healthcare Diagnostics, Inc | IM TSTII CAL H | Glass vial: 2 mL | 5/30/2017
Siemens Healthcare Diagnostics, Inc | IM TSTII CAL L | Glass vial: 2 mL | 5/30/2017
Siemens Healthcare Diagnostics, Inc | MCM TSTII, Levels 2-7 | Glass vial: 1 mL | 5/30/2017
Siemens Healthcare Diagnostics, Inc | MCM TSTO, Levels 2-7 | Glass vial: 1 mL | 5/30/2017
Siemens Healthcare Diagnostics, Inc | MULTIDRUG QC, CONTROL 1 | Vial: 5 mL | 8/18/2017
Siemens Healthcare Diagnostics, Inc | MULTIDRUG QC, CONTROL 2 | Vial: 5 mL | 8/18/2017
Siemens Healthcare Diagnostics, Inc | PHNB SP/LR | Plastic pack: 2.5 mL | 9/18/2017
Siemens Healthcare Diagnostics, Inc | TSTO Releasing Agent | Plastic pack: 32 mL | 11/8/2017
SPEX CertiPrep Group, LLC | Cannabichromenic Acid (CBCA), 1,000 μg/ml in acetonitrile | Glass ampule: 2 mL | 3/31/2017
SPEX CertiPrep Group, LLC | Cannabidivarinic Acid (CBDVA), 1,000 μg/ml in acetonitrile | Glass ampule: 2 mL | 3/31/2017
SPEX CertiPrep Group, LLC | Tetrahydrocannabidivarin (THCV), 1,000 μg/ml in methanol | Glass ampule: 2 mL | 3/31/2017
SPEX CertiPrep Group, LLC | Tetrahydrocannabidivarinic Acid (THCVA), 1,000 μg/ml in acetonitrile | Glass ampule: 2 mL | 3/31/2017
SPEX CertiPrep Group, LLC | Tetrahydrocannabinolic Acid (THCA), 1,000 μg/ml in acetonitrile | Glass ampule: 2 mL | 3/31/2017
VHG Labs dba LGC Standards | (−)-Cannabidiol 1.0 mg/mL in Methanol | Glass vial: 1 mL | 5/10/2017
VHG Labs dba LGC Standards | (−)-delta9-THC (Dronabinol) 0.1 mg/mL in Methanol | Glass vial: 1 mL | 5/10/2017
VHG Labs dba LGC Standards | (−)-delta9-THC (Dronabinol) 1.0 mg/mL in Methanol | Glass vial: 1 mL | 5/10/2017
VHG Labs dba LGC Standards | Cannabinol 1.0 mg/mL in Methanol | Glass vial: 1 mL | 5/10/2017
VHG Labs dba LGC Standards | trans-11-Hydroxy-delta9-THC 0.1 mg/mL in Methanol | Glass vial: 1 mL | 5/10/2017
VHG Labs dba LGC Standards | trans-11-Hydroxy-delta9-THC 1.0 mg/mL in Methanol | Glass vial: 1 mL | 5/10/2017
VHG Labs dba LGC Standards | trans-11-Hydroxy-delta9-THC-D3 0.1 mg/mL in Methanol | Glass vial: 1 mL | 5/10/2017
VHG Labs dba LGC Standards | trans-11-Nor-9-carboxy-delta9-THC 0.1 mg/mL in Methanol | Glass vial: 1 mL | 5/10/2017
VHG Labs dba LGC Standards | trans-11-Nor-9-carboxy-delta9-THC-D3 0.1 mg/mL in Methanol | Glass vial: 1 mL | 5/10/2017
VHG Labs dba LGC Standards | trans-11-Nor-9-carboxy-delta9-THC-D3 1.0 mg/mL in Methanol | Glass vial: 1 mL | 5/10/2017
WSLH | Chem/ENDO/TDM | Amber vial: 5 mL | 3/27/2017
WSLH | Chemistry-Waived | Amber vial: 5 mL | 3/27/2017
WSLH | Immunoassay Chemistry | Amber vial: 5 mL | 3/27/2017
Zoetis | Carysta® Phenobarbital | Box: 6 or 12 test kits | 4/6/2018
Zoetis | Heska® Element COAG Phenobarbital Test | Box: 6 or 12 test kits | 4/6/2018
Zoetis | QuickVet® Phenobarbital | Box: 6 or 12 test kits | 4/6/2018

The Assistant Administrator has found that each of the compounds, mixtures, and preparations described in Chart II below is not consistent with the criteria stated in 21 U.S.C. 811(g)(3)(B) and in 21 CFR 1308.23. Accordingly, the Assistant Administrator has determined that the chemical preparations or mixtures generally described in Chart II below and specifically described in the application materials received by DEA, are not exempt from application of any part of the CSA or from application of any part of the CFR, with regard to the requested exemption pursuant to 21 CFR 1308.23, as of the date that was provided in the determination letters to the individual requesters.

Chart II
Supplier | Product name | Form | Application date
Agilent Technologies | Cannabinoid Mix C | Amber ampule: 1 mL | 6/1/2018
Agilent Technologies | Cannabinoid Mix Standards Kit | Kit: 2 glass ampules | 4/16/2018
Agilent Technologies | Cannabinoid Sub-Mix 2 Standards Kit | Glass ampule: 1 mL | 4/16/2018
Cambridge Isotope Laboratories, Inc | 11-Ketotestosterone (16,16,17-D3, 98%) Chemical Purity 95% | Glass vial: 1 mg | 4/27/2018
Cambridge Isotope Laboratories, Inc | 4-Androsten-11B,17B-diol-3-one (9,11,12,12-D4, 98%) Chemical Purity 95% | Glass vial: 1 mg | 4/27/2018
Cambridge Isotope Laboratories, Inc | 4-Androsten-6B,17B-diol-3-one (16,16,17-D3, 98%) | Glass vial: 1 mg | 4/27/2018
Cambridge Isotope Laboratories, Inc | 4-Androstene-3,17-dione Unlabeled 1 mg | Glass vial: 1 mg | 4/27/2018
Cambridge Isotope Laboratories, Inc | 5A-Androstan-3,17-dione (Androstanedione) (2,3,4-13C3, 99%) 1 mg | Glass vial: 1 mg | 4/27/2018
Cambridge Isotope Laboratories, Inc | 5A-Androstan-3,17-dione (Androstanedione) Unlabeled 1 mg | Glass vial: 1 mg | 4/27/2018
Cambridge Isotope Laboratories, Inc | 5A-Androstan-3A-ol-17B-diol (16,16,17-D3, 98%) | Glass vial: 1 mg | 4/27/2018
Cambridge Isotope Laboratories, Inc | 5A-Androstan-3A-ol-17B-diol Unlabeled 1 mg | Glass vial: 1 mg | 4/27/2018
Cambridge Isotope Laboratories, Inc | 5-Alpha-Dihydrotestosterone (2,2,4,4-D4, 98%) 95% Chemical Purity | Glass vial: 1 mg | 4/27/2018
Cambridge Isotope Laboratories, Inc | 5-Alpha-Dihydrotestosterone 97% Chemical Purity (2,3,4-13C3, 99%) | Glass vial: 1 mg | 4/27/2018
Cambridge Isotope Laboratories, Inc | 5-Androsten-3Beta,17Beta-diol (16,16,17-D3, 98%) Chemical Purity 95% | Glass vial: 1 mg | 4/27/2018
Cambridge Isotope Laboratories, Inc | Androstanediol Glucuronide, Sodium Salt (16,16,17-D3, 98%) Chemical Purity 97% | Glass vial: 1 mg | 4/27/2018
Cayman Chemical Company | (±)-cis-3-methyl Fentanyl (hydrochloride) (CRM); 1 mg/mL in Methanol | Glass ampule: 1 mL | 4/21/2017
Cayman Chemical Company | (±)-cis-3-methyl Fentanyl (hydrochloride) (CRM); 100 µg/mL in Methanol | Glass ampule: 1 mL | 4/21/2017
Cayman Chemical Company | Butyryl fentanyl (hydrochloride) (CRM); 1 mg/mL in Methanol | Glass ampule: 1 mL | 4/21/2017
Cayman Chemical Company | Butyryl fentanyl (hydrochloride) (CRM); 100 µg/mL in Methanol | Glass ampule: 1 mL | 4/21/2017
Cayman Chemical Company | Carfentanil (CRM); 1 mg/mL in Methanol | Glass ampule: 1 mL | 4/21/2017
Cayman Chemical Company | Carfentanil (CRM); 100 µg/mL in Methanol | Glass ampule: 1 mL | 4/21/2017
Cayman Chemical Company | Furanyl fentanyl (hydrochloride) (CRM); 1 mg/mL in Methanol | Glass ampule: 1 mL | 4/21/2017
Cayman Chemical Company | Furanyl fentanyl (hydrochloride) (CRM); 100 µg/mL in Methanol | Glass ampule: 1 mL | 4/21/2017
Cayman Chemical Company | GC-MS Drug Mixture 3 (1 mg/mL in Acetonitrile) | Glass ampule: 1 mL | 2/13/2018
Cayman Chemical Company | para-Fluorofentanyl (hydrochloride) (CRM); 1 mg/mL in Methanol | Glass ampule: 1 mL | 4/21/2017
Cayman Chemical Company | para-Fluorofentanyl (hydrochloride) (CRM); 100 µg/mL in Methanol | Glass ampule: 1 mL | 4/21/2017
Cayman Chemical Company | Phytocannabinoid Mixture 10; 1 mg/mL in Acetonitrile | Glass ampule: 1 mL | 1/13/2017
Cayman Chemical Company | Phytocannabinoid Mixture 10; 500 µg/mL ea in Acetonitrile | Glass ampule: 1 mL | 3/8/2017
Cayman Chemical Company | Phytocannabinoid Mixture 11; 1 mg/mL in Acetonitrile | Glass ampule: 1 mL | 1/13/2017
Cayman Chemical Company | Phytocannabinoid Mixture 11; 500 µg/mL ea in Acetonitrile | Glass ampule: 1 mL | 3/8/2017
Cayman Chemical Company | Phytocannabinoid Mixture 4 (CRM); 1 mg/mL ea in Acetonitrile | Amber ampule: 1 mL | 4/5/2018
Cayman Chemical Company | Phytocannabinoid Mixture 5 (CRM); 1 mg/mL ea in Acetonitrile | Amber ampule: 1 mL | 4/5/2018
Cayman Chemical Company | Phytocannabinoid Mixture 5 (CRM); 750 µg/mL ea in Acetonitrile | Amber ampule: 1 mL | 4/5/2018
Cayman Chemical Company | Phytocannabinoid Mixture 6 (CRM); 1 mg/mL ea in Acetonitrile | Amber ampule: 1 mL | 4/5/2018
Cayman Chemical Company | Phytocannabinoid Mixture 6 (CRM); 750 µg/mL ea in Acetonitrile | Amber ampule: 1 mL | 4/5/2018
Cayman Chemical Company | Phytocannabinoid Mixture 9 (CRM); 500 µg/mL ea in Acetonitrile | Amber ampule: 1 mL | 4/5/2018
Cayman Chemical Company | Phytocannabinoid Mixture 9 (CRM); 750 µg/mL ea in Acetonitrile | Amber ampule: 1 mL | 4/5/2018
Cayman Chemical Company | β-Hydroxythiofentanyl (hydrochloride) (CRM); 1 mg/mL in Methanol | Glass ampule: 1 mL | 4/21/2017
Cayman Chemical Company | β-Hydroxythiofentanyl (hydrochloride) (CRM); 100 µg/mL in Methanol | Glass ampule: 1 mL | 4/21/2017
Chemtos, LLC | Alprazolam (CRM) (1 mg/mL in methanol) | Amber vial: 1 mL | 7/19/2017
Chemtos, LLC | Alprazolam-d5 (CRM) (1 mg/mL in methanol) | Amber vial: 1 mL | 7/19/2017
Chemtos, LLC | Fentanyl (CRM) (1 mg/mL in methanol) | Amber vial: 1 mL | 7/19/2017
Chemtos, LLC | Fentanyl-d5 (CRM) (0.1 mg/mL in methanol) | Amber vial: 1 mL | 7/19/2017
Chemtos, LLC | Fentanyl-d5 (CRM) (1 mg/mL in methanol) | Amber vial: 1 mL | 7/19/2017
Chemtos, LLC | Oxymorphone (CRM) (1 mg/mL in methanol) | Amber vial: 1 mL | 7/19/2017
Chemtos, LLC | Oxymorphone-d3 (CRM) (1 mg/mL in methanol) | Amber vial: 1 mL | 7/19/2017
Helena Laboratories | SPIFE 4000 IFE Buffer Powder Bulk, Cat. No. 552628 | Bulk powder | 10/9/2017
LGC | EPA Method 8270 Appendix IX Mix 1 with Phentermine, 17 components, 2000 µg/mL in Dichloromethane 5 x 1 mL | Clamshell: 5 vials, 1 mL each | 6/15/2017
Lipomed Inc | Cannabidiolic acid (CBDA) (1 mg/1 mL acetonitrile) | Glass ampule: 1 mL | 4/13/2018
Lipomed Inc | Cannabigerol (CBG) (1 mg/1 mL ethanol) | Glass ampule: 1 mL | 4/13/2018
Lipomed Inc | Lormetazepam-D3 (1 mg/1 mL acetonitrile) | Glass ampule: 1 mL | 4/13/2018
Lipomed Inc | Butyrylfentanyl (1 mg free base/1 mL methanol) | Glass ampule: 1 mL | 10/31/2017
Lipomed Inc | d,l-cis-3-Methylfentanyl.HCl (1 mg free base/1 mL methanol) | Glass ampule: 1 mL | 10/31/2017
Lipomed Inc | d,l-trans-3-Methylfentanyl.HCl (1 mg free base/1 mL methanol) | Glass ampule: 1 mL | 10/31/2017
Lipomed Inc | Fentanyl.citrate (1 mg free base/1 mL methanol) | Glass ampule: 1 mL | 10/31/2017
Lipomed Inc | Fentanyl-D5 (1 mg free base/1 mL methanol) | Glass ampule: 1 mL | 10/31/2017
Lipomed Inc | Remifentanil.HCl (1 mg free base/1 mL methanol) | Glass ampule: 1 mL | 10/31/2017
Lipomed Inc | Sufentanil-D5 (1 mg free base/1 mL methanol) | Glass ampule: 1 mL | 11/16/2017
o2si smart solutions | (±)-Amphetamine-D11 Solution, 1,000 mg/L, 5 x 1 mL in Methanol | Amber ampule: 1 mL x 5 | 9/15/2017
o2si smart solutions | (±)-Amphetamine-D5 (deuterium label on ring) Solution, 1,000 mg/L, 5 x 1 mL in Methanol | Amber ampule: 1 mL x 5 | 9/15/2017
o2si smart solutions | (±)-Amphetamine-D6 Solution, 1,000 mg/L, 5 x 1 mL in Methanol | Amber ampule: 1 mL x 5 | 9/15/2017
o2si smart solutions | (±)-Amphetamine-D8 Solution, 1,000 mg/L, 5 x 1 mL in Methanol | Amber ampule: 1 mL x 5 | 9/15/2017
o2si smart solutions | (±)-Methamphetamine Solution, 1,000 mg/L, 5 x 1 ml in Methanol | Amber ampule: 1 ml x 5 | 8/18/2017
o2si smart solutions | (±)-Methamphetamine-d11 Solution, 1,000 mg/L, 5 x 1 ml in Methanol | Amber ampule: 1 ml x 5 | 8/18/2017
o2si smart solutions | (±)-Methamphetamine-D5 Solution, 1,000 mg/L, 5 x 1 ml in Methanol | Amber ampule: 1 ml x 5 | 8/18/2017
o2si smart solutions | 8270 App. IX Solution 17-1, Minus Benzidine, 2,000 mg/L, 5 x 1 ml | Clamshell: 5 vials, 1 mL each | 6/15/2017
o2si smart solutions | a,a-Dimethylphenethylamine solution, 10,000 mg/L, 10 mL | Amber round: 10 mL | 6/23/2017
o2si smart solutions | Alfentanil HCL Solution, 400 mg/L, 3 x 1 ml | Glass ampules: 1 mL x 3 | 8/9/2017
o2si smart solutions | Alprazolam Solution, 400 mg/L, 2 x 1 ml | Glass ampules: 1 mL x 2 | 8/9/2017
o2si smart solutions | Alprazolam Solution, 400 mg/L, 3 x 1 mL | Glass ampules: 1 mL x 3 | 8/9/2017
o2si smart solutions | Amphetamine Solution, 1,000 mg/L, 5 x 1 mL in Methanol | Amber ampule: 1 mL x 5 | 9/15/2017
o2si smart solutions | Diazepam Solution, 1,000 mg/L, 5 x 1 mL in Methanol | Amber ampule: 1 mL x 5 | 10/2/2017
o2si smart solutions | ISO 17034 (±)-Amphetamine-D11 Solution, 1,000 mg/L, 5 x 1 mL in Methanol | Amber ampule: 1 mL x 5 | 9/15/2017
o2si smart solutions | ISO 17034 (±)-Amphetamine-D5 (deuterium label on ring) Solution, 1,000 mg/L, 5 x 1 mL in Methanol | Amber ampule: 1 mL x 5 | 9/15/2017
o2si smart solutions | ISO 17034 (±)-Amphetamine-D6 Solution, 1,000 mg/L, 5 x 1 mL in Methanol | Amber ampule: 1 mL x 5 | 9/15/2017
o2si smart solutions | ISO 17034 (±)-Amphetamine-D8 Solution, 1,000 mg/L, 5 x 1 mL in Methanol | Amber ampule: 1 mL x 5 | 9/15/2017
o2si smart solutions | ISO 17034 Amphetamine Solution, 1,000 mg/L, 5 x 1 mL in Methanol | Amber ampule: 1 mL x 5 | 9/15/2017
o2si smart solutions | ISO 17034 Diazepam Solution, 1,000 mg/L, 5 x 1 mL in Methanol | Amber ampule: 1 mL x 5 | 10/2/2017
o2si smart solutions | ISO 17034 Lysergic acid diethylamide Solution, 1,000 mg/L, 1 mL in Methanol | Amber ampule: 1 mL | 9/15/2017
o2si smart solutions | ISO 17034 Lysergic acid diethylamide Solution, 1,000 mg/L, 5 x 1 mL in Methanol | Amber ampule: 1 mL x 5 | 9/15/2017
o2si smart solutions | ISO 17034 Lysergic acid diethylamide Solution, 100 mg/L, 1 mL in Methanol | Amber ampule: 1 mL | 9/15/2017
o2si smart solutions | ISO 17034 Lysergic acid diethylamide Solution, 100 mg/L, 5 x 1 mL in Methanol | Amber ampule: 1 mL x 5 | 9/15/2017
o2si smart solutions | ISO 17034 Lysergic acid diethylamide Solution, 400 mg/L, 1 mL in Methanol | Amber ampule: 1 mL | 9/15/2017
o2si smart solutions | ISO 17034 Lysergic acid diethylamide Solution, 400 mg/L, 3 x 1 mL in Methanol | Amber ampule: 1 mL x 3 | 9/15/2017
o2si smart solutions | ISO 17034 Lysergic acid diethylamide Solution, 400 mg/L, 5 x 1 mL in Methanol | Amber ampule: 1 mL x 5 | 9/15/2017
o2si smart solutions | ISO 17034 S(+)-Amphetamine (dextro-Amphetamine) Solution, 1,000 mg/L, 5 x 1 mL in Acetonitrile | Amber ampule: 1 mL x 5 | 9/15/2017
o2si smart solutions | Lysergic acid diethylamide Solution, 1,000 mg/L, 1 mL in Methanol | Amber ampule: 1 mL | 9/15/2017
o2si smart solutions | Lysergic acid diethylamide Solution, 1,000 mg/L, 5 x 1 mL in Methanol | Amber ampule: 1 mL x 5 | 9/15/2017
o2si smart solutions | Lysergic acid diethylamide Solution, 100 mg/L, 1 mL in Methanol | Amber ampule: 1 mL | 9/15/2017
o2si smart solutions | Lysergic acid diethylamide Solution, 100 mg/L, 1 mL in Methanol | Amber ampule: 1 mL | 9/15/2017
o2si smart solutions | Lysergic acid diethylamide Solution, 100 mg/L, 5 x 1 mL in Methanol | Amber ampule: 1 mL x 5 | 9/15/2017
o2si smart solutions | Lysergic acid diethylamide Solution, 400 mg/L, 1 mL in Methanol | Amber ampule: 1 mL | 9/15/2017
o2si smart solutions | Lysergic acid diethylamide Solution, 400 mg/L, 2 x 1 mL in Acetonitrile | Amber ampule: 1 mL x 2 | 9/15/2017
o2si smart solutions | Lysergic acid diethylamide Solution, 400 mg/L, 2 x 1 mL in Acetonitrile | Amber ampule: 1 mL x 2 | 9/15/2017
o2si smart solutions | Lysergic acid diethylamide Solution, 400 mg/L, 3 x 1 mL in Acetonitrile | Amber ampule: 1 mL x 3 | 9/15/2017
o2si smart solutions | Lysergic acid diethylamide Solution, 400 mg/L, 3 x 1 mL in Methanol | Amber ampule: 1 mL x 3 | 9/15/2017
o2si smart solutions | Lysergic acid diethylamide Solution, 400 mg/L, 5 x 1 mL in Methanol | Amber ampule: 1 mL x 5 | 9/15/2017
o2si smart solutions | Methamphetamine HCl Solution, 1,000 mg/L, 5 x 1 ml in Methanol | Amber ampule: 1 ml x 5 | 8/18/2017
o2si smart solutions | Methamphetamine Solution, 1,000 mg/L, 5 x 1 ml in Methanol | Amber ampule: 1 ml x 5 | 8/18/2017
o2si smart solutions | R(−)-Methamphetamine Solution 1,000 mg/L, 5 x 1 ml in Methanol | Amber ampule: 1 ml x 5 | 8/18/2017
o2si smart solutions | S(+)-Amphetamine (dextro-Amphetamine) Solution, 1,000 mg/L, 5 x 1 mL in Acetonitrile | Amber ampule: 1 mL x 5 | 9/15/2017
o2si smart solutions | Testosterone Methylene Chloride 10,000 mg/L | Amber ampule: 1 mL | 6/15/2017
o2si smart solutions | Testosterone Methylene Chloride 10,000 mg/L | Amber ampule: 1 mL | 6/23/2017
Siemens Healthcare Diagnostics Inc | ACS CAL L HI BULK | Plastic bottle/tank: 0.5-500 L | 5/31/2017
Siemens Healthcare Diagnostics Inc | ACS CAL L LO BULK | Plastic bottle/tank: 0.5-500 L | 5/31/2017
Siemens Healthcare Diagnostics Inc | ACS FrT4 V1,V2 L/R Bulk | Plastic tank: 0.5 L-1400 L | 4/26/2017
Siemens Healthcare Diagnostics Inc | ACS SPT Wash S/P Bulk | Plastic tank: 0.5 L-1400 L | 4/26/2017
Siemens Healthcare Diagnostics Inc | ACS T4 L/R Bulk | Plastic tank: 0.5-1400 L | 5/31/2017
Siemens Healthcare Diagnostics Inc | ACS T4 S/P Bulk | Plastic tank: 0.5-1400 L | 5/31/2017
Siemens Healthcare Diagnostics Inc | ACS TSTO REL AGT BULK | Plastic tank: 0.5-1400 L | 5/31/2017
Siemens Healthcare Diagnostics Inc | ADVIA Centaur FT4 (250 test kit) | Kit: 5 pack | 4/26/2017
Siemens Healthcare Diagnostics Inc | ADVIA Centaur FT4 (50 test kit) | Kit: 1 pack | 4/26/2017
Siemens Healthcare Diagnostics Inc | ADVIA Centaur FT4 ReadyPack | Plastic pack: 44 mL solid phase reagent; 16.0 mL lite reagent | 4/26/2017
Siemens Healthcare Diagnostics Inc | ADVIA Centaur SMT Multi-Probe Check | Plastic pack: 44 mL | 4/26/2017
Siemens Healthcare Diagnostics Inc | ADVIA Centaur T4 (100 test kits) | Kit: 1 pack | 5/31/2017
Siemens Healthcare Diagnostics Inc | ADVIA Centaur T4 (500 test kits) | Kit: 5 packs | 5/31/2017
Siemens Healthcare Diagnostics Inc | ADVIA Centaur T4 ReadyPack | Plastic pack: 44 mL solid phase, 16 mL lite reagent | 5/31/2017
Siemens Healthcare Diagnostics Inc | Atellica IM FT4 (250 test kit) | Kit: 5 packs | 4/26/2017
Siemens Healthcare Diagnostics Inc | Atellica IM FT4 (50 test kit) | Kit: 1 pack | 4/26/2017
Siemens Healthcare Diagnostics Inc | Atellica IM FT4 ReadyPack | Plastic pack: 44 mL solid phase reagent; 16.0 mL lite reagent | 4/26/2017
Siemens Healthcare Diagnostics Inc | Atellica IM T4 (150 Test Kit) | Kit: 1 pack | 5/31/2017
Siemens Healthcare Diagnostics Inc | Atellica IM T4 (750 Test Kit) | Kit: 5 packs | 5/31/2017
Siemens Healthcare Diagnostics Inc | Atellica IM T4 ReadyPack | Plastic pack: 44 mL solid phase, 16 mL lite reagent | 5/31/2017
Siemens Healthcare Diagnostics Inc | Bulk Tox Serum Low Cal | Carboy: 4 L-20 L | 5/25/2018
Siemens Healthcare Diagnostics Inc | Bulk Tox Serum Med Cal | Carboy: 4 L-20 L | 5/25/2018
Siemens Healthcare Diagnostics Inc | Cen Cal 30 HI Bulk | Bulk Container: 0.5 L-500 L | 4/26/2017
Siemens Healthcare Diagnostics Inc | Cen T4 L/R Buffer(B4) | Steel tank: 500-6000 L | 5/31/2017
Siemens Healthcare Diagnostics Inc | Cen T4 L/R Bulk(B4) | Steel tank: 500-6000 L | 5/31/2017
Siemens Healthcare Diagnostics Inc | Cen T4 S/P Bulk(B4) | Steel tank: 500-6000 L | 5/31/2017
Siemens Healthcare Diagnostics Inc | Cent FT4 LA S/P Bulk | Plastic tank: 0.5 L-1400 L | 4/26/2017
Siemens Healthcare Diagnostics Inc | Cent FT4 LA S/P Bulk (B4) | Steel tank: 500 L-6000 L | 4/26/2017
Siemens Healthcare Diagnostics Inc | FT4 SP/LR | Plastic pack: 44 mL solid phase reagent; 16.0 mL lite reagent | 4/26/2017
Siemens Healthcare Diagnostics Inc | System Monitoring Test 5 pk Box | Kit: 5 Pack | 4/26/2017
Siemens Healthcare Diagnostics, Inc | ACS Cal E HI Bulk | Plastic bottle/tank: 0.5 L-500 L | 4/26/2017
Siemens Healthcare Diagnostics, Inc | ACS ET3 S/P Bulk | Plastic tank: 0.5-1400 L | 5/30/2017
Siemens Healthcare Diagnostics, Inc | ACS ET3/T3 L/R Bulk | Plastic tank: 0.5-1400 L | 5/30/2017
Siemens Healthcare Diagnostics, Inc | ACS FER 2 S/P Bulk | Plastic tank: 0.5-1400 L | 5/30/2017
Siemens Healthcare Diagnostics, Inc | ACS FER 2 Wetcake | Plastic container: 0.5-20 L | 5/30/2017
Siemens Healthcare Diagnostics, Inc | ACS Ferritin 2 Solid Phase Buffer | Plastic tank: 0.5-1400 L | 5/30/2017
Siemens Healthcare Diagnostics, Inc | ACS T3 Lite Reagent Buffer | Plastic tank: 0.5-1400 L | 5/30/2017
Siemens Healthcare Diagnostics, Inc | ACS TSTO MCM BULKSET | Plastic bottle/tank: 0.5-500 L | 5/30/2017
Siemens Healthcare Diagnostics, Inc | ADVIA Centaur T3 (400 Test Kit) | Kit: 5 packs | 5/30/2017
Siemens Healthcare Diagnostics, Inc | ADVIA Centaur T3 (80 Test Kit) | Kit: 1 pack | 5/30/2017
Siemens Healthcare Diagnostics, Inc | ADVIA Centaur T3 ReadyPack | Plastic pack: 24 mL solid phase, 8 mL lite reagent | 5/30/2017
Siemens Healthcare Diagnostics, Inc | Atellica IM T3 (120 Test Kit) | Kit: 1 pack | 5/30/2017
Siemens Healthcare Diagnostics, Inc | Atellica IM T3 (600 Test Kit) | Kit: 5 packs | 5/30/2017
Siemens Healthcare Diagnostics, Inc | Atellica IM T3 ReadyPack | Plastic pack: 24 mL solid phase, 8 mL lite reagent | 5/30/2017
Siemens Healthcare Diagnostics, Inc | BK Emit II Plus Specialty Multi Drug Calibrator/Control LVL 2 | Bulk Container: 1 L-20 L | 6/5/2017
Siemens Healthcare Diagnostics, Inc | BK Emit II Plus Specialty Multi Drug Calibrator/Control LVL 3 | Bulk Container: 1 L-20 L | 6/5/2017
Siemens Healthcare Diagnostics, Inc | BK Emit II Plus Specialty Multi Drug Calibrator/Control LVL 4 | Bulk Container: 1 L-20 L | 6/5/2017
Siemens Healthcare Diagnostics, Inc | Cen ET3 L/R Buffer(B4) | Steel tank: 500-6000 L | 5/30/2017
Siemens Healthcare Diagnostics, Inc | Cen ET3 L/R Bulk(B4) | Steel tank: 500-6000 L | 5/30/2017
Siemens Healthcare Diagnostics, Inc | Cen ET3 S/P Bulk(B4) | Steel tank: 500-6000 L | 5/30/2017
Siemens Healthcare Diagnostics, Inc | Cen FER S/P Buffer(B4) | Steel tank: 500-6000 L | 5/30/2017
Siemens Healthcare Diagnostics, Inc | CEN FER2 S/P Bulk(B4) | Steel tank: 500-6000 L | 5/30/2017
Siemens Healthcare Diagnostics, Inc | CEN TSTII CAL HI BULK | Plastic bottle/tank: 0.5-500 L | 5/30/2017
Siemens Healthcare Diagnostics, Inc | ET3 SP/LR | Plastic pack: 24 mL solid phase, 8 mL lite reagent | 5/30/2017
Siemens Healthcare Diagnostics, Inc | FER SP/LR | Plastic pack: 44 mL | 11/8/2017
Siemens Healthcare Diagnostics, Inc | T4 SP/LR | Plastic pack: 44 mL solid phase, 16 mL lite reagent | 11/8/2017
SPEX CertiPrep Group, LLC | 12 PT POTENCY MIX | Glass ampule: 2 mL | 3/31/2017
SPEX CertiPrep Group, LLC | 3 PT POTENCY MIX | Glass ampule: 2 mL | 3/31/2017
SPEX CertiPrep Group, LLC | 5 PT POTENCY MIX | Glass ampule: 2 mL | 3/31/2017

Scope of Approval

The exemptions are applicable only to the precise preparation or mixture described in the application submitted to the DEA in the form(s) listed in this order and only for those sections of the CSA and the CFR that are specifically identified. In accordance with 21 CFR 1308.24(h), any change in the quantitative or qualitative composition of the preparation or mixture, or change in the trade name or other designation of the preparation or mixture after the date of application requires a new application. In accordance with 21 CFR 1308.24(g), the DEA may prescribe requirements other than those set forth in § 1308.24(b)-(e) on a case-by-case basis for materials exempted in bulk quantities. Accordingly, in order to limit opportunity for diversion from the larger bulk quantities, the DEA has determined that each of the exempted bulk products listed in this order may only be used in-house by the manufacturer, and may not be distributed for any purpose, or transported to other facilities.

Additional exempt chemical preparation requests received between January 1, 2017, and June 30, 2018, and not otherwise referenced in this order may remain under consideration until the DEA receives additional information required, pursuant to 21 CFR 1308.23(d), as detailed in separate correspondence to individual requesters. The DEA's order on such requests will be communicated to the public in a future Federal Register publication.

The DEA also notes that these exemptions are limited to exemption from only those sections of the CSA and the CFR that are specifically identified in 21 CFR 1308.24(a). All other requirements of the CSA and the CFR apply, including registration as an importer as required by 21 U.S.C. 957.

Opportunity for Comment

Pursuant to 21 CFR 1308.23, any interested person may submit written comments on or objections to any chemical preparation in this order that has been approved or denied as exempt. If any comments or objections raise significant issues regarding any finding of fact or conclusion of law upon which this order is based, the Assistant Administrator will immediately suspend the effectiveness of any applicable part of this order until he may reconsider the application in light of the comments and objections filed.

Approved Exempt Chemical Preparations Are Posted on the DEA's Website

A list of all current exemptions, including those listed in this order, is available on the DEA's website at http://www.DEAdiversion.usdoj.gov/schedules/exempt/exempt_chemlist.pdf. The dates of applications of all current exemptions are posted for easy reference.

Dated: November 19, 2018.
John J. Martin,
Assistant Administrator.

[FR Doc. 2018-26067 Filed 11-30-18; 8:45 am]

BILLING CODE 4410-09-P